FEDERAL COMMUNICATIONS COMMISSION

47 CFR Ch. I

Unified Agenda of Federal Regulatory and Deregulatory Actions—Fall 2015

AGENCY: Federal Communications Commission.

ACTION: Semiannual regulatory agenda.

SUMMARY: Twice a year, in spring and fall, the Commission publishes in the Federal Register a list in the Unified Agenda of those major items and other significant proceedings under development or review that pertain to the Regulatory Flexibility Act. (U.S.C. 602). The Unified Agenda also provides the Code of Federal Regulations citations and legal authorities that govern these proceedings. The complete Unified Agenda will be published on the Internet in a searchable format at www.reginfo.gov.

ADDRESSES: Federal Communications Commission, 445 12th Street SW., Washington, DC 20554.

FOR FURTHER INFORMATION CONTACT: Maura McGowan, Telecommunications Specialist, Federal Communications Commission, 445 12th Street SW., Washington, DC 20554, (202) 418-0990.

SUPPLEMENTARY INFORMATION:

Unified Agenda of Major and Other Significant Proceedings

The Commission encourages public participation in its rulemaking process. To help keep the public informed of significant rulemaking proceedings, the Commission has prepared a list of important proceedings now in progress. The General Services Administration publishes the Unified Agenda in the Federal Register in the spring and fall of each year.

The following terms may be helpful in understanding the status of the proceedings included in this report:

Docket Number—assigned to a proceeding if the Commission has issued either a Notice of Proposed Rulemaking or a Notice of Inquiry concerning the matter under consideration. The Commission has used docket numbers since January 1, 1978. Docket numbers consist of the last two digits of the calendar year in which the docket was established plus a sequential number that begins at 1 with the first docket initiated during a calendar year (e.g., Docket No. 96-1 or Docket No. 99-1). The abbreviation for the responsible bureau usually precedes the docket number, as in “MB Docket No. 96-222,” which indicates that the responsible bureau is the Media Bureau. A docket number consisting of only five digits (e.g., Docket No. 29622) indicates that the docket was established before January 1, 1978.

Notice of Inquiry (NOI)—issued by the Commission when it is seeking information on a broad subject or trying to generate ideas on a given topic. A comment period is specified during which all interested parties may submit comments.

Notice of Proposed Rulemaking (NPRM)—issued by the Commission when it is proposing a specific change to Commission rules and regulations. Before any changes are actually made, interested parties may submit written comments on the proposed revisions.

Further Notice of Proposed Rulemaking (FNPRM)—issued by the Commission when additional comment in the proceeding is sought.

Memorandum Opinion and Order (MO&O)—issued by the Commission to deny a petition for rulemaking, conclude an inquiry, modify a decision, or address a petition for reconsideration of a decision.

Rulemaking (RM) Number—assigned to a proceeding after the appropriate bureau or office has reviewed a petition for rulemaking, but before the Commission has taken action on the petition.

Report and Order (R&O)—issued by the Commission to state a new or amended rule or state that the Commission rules and regulations will not be revised.

Marlene H. Dortch,
Secretary, Federal Communications Commission.

Consumer and Governmental Affairs Bureau—Long-Term Actions
Sequence No. | Title | Regulation Identifier No.
434 | Implementation of the Telecom Act of 1996; Access to Telecommunications Service, Telecommunications Equipment, and Customer Premises Equipment by Persons With Disabilities (WT Docket No. 96-198) | 3060-AG58
435 | Rules and Regulations Implementing the Telephone Consumer Protection Act (TCPA) of 1991 (CG Docket No. 02-278) | 3060-AI14
436 | Rules and Regulations Implementing Section 225 of the Communications Act (Telecommunications Relay Service) (CG Docket No. 03-123) | 3060-AI15
437 | Consumer Information, Disclosure, and Truth in Billing and Billing Format | 3060-AI61
438 | Closed-Captioning of Video Programming; Gen Docket Nos. 05-231 and 06-181 (Section 610 Review) | 3060-AI72
439 | Accessibility of Programming Providing Emergency Information; MB Docket No. 12-107 | 3060-AI75
440 | Empowering Consumers to Avoid Bill Shock (Docket No. 10-207) | 3060-AJ51
441 | Contributions to the Telecommunications Relay Services Fund (CG Docket No. 11-47) | 3060-AJ63
442 | Empowering Consumers to Prevent and Detect Billing for Unauthorized Charges (“Cramming”) | 3060-AJ72
443 | Implementation of the Middle Class Tax Relief and Job Creation Act of 2012/Establishment of a Public Safety Answering Point Do-Not-Call Registry | 3060-AJ84
444 | Implementation of Sections 716 and 717 of the Communications Act of 1934, as Enacted by the Twenty-First Century Communications and Video Accessibility Act of 2010 (CG Docket No. 10-213) | 3060-AK00
445 | Misuse of Internet Protocol (IP) Captioned Telephone Service; Telecommunications Relay Services and Speech-to-Speech Services; CG Docket No. 13-24 | 3060-AK01

Office of Engineering and Technology—Long-Term Actions
Sequence No. | Title | Regulation Identifier No.
446 | New Advanced Wireless Services (ET Docket No. 00-258) | 3060-AH65
447 | Exposure to Radiofrequency Electromagnetic Fields | 3060-AI17
448 | Unlicensed Operation in the TV Broadcast Bands (ET Docket No. 04-186) | 3060-AI52
449 | Fixed and Mobile Services in the Mobile Satellite Service (ET Docket No. 10-142) | 3060-AJ46
450 | Radio Experimentation and Market Trials Under Part 5 of the Commission's Rules and Streamlining Other Related Rules (ET Docket No. 10-236) | 3060-AJ62
451 | Operation of Radar Systems in the 76-77 GHz Band (ET Docket No. 11-90) | 3060-AJ68
452 | WRC-07 Implementation (ET Docket No. 12-338) | 3060-AJ93
453 | Federal Earth Stations-Non Federal Fixed Satellite Service Space Stations; Spectrum for Non-Federal Space Launch Operations; ET Docket No. 13-115 | 3060-AK09
454 | Authorization of Radiofrequency Equipment; ET Docket No. 13-44 | 3060-AK10
455 | Operation of Radar Systems in the 76-77 GHz Band (ET Docket No. 15-26) | 3060-AK29
456 | Spectrum Access for Wireless Microphone Operations (GN Docket Nos. 14-166 and 12-268) | 3060-AK30

Office of Engineering and Technology—Completed Actions
Sequence No. | Title | Regulation Identifier No.
457 | Innovation in the Broadcast Television Bands (ET Docket No. 10-235) | 3060-AJ57
458 | Tank Level Probing Radars (ET Docket No. 10-23) | 3060-AJ83

International Bureau—Long-Term Actions
Sequence No. | Title | Regulation Identifier No.
459 | Space Station Licensing Reform (IB Docket No. 02-34) | 3060-AH98
460 | International Settlements Policy Reform (IB Docket No. 11-80) | 3060-AJ77
461 | Reform of Rules and Policies on Foreign Carrier Entry Into the U.S. Telecommunications Market (IB Docket 12-299) | 3060-AJ97
462 | Comprehensive Review of Licensing and Operating Rules for Satellite Services (IB Docket No. 12-267) | 3060-AJ98
463 | Expanding Broadband and Innovation through Air-Ground Mobile Broadband Secondary Service for Passengers Aboard Aircraft in the 14.0-14.5 GHz Band; GN Docket No. 13-114 | 3060-AK02
464 | Terrestrial Use of the 2473-2495 MHz Band for Low-Power Mobile Broadband Networks; Amendments to Rules of Mobile Satellite Service System; IB Docket No. 13-213 | 3060-AK16

International Bureau—Completed Actions
Sequence No. | Title | Regulation Identifier No.
465 | Reporting Requirements for U.S. Providers of International Telecommunications Services (IB Docket No. 04-112) | 3060-AI42

Media Bureau—Long-Term Actions
Sequence No. | Title | Regulation Identifier No.
466 | Broadcast Ownership Rules | 3060-AH97
467 | Establishment of Rules for Digital Low-Power Television, Television Translator, and Television Booster Stations (MB Docket No. 03-185) | 3060-AI38
468 | Promoting Diversification of Ownership in the Broadcast Services (MB Docket No. 07-294) | 3060-AJ27
469 | Amendment of the Commission's Rules Related to Retransmission Consent (MB Docket No. 10-71) | 3060-AJ55
470 | Closed Captioning of Internet Protocol-Delivered Video Programming: Implementation of the Twenty-First Century Communications and Video Accessibility Act of 2010 (MB Docket No. 11-154) | 3060-AJ67
471 | Accessibility of User Interfaces and Video Programming Guides and Menus (MB Docket No. 12-108) | 3060-AK11
472 | Network Non-Duplication and Syndicated Exclusivity Rule (MB Docket No. 14-29) | 3060-AK18
473 | Expansion of Online Public File Obligations To Cable and Satellite TV Operators and Broadcast and Satellite Radio Licensees; MB Docket No. 14-127 | 3060-AK23
474 | Channel Sharing by Full Power and Class A Stations Outside of the Incentive Auction Context; (MB Docket No. 15-137) | 3060-AK42
475 | Preserving Vacant Channels in the UHF Television Band for Unlicensed Use; (MB Docket No. 15-68) | 3060-AK43

Office of Managing Director—Long-Term Actions
Sequence No. | Title | Regulation Identifier No.
476 | Assessment and Collection of Regulatory Fees | 3060-AI79
477 | Amendment of Part 1 of the Commission's Rules, Concerning Practice and Procedure, Amendment of CORES Registration System; MD Docket No. 10-234 | 3060-AJ54

Public Safety and Homeland Security Bureau—Long-Term Actions
Sequence No. | Title | Regulation Identifier No.
478 | Revision of the Rules To Ensure Compatibility With Enhanced 911 Emergency Calling Systems | 3060-AG34
479 | Enhanced 911 Services for Wireline and Multi-Line Telephone Systems; PS Docket Nos. 10-255 and 07-117 | 3060-AG60
480 | In the Matter of the Communications Assistance for Law Enforcement Act | 3060-AG74
481 | Implementation of 911 Act (CC Docket No. 92-105, WT Docket No. 00-110) | 3060-AH90
482 | Commission Rules Concerning Disruptions to Communications (PS Docket No. 11-82) | 3060-AI22
483 | E911 Requirements for IP-Enabled Service Providers (Dockets Nos. GN 11-117, PS 07-114, WC 05-196, WC 04-36) | 3060-AI62
484 | Wireless E911 Location Accuracy Requirements; PS Docket No. 07-114 | 3060-AJ52
485 | 700 MHz Public Safety Broadband—First Net (PS Docket Nos. 12-94 & 06-229 and WT 06-150) | 3060-AJ99
486 | Proposed Amendments to Service Rules Governing Public Safety Narrowband Operations in the 769-775 and 799-805 MHz Bands | 3060-AK19
487 | Improving Outage Reporting for Submarine Cables and Enhancing Submarine Cable Outage Data; GN Docket No. 15-206 | 3060-AK39
488 | Amendments to Part 4 of the Commission's Rules Concerning Disruptions to Communications; PS Docket No. 15-80 | 3060-AK40
489 | New Part 4 of the Commission's Rules Concerning Disruptions to Communications; ET Docket No. 04-35 | 3060-AK41

Wireless Telecommunications Bureau—Long-Term Actions
Sequence No. | Title | Regulation Identifier No.
490 | Reexamination of Roaming Obligations of Commercial Mobile Radio Service Providers | 3060-AH83
491 | Review of Part 87 of the Commission's Rules Concerning Aviation (WT Docket No. 01-289) | 3060-AI35
492 | Implementation of the Commercial Spectrum Enhancement Act (CSEA) and Modernization of the Commission's Competitive Bidding Rules and Procedures (WT Docket No. 05-211) | 3060-AI88
493 | Facilitating the Provision of Fixed and Mobile Broadband Access, Educational, and Other Advanced Services in the 2150-2162 and 2500-2690 MHz Bands | 3060-AJ12
494 | Service Rules for Advanced Wireless Services in the 2155-2175 MHz Band; WT Docket No. 13-185 | 3060-AJ19
495 | Rules Authorizing the Operation of Low Power Auxiliary Stations in the 698-806 MHz Band (WT Docket No. 08-166) Public Interest Spectrum Coalition, Petition for Rulemaking Regarding Low Power Auxiliary | 3060-AJ21
496 | Amendment of the Commission's Rules to Improve Public Safety Communications in the 800 MHz Band, and to Consolidate the 800 MHz and 900 MHz Business and Industrial/Land Transportation Pool Channels | 3060-AJ22
497 | Amendment of Part 101 to Accommodate 30 MHz Channels in the 6525-6875 MHz Band and Provide Conditional Authorization on Channels in the 21.8-22.0 and 23.0-23.2 GHz Band (WT Docket No. 04-114) | 3060-AJ28
498 | In the Matter of Service Rules for the 698 to 746, 747 to 762, and 777 to 792 MHz Bands | 3060-AJ35
499 | National Environmental Act Compliance for Proposed Tower Registrations; In the Matter of Effects on Migratory Birds | 3060-AJ36
500 | Amendment of Part 90 of the Commission's Rules | 3060-AJ37
501 | Amendment of Part 101 of the Commission's Rules for Microwave Use and Broadcast Auxiliary Service Flexibility | 3060-AJ47
502 | 2004 and 2006 Biennial Regulatory Reviews—Streamlining and Other Revisions of the Commission's Rules Governing Construction, Marking, and Lighting of Antenna Structures | 3060-AJ50
503 | Universal Service Reform Mobility Fund (WT Docket No. 10-208) | 3060-AJ58
504 | Fixed and Mobile Services in the Mobile Satellite Service Bands at 1525-1559 MHz and 1626.5-1660.5 MHz, 1610-1626.5 MHz and 2483.5-2500 MHz, and 2000-2020 MHz and 2180-2200 MHz | 3060-AJ59
505 | Improving Spectrum Efficiency Through Flexible Channel Spacing and Bandwidth Utilization for Economic Area-Based 800 MHz Specialized Mobile Radio Licensees (WT Docket Nos. 12-64 and 11-110) | 3060-AJ71
506 | Service Rules for Advanced Wireless Services in the 2000-2020 MHz and 2180-2200 MHz Bands | 3060-AJ73
507 | Promoting Interoperability in the 700 MHz Commercial Spectrum; Requests for Waiver and Extension of Lower 700 MHz Band Interim Construction Benchmark Deadlines (WT Docket Nos. 12-69 & 12-332) | 3060-AJ78
508 | Expanding the Economic and Innovation Opportunities of Spectrum Through Incentive Auctions; Docket No. 12-268 | 3060-AJ82
509 | Service Rules for Advanced Wireless Services of the Middle Class Tax Relief and Job Creation Act of 2012 Related to the 1915-1920 MHz and 1995-2000 MHz Bands (WT Docket No. 12-357) | 3060-AJ86
510 | Amendment of Parts 1, 2, 22, 24, 27, 90 and 95 of the Commission's Rules to Improve Wireless Coverage Through the Use of Signal Boosters (WT Docket No. 10-4) | 3060-AJ87
511 | Amendment of the Commission's Rules Governing Certain Aviation Ground Station Equipment (Squitter) (WT Docket Nos. 10-61 and 09-42) | 3060-AJ88
512 | Amendment of the Commission's Rules Concerning Commercial Radio Operators (WT Docket No. 10-177) | 3060-AJ91
513 | Radiolocation Operations in the 78-81 GHz Band; WT Docket No. 11-202 | 3060-AK04
514 | Amendment of Part 90 of the Commission's Rules to Permit Terrestrial Trunked Radio (TETRA) Technology; WT Docket No. 11-6 | 3060-AK05
515 | Promoting Technological Solutions to Combat Wireless Contraband Device Use in Correctional Facilities | 3060-AK06
516 | 800 MHz Cellular Telecommunications Licensing Reform; Docket No. 12-40 | 3060-AK13
517 | Acceleration of Broadband Deployment by Improving Wireless Facilities Siting Policies; WT Docket Nos. 13-238, 13-32 and WC Docket No. 11-59 | 3060-AK22
518 | Updating Competitive Bidding Rules | 3060-AK28

WIRELINE COMPETITION BUREAU—Long-Term Actions
Sequence No. | Title | Regulation Identifier No.
519 | Implementation of the Universal Service Portions of the 1996 Telecommunications Act | 3060-AF85
520 | 2000 Biennial Regulatory Review—Telecommunications Service Quality Reporting Requirements | 3060-AH72
521 | National Exchange Carrier Association Petition | 3060-AI47
522 | IP-Enabled Services; WC Docket No. 04-36 | 3060-AI48
523 | Jurisdictional Separations | 3060-AJ06
524 | Service Quality, Customer Satisfaction, Infrastructure and Operating Data Gathering (WC Docket Nos. 08-190, 07-139, 07-204, 07-273, 07-21) | 3060-AJ14
525 | Development of Nationwide Broadband Data To Evaluate Reasonable and Timely Deployment of Advanced Services to All Americans | 3060-AJ15
526 | Local Number Portability Porting Interval and Validation Requirements (WC Docket No. 07-244) | 3060-AJ32
527 | Implementation of Section 224 of the Act; A National Broadband Plan for Our Future (WC Docket No. 07-245, GN Docket No. 09-51) | 3060-AJ64
528 | Rural Call Completion; WC Docket No. 13-39 | 3060-AJ89
529 | Rates for Inmate Calling Services; WC Docket No. 12-375 | 3060-AK08
530 | Comprehensive Review of the Part 32 Uniform System of Accounts (WC Docket No. 14-130) | 3060-AK20
531 | Protecting and Promoting the Open Internet; (WC Docket No. 14-28) | 3060-AK21
532 | Emerging Wireline Networks and Services; GN Docket No 13-5, WC Docket No. 05-25 | 3060-AK32
533 | Modernizing Common Carrier Rules, WC Docket No 15-33 | 3060-AK33
534 | Numbering Policies for Modern Communications, WC Docket No. 13-97 | 3060-AK36

FEDERAL COMMUNICATIONS COMMISSION (FCC)

Consumer and Governmental Affairs Bureau

Long-Term Actions

434. Implementation of the Telecom Act of 1996; Access to Telecommunications Service, Telecommunications Equipment, and Customer Premises Equipment by Persons With Disabilities (WT Docket No. 96-198)

Legal Authority: 47 U.S.C. 255; 47 U.S.C. 251(a)(2)

Abstract: These proceedings implement the provisions of sections 255 and 251(a)(2) of the Communications Act and related sections of the Telecommunications Act of 1996 regarding the accessibility of telecommunications equipment and services to persons with disabilities.

Timetable:

Action | Date | FR Cite
R&O | 08/14/96 | 61 FR 42181
NOI | 09/26/96 | 61 FR 50465
NPRM | 05/22/98 | 63 FR 28456
R&O | 11/19/99 | 64 FR 63235
Further NOI | 11/19/99 | 64 FR 63277
Public Notice | 01/07/02 | 67 FR 678
R&O | 08/06/07 | 72 FR 43546
Petition for Waiver | 11/01/07 | 72 FR 61813
Public Notice | 11/01/07 | 72 FR 61882
Final Rule | 04/21/08 | 73 FR 21251
Public Notice | 08/01/08 | 73 FR 45008
Extension of Waiver | 05/15/08 | 73 FR 28057
Extension of Waiver | 05/06/09 | 74 FR 20892
Public Notice | 05/07/09 | 74 FR 21364
Extension of Waiver | 07/29/09 | 74 FR 37624
NPRM | 03/14/11 | 76 FR 13800
NPRM Comment Period Extended | 04/12/11 | 76 FR 20297
FNPRM | 12/30/11 | 76 FR 82240
Comment Period End | 03/14/12 |
R&O | 12/30/11 | 76 FR 82354
Announcement of Effective Date | 04/25/12 | 77 FR 24632
2nd R&O | 05/22/13 | 78 FR 30226
FNPRM | 12/20/13 | 78 FR 77074
FNPRM Comment Period End | 02/18/14
Next Action Undetermined

Regulatory Flexibility Analysis Required: Yes.

Agency Contact: Cheryl J. King, Deputy Chief, Disability Rights Office, Federal Communications Commission, Consumer and Governmental Affairs Bureau, 445 12th Street SW., Washington, DC 20554, Phone: 202 418-2284, TDD Phone: 202 418-0416, Fax: 202 418-0037, Email: cheryl.king@fcc.gov.

RIN: 3060-AG58

435. Rules and Regulations Implementing the Telephone Consumer Protection Act (TCPA) of 1991 (CG Docket No. 02-278)

Legal Authority: 47 U.S.C. 227

Abstract: On July 3, 2003, the Commission released a Report and Order establishing, along with the FTC, a national do-not-call registry. The Commission's Report and Order also adopted rules on the use of predictive dialers, the transmission of caller ID information by telemarketers, and the sending of unsolicited fax advertisements. On September 21, 2004, the Commission released an Order amending existing safe harbor rules for telemarketers subject to the do-not-call registry to require such telemarketers to access the do-not-call list every 31 days, rather than every three months. On April 5, 2006, the Commission adopted a Report and Order and Third Order on Reconsideration amending its facsimile advertising rules to implement the Junk Fax Protection Act of 2005. On October 14, 2008, the Commission released an Order on Reconsideration addressing certain issues raised in petitions for reconsideration and/or clarification of the Report and Order and Third Order on Reconsideration. On January 4, 2008, the Commission released a Declaratory Ruling, clarifying that autodialed and prerecorded message calls to wireless numbers that are provided by the called party to a creditor in connection with an existing debt are permissible as calls made with the “prior express consent” of the called party. Following a December 4, 2007, NPRM, on June 17, 2008, the Commission released a Report and Order amending its rules to require sellers and/or telemarketers to honor registrations with the National Do-Not-Call Registry indefinitely, unless the registration is cancelled by the consumer or the number is removed by the database administrator. Following a January 22, 2010, NPRM, the Commission released a Report and Order (on February 15, 2012) requiring telemarketers to obtain prior express written consent, including by electronic means, before making an autodialed or prerecorded telemarketing call to a wireless number or before making a prerecorded telemarketing call to a residential line; eliminating the “established business relationship” exemption to the consent requirement for prerecorded telemarketing calls to residential lines; requiring telemarketers to provide an automated, interactive “opt-out” mechanism during autodialed or prerecorded telemarketing calls to wireless numbers and during prerecorded telemarketing calls to residential lines; and requiring that the abandoned call rate for telemarketing calls be calculated on a “per-campaign” basis. On November 29, 2012, the Commission released a Declaratory Ruling clarifying that sending a one-time text message confirming a consumer's request that no further text messages be sent does not violate the Telephone Consumer Protection Act (TCPA) or the Commission's rules as long as the confirmation text only confirms receipt of the consumer's opt-out request, and does not contain marketing, solicitations, or an attempt to convince the consumer to reconsider his or her opt-out decision. The ruling applies only when the sender of the text messages has obtained prior express consent, as required by the TCPA and Commission rules, from the consumer to be sent text messages using an automatic telephone dialing system. On May 9, 2013, the Commission released a declaratory ruling clarifying that while a seller does not generally “initiate” calls made through a third-party telemarketer, within the meaning of the Telephone Consumer Protection Act (TCPA), it nonetheless may be held vicariously liable under Federal common law principles of agency for violations of either section 227(b) or section 227(c) that are committed by third-party telemarketers.

On July 10, 2015, the commission released a Declaratory Ruling and Order resolving 21 separate requests for clarification or other action regarding the TCPA. It clarified, among other things, that: Nothing in the Communications Act of the Commission's rules prohibits carriers or other service providers from implementing consumer-initiated call-blocking technologies; equipment meets the TCPA's definition of “autodialer” if it has the “capacity” to store or produce random sequential numbers, and to dial them, even if it is not presently used for that purpose; an “app” provider that plays a minimal role in making a call, such as just proving the app itself, is not the maker of the call for TCPA purposes; consumers who have previously consented to robocalls may revoke that consent at any time and through any reasonable means; the TCPA requires the consent of the party called—the subscriber to a phone number or the customary user of the number—not the intended recipient of the call; and callers who make calls without knowledge or reassignment of a wireless phone number and with a reasonable basis to believe that they have valid consent to make the call to the wireless number should be able to initiate one call after reassignment as an additional opportunity to gain actual or constructive knowledge of the reassignment and cease future calls to the new subscriber. The Commission also exempted certain financial and healthcare-related calls, when free to the consumer, from the TCPA's consumer-consent requirement.

Timetable:

Action | Date | FR Cite
NPRM | 10/08/02 | 67 FR 62667
FNPRM | 04/03/03 | 68 FR 16250
Order | 07/25/03 | 68 FR 44144
Order Effective | 08/25/03
Order on Reconsideration | 08/25/03 | 68 FR 50978
Order | 10/14/03 | 68 FR 59130
FNPRM | 03/31/04 | 69 FR 16873
Order | 10/08/04 | 69 FR 60311
Order | 10/28/04 | 69 FR 62816
Order on Reconsideration | 04/13/05 | 70 FR 19330
Order | 06/30/05 | 70 FR 37705
NPRM | 12/19/05 | 70 FR 75102
Public Notice | 04/26/06 | 71 FR 24634
Order | 05/03/06 | 71 FR 25967
NPRM | 12/14/07 | 72 FR 71099
Declaratory Ruling | 02/01/08 | 73 FR 6041
R&O | 07/14/08 | 73 FR 40183
Order on Reconsideration | 10/30/08 | 73 FR 64556
NPRM | 03/22/10 | 75 FR 13471
R&O | 06/11/12 | 77 FR 34233
Public Notice | 06/30/10 | 75 FR 34244
Public Notice (Reconsideration Petitions Filed) | 10/03/12 | 77 FR 60343
Announcement of Effective Date | 10/16/12 | 77 FR 63240
Opposition End Date | 10/18/12
Rule Corrections | 11/08/12 | 77 FR 66935
Declaratory Ruling (Release Date) | 11/29/12
Delaratory Ruling and Order (Release Date) | 07/10/15
Next Action Undetermined

Regulatory Flexibility Analysis Required: Yes.

Agency Contact: Kristi Lemoine, Attorney Advisor, Federal Communications Commission, 445 12th Street SW., Washington, DC 20554, Phone: 202 418-2467, Email: kristi.lemoine@fcc.gov.

RIN: 3060-AI14

436. Rules and Regulations Implementing Section 225 of the Communications Act (Telecommunications Relay Service) (CG Docket No. 03-123)

Legal Authority: 47 U.S.C. 151; 47 U.S.C. 154; 47 U.S.C. 225

Abstract: This proceeding established a new docket flowing from the previous telecommunications relay service (TRS) history, CC Docket No. 98-67. This proceeding continues the Commission's inquiry into improving the quality of TRS and furthering the goal of functional equivalency, consistent with Congress' mandate that TRS regulations encourage the use of existing technology and not discourage or impair the development of new technology. In this docket, the Commission explores ways to improve emergency preparedness for TRS facilities and services, new TRS technologies, public access to information and outreach, and issues related to payments from the Interstate TRS Fund.

Timetable:

Action | Date | FR Cite
NPRM | 08/25/03 | 68 FR 50993
R&O, Order on Reconsideration | 09/01/04 | 69 FR 53346
FNPRM | 09/01/04 | 69 FR 53382
Public Notice | 02/17/05 | 70 FR 8034
Declaratory Ruling/Interpretation | 02/25/05 | 70 FR 9239
Public Notice | 03/07/05 | 70 FR 10930
Order | 03/23/05 | 70 FR 14568
Public Notice/Announcement of Date | 04/06/05 | 70 FR 17334
Order | 07/01/05 | 70 FR 38134
Order on Reconsideration | 08/31/05 | 70 FR 51643
R&O | 08/31/05 | 70 FR 51649
Order | 09/14/05 | 70 FR 54294
Order | 09/14/05 | 70 FR 54298
Public Notice | 10/12/05 | 70 FR 59346
R&O/Order on Reconsideration | 12/23/05 | 70 FR 76208
Order | 12/28/05 | 70 FR 76712
Order | 12/29/05 | 70 FR 77052
NPRM | 02/01/06 | 71 FR 5221
Declaratory Ruling/Clarification | 05/31/06 | 71 FR 30818
FNPRM | 05/31/06 | 71 FR 30848
FNPRM | 06/01/06 | 71 FR 31131
Declaratory Ruling/Dismissal of Petition | 06/21/06 | 71 FR 35553
Clarification | 06/28/06 | 71 FR 36690
Declaratory Ruling on Reconsideration | 07/06/06 | 71 FR 38268
Order on Reconsideration | 08/16/06 | 71 FR 47141
MO&O | 08/16/06 | 71 FR 47145
Clarification | 08/23/06 | 71 FR 49380
FNPRM | 09/13/06 | 71 FR 54009
Final Rule; Clarification | 02/14/07 | 72 FR 6960
Order | 03/14/07 | 72 FR 11789
R&O | 08/06/07 | 72 FR 43546
Public Notice | 08/16/07 | 72 FR 46060
Order | 11/01/07 | 72 FR 61813
Public Notice | 01/04/08 | 73 FR 863
R&O/Declaratory Ruling | 01/17/08 | 73 FR 3197
Order | 02/19/08 | 73 FR 9031
Order | 04/21/08 | 73 FR 21347
R&O | 04/21/08 | 73 FR 21252
Order | 04/23/08 | 73 FR 21843
Public Notice | 04/30/08 | 73 FR 23361
Order | 05/15/08 | 73 FR 28057
Declaratory Ruling | 07/08/08 | 73 FR 38928
FNPRM | 07/18/08 | 73 FR 41307
R&O | 07/18/08 | 73 FR 41286
Public Notice | 08/01/08 | 73 FR 45006
Public Notice | 08/05/08 | 73 FR 45354
Public Notice | 10/10/08 | 73 FR 60172
Order | 10/23/08 | 73 FR 63078
2nd R&O and Order on Reconsideration | 12/30/08 | 73 FR 79683
Order | 05/06/09 | 74 FR 20892
Public Notice | 05/07/09 | 74 FR 21364
NPRM | 05/21/09 | 74 FR 23815
Public Notice | 05/21/09 | 74 FR 23859
Public Notice | 06/12/09 | 74 FR 28046
Order | 07/29/09 | 74 FR 37624
Public Notice | 08/07/09 | 74 FR 39699
Order | 09/18/09 | 74 FR 47894
Order | 10/26/09 | 74 FR 54913
Public Notice | 05/12/10 | 75 FR 26701
Order Denying Stay Motion (Release Date) | 07/09/10
Order | 08/13/10 | 75 FR 49491
Order | 09/03/10 | 75 FR 54040
NPRM | 11/02/10 | 75 FR 67333
NPRM | 05/02/11 | 76 FR 24442
Order | 07/25/11 | 76 FR 44326
Final Rule (Order) | 09/27/11 | 76 FR 59551
Final Rule; Announcement of Effective Date | 11/22/11 | 76 FR 72124
Proposed Rule (Public Notice) | 02/28/12 | 77 FR 11997
Proposed Rule (FNPRM) | 02/01/12 | 77 FR 4948
First R&O | 07/25/12 | 77 FR 43538
Public Notice | 10/29/12 | 77 FR 65526
Order on Reconsideration | 12/26/12 | 77 FR 75894
Order | 02/05/13 | 78 FR 8030
Order (Interim Rule) | 02/05/13 | 78 FR 8032
NPRM | 02/05/13 | 78 FR 8090
Announcement of Effective Date | 03/07/13 | 78 FR 14701
NPRM Comment Period End | 03/13/13
FNPRM | 07/05/13 | 78 FR 40407
FNPRM Comment Period End | 09/18/13
R&O | 07/05/13 | 78 FR 40582
R&O | 08/15/13 | 78 FR 49693
FNPRM | 08/15/13 | 78 FR 49717
FNPRM Comment Period End | 09/30/13
R&O | 08/30/13 | 78 FR 53684
FNPRM | 09/03/13 | 78 FR 54201
NPRM | 10/23/13 | 78FR 63152
FNPRM Comment Period End | 11/18/13
Petiton for Reconsideration; Request for Comment | 12/16/13 | 78 FR 76096
Petition for Reconsideration; Request for Comment | 12/16/13 | 78 FR 76097
Request for Clarification; Request for Comment; Correction | 12/30/13 | 78 FR 79362
Petition for Reconsideration Comment Period End | 01/10/14
NPRM Comment Period End | 01/21/14
Announcement of Effective Date | 07/11/14 | 79 FR 40003
Announcement of Effective Date | 08/28/14 | 79 FR 51446
Correction—Announcement of Effective Date | 08/28/14 | 79 FR 51450
Technical Amendments | 09/09/14 | 79 FR 53303
Public Notice | 09/15/14 | 79 FR 54979
R&O and Order | 10/21/14 | 79 FR 62875
FNPRM | 10/21/14 | 79 FR 62935
FNPRM Comment Period End | 12/22/14
Final Action (Announcement of Effective Date) | 10/30/14 | 79 FR 64515
Final Rule Effective | 10/30/14
Next Action Undetermined

Regulatory Flexibility Analysis Required: Yes.

Agency Contact: Karen Peltz Strauss, Deputy Chief, Consumer and Governmental Affairs Bureau, Federal Communications Commission, 445 12th Street SW., Washington, DC 20554, Phone: 202 418-2388, Email: karen.strauss@fcc.gov.

RIN: 3060-AI15

437. Consumer Information, Disclosure, and Truth In Billing and Billing Format

Legal Authority: 47 U.S.C. 201; 47 U.S.C. 258

Abstract: In 1999, the Commission adopted truth-in-billing rules to address concerns that there is consumer confusion relating to billing for telecommunications services. On March 18, 2005, the Commission released an Order and Further Notice of Proposed Rulemaking (FNPRM) to further facilitate the ability of telephone consumers to make informed choices among competitive service offerings. On August 28, 2009, the Commission released a Notice of Inquiry that asks questions about information available to consumers at all stages of the purchasing process for all communications services, including: (1) Choosing a provider; (2) choosing a service plan; (3) managing use of the service plan; and (4) deciding whether and when to switch an existing provider or plan. On October 14, 2010, the Commission released a Notice of Proposed Rulemaking (NPRM) proposing rules that would require mobile service providers to provide usage alerts and information that will assist consumers in avoiding unexpected charges on their bills. On July 12, 2011, the Commission released an NPRM proposing rules that would assist consumers in detecting and preventing the placement of unauthorized charges on their telephone bills, an unlawful and fraudulent practice, commonly referred to as “cramming.” On April 27, 2012, the Commission adopted rules to address “cramming” on wireline telephone bills and released an FNPRM seeking comment on additional measures to protect wireline and wireless consumers from unauthorized charges.

Timetable:

Action | Date | FR Cite
FNPRM | 05/25/05 | 70 FR 30044
R&O | 05/25/05 | 70 FR 29979
NOI | 08/28/09
Public Notice | 05/20/10 | 75 FR 28249
Public Notice | 06/11/10 | 75 FR 33303
NPRM | 11/26/10 | 75 FR 72773
NPRM | 08/23/11 | 76 FR 52625
NPRM Comment Period End | 11/21/11
Order (Reply Comment Period Extended) | 11/30/11 | 76 FR 74017
Reply Comment Period End | 12/05/11
R&O | 05/24/12 | 77 FR 30915
FNPRM | 05/24/12 | 77 FR 30972
FNPRM Comment Period End | 07/09/12
Order (Comment Period Extended) | 07/17/12 | 77 FR 41955
Comment Period End | 07/20/12
Announcement of Effective Dates | 10/26/12 | 77 FR 65230
Correction of Final Rule | 11/30/12 | 77 FR 71353
Correction of Final Rule | 11/30/12 | 77 FR 71354
Next Action Undetermined

Regulatory Flexibility Analysis Required: Yes.

Agency Contact: Richard D. Smith, Special Counsel, Consumer Policy Division, Federal Communications Commission, Consumer and Governmental Affairs Bureau, 445 12th Street SW., Washington, DC 20554, Phone: 717 338-2797, Fax: 717 338-2574, Email: richard.smith@fcc.gov.

RIN: 3060-AI61

438. Closed-Captioning of Video Programming; Gen Docket Nos. 05-231 and 06-181 (Section 610 Review)

Legal Authority: 47 U.S.C. 613

Abstract: The Commission's closed-captioning rules are designed to make video programming more accessible to deaf and hard-of-hearing Americans. This proceeding resolves some issues regarding the Commission's closed-captioning rules that were raised for comment in 2005, and also seeks comment on how a certain exemption from the closed-captioning rules should be applied to digital multicast broadcast channels.

Timetable:

Action | Date | FR Cite
NPRM | 02/03/97 | 62 FR 4959
R&O | 09/16/97 | 62 FR 48487
Order on Reconsideration | 10/20/98 | 63 FR 55959
NPRM | 09/26/05 | 70 FR 56150
Order and Declaratory Ruling | 01/13/09 | 74 FR 1594
NPRM | 01/13/09 | 74 FR 1654
Final Rule Correction | 09/11/09 | 74 FR 46703
Final Rule (Announcement of Effective Date) | 02/19/10 | 75 FR 7370
Order | 02/19/10 | 75 FR 7368
Order Suspending Effective Date | 02/19/10 | 75 FR 7369
Waiver Order | 10/04/10 | 75 FR 61101
Public Notice | 11/17/10 | 75 FR 70168
Interim Final Rule (Order) | 11/01/11 | 76 FR 67376
Final Rule (MO&O) | 11/01/11 | 76 FR 67377
NPRM | 11/01/11 | 76 FR 67397
NPRM Comment Period End | 12/16/11
Public Notice | 05/04/12 | 77 FR 26550
Public Notice | 12/15/12 | 77 FR 72348
Final Rule Effective | 03/16/15
FNPRM | 03/27/14 | 79 FR 17094
R&O | 03/31/14 | 79 FR 17911
FNPRM Comment Period End | 07/25/14
Final Action (Announcement of Effective Date) | 12/29/14 | 79 FR 77916
2nd FNPRM | 12/31/14 | 79 FR 78768
Comment Period End | 01/30/15
Next Action Undetermined

Regulatory Flexibility Analysis Required: Yes.

Agency Contact: Eliot Greenwald, Consumer & Governmental Affairs Bureau, Federal Communications Commission, 445 12th Street SW., Washington, DC 20554, Phone: 202 418-2235, Email: eliot.greenwald@fcc.gov.

RIN: 3060-AI72

439. Accessibility of Programming Providing Emergency Information; MB Docket No. 12-107

Legal Authority: 47 U.S.C. 613

Abstract: In this proceeding, the Commission adopted rules detailing how video programming distributors must make emergency information accessible to persons with hearing and visual disabilities.

Timetable:

Action | Date | FR Cite
FNPRM | 01/21/98 | 63 FR 3070
NPRM | 12/01/99 | 64 FR 67236
NPRM Correction | 12/22/99 | 64 FR 71712
Second R&O | 05/09/00 | 65 FR 26757
R&O | 09/11/00 | 65 FR 54805
Final Rule; Correction | 09/20/00 | 65 FR 5680
NPRM | 11/28/12 | 77 FR 70970
NPRM Comment Period Extended | 12/20/12 | 77 FR 75404
NPRM Comment Period Extension End | 01/07/13
R&O | 05/24/13 | 78 FR 31770
FNPRM | 05/24/13 | 78 FR 31800
FNPRM | 12/20/13 | 78 FR 77074
FNPRM Comment Period End | 02/18/14
NPRM | 06/18/13 | 78 FR 36478
NPRM Comment Period End | 08/07/13
R&O | 12/20/13 | 78 FR 77210
Petition for Reconsideration | 01/31/14 | 79 FR 5364
Comment Period End | 02/25/14
Correcting Amendments | 02/10/14 | 79 FR 7590
Announcement of Effective Date | 04/16/14 | 79 FR 21399
Final Action (Announcement of Effective Date) | 01/26/15 | 80 FR 3913
Final Action Effective | 01/26/15
2nd R&O | 07/10/15 | 80 FR 39698
2nd FNPRM | 07/10/15 | 80 FR 39722
2nd FNPRM Comment Period End | 09/08/15
Next Action Undetermined

Regulatory Flexibility Analysis Required: Yes.

Agency Contact: Eliot Greenwald, Consumer & Governmental Affairs Bureau, Federal Communications Commission, 445 12th Street SW., Washington, DC 20554, Phone: 202 418-2235, Email: eliot.greenwald@fcc.gov.

RIN: 3060-AI75

440. Empowering Consumers to Avoid Bill Shock (Docket No. 10-207)

Legal Authority: 47 U.S.C. 201; 47 U.S.C. 303; 47 U.S.C. 332

Abstract: On October 14, 2010, the Commission released a Notice of Proposed Rulemaking which proposes a rule that would require mobile service providers to provide usage alerts and information to help consumers avoid unexpected charges on their bills.

Timetable:

Action | Date | FR Cite
Public Notice | 05/20/10 | 75 FR 28249
NPRM | 11/26/10 | 75 FR 72773
Next Action Undetermined

Regulatory Flexibility Analysis Required: Yes.

Agency Contact: Richard D. Smith, Special Counsel, Consumer Policy Division, Federal Communications Commission, Consumer and Governmental Affairs Bureau, 445 12th Street SW., Washington, DC 20554, Phone: 717 338-2797, Fax: 717 338-2574, Email: richard.smith@fcc.gov.

RIN: 3060-AJ51

441. Contributions to the Telecommunications Relay Services Fund (CG Docket No. 11-47)

Legal Authority: 47 U.S.C. 151; 47 U.S.C. 154; 47 U.S.C. 225; 47 U.S.C. 616

Abstract: The Commission prescribes by regulation the obligations of each provider of interconnected and non-interconnected Voice over Internet Protocol (VoIP) service to participate in and contribute to the Interstate Telecommunications Relay Services Fund in a manner that is consistent with and comparable to such fund.

Timetable:

Action | Date | FR Cite
NPRM | 04/04/11 | 76 FR 18490
NPRM Comment Period End | 05/04/11
Final Rule | 10/25/11 | 76 FR 65965
Next Action Undetermined

Regulatory Flexibility Analysis Required: Yes.

Agency Contact: Rosaline Crawford, Attorney, Disability Rights Office, Federal Communications Commission, 445 12th Street SW., Washington, DC 20554, Phone: 202 418-2075, Email: rosaline.crawford@fcc.gov.

RIN: 3060-AJ63

442. Empowering Consumers to Prevent and Detect Billing for Unauthorized Charges (“Cramming”)

Legal Authority: 47 U.S.C. 201; 47 U.S.C. 301; 47 U.S.C. 303; 47 U.S.C. 332

Abstract: On July 12, 2011, the Commission released a Notice of Proposed Rulemaking proposing rules that would help consumers detect and prevent the placement of unauthorized charges on telephone bills, an unlawful and fraudulent practice commonly referred to as “cramming.” On April 27, 2012, the Commission adopted rules to address “cramming” on wireline telephone bills and released a Further Notice of Proposed Rulemaking seeking comment on additional measures to protect wireline and wireless consumers from unauthorized charges.

Timetable:

Action | Date | FR Cite
NPRM | 08/23/11 | 76 FR 52625
NPRM Comment Period End | 11/21/11
Order (Extends Reply Comment Period) | 11/30/11 | 76 FR 74017
NPRM Comment Period End | 12/05/11
FNPRM | 05/24/12 | 77 FR 30972
R&O | 05/24/12 | 77 FR 30915
FNPRM Comment Period End | 07/09/12
Order (Extends Reply Comment Period) | 07/17/12 | 77 FR 41955
FNPRM Comment Period End | 07/20/12
Announcement of Effective Dates | 10/26/12 | 77 FR 65230
Correction of Final Rule | 11/30/12 | 77 FR 71354
Correction of Final Rule | 11/30/12 | 77 FR 71353
Next Action Undetermined

Regulatory Flexibility Analysis Required: Yes.

Agency Contact: Richard D. Smith, Special Counsel, Consumer Policy Division, Federal Communications Commission, Consumer and Governmental Affairs Bureau, 445 12th Street SW., Washington, DC 20554, Phone: 717 338-2797, Fax: 717 338-2574, Email: richard.smith@fcc.gov.

RIN: 3060-AJ72

443. Implementation of the Middle Class Tax Relief and Job Creation Act of 2012/Establishment of a Public Safety Answering Point Do-Not-Call Registry

Legal Authority: Pub. L. 112-96, sec 6507

Abstract: The Commission issued, on May 22, 2012, an NPRM to initiate a proceeding to create a Do-Not-Call registry for public safety answer points (PSAPs), as required by section 6507 of the Middle Class Tax Relief and Job Creation Act of 2012. The statute requires the Commission to establish a registry that allows PSAPs to register their telephone numbers on a do-not-call list; prohibit the use of automatic dialing equipment to contact registered numbers; and implement a range of monetary penalties for disclosure of registered numbers and for use of automatic dialing equipment to contact such numbers. On October 17, 2012, the Commission adopted final rules implementing the statutory requirements described above.

Timetable:

Action | Date | FR Cite
NPRM | 06/21/12 | 77 FR 37362
R&O | 10/29/12 | 77 FR 71131
Correction Amendments | 02/13/13 | 78 FR 10099
Announcement of Effective Date | 03/26/13 | 78 FR 18246
Next Action Undetermined

Regulatory Flexibility Analysis Required: Yes.

Agency Contact: Richard D. Smith, Special Counsel, Consumer Policy Division, Federal Communications Commission, Consumer and Governmental Affairs Bureau, 445 12th Street SW., Washington, DC 20554, Phone: 717 338-2797, Fax: 717 338-2574, Email: richard.smith@fcc.gov.

RIN: 3060-AJ84

444. Implementation of Sections 716 and 717 of the Communications Act of 1934, as Enacted by the Twenty-First Century Communications and Video Accessibility Act of 2010 (CG Docket No. 10-213)

Legal Authority: 47 U.S.C. 151; 47 U.S.C. 154; 47 U.S.C. 255; 47 U.S.C. 617; 47 U.S.C. 618; 47 U.S.C. 619

Abstract: These proceedings implement sections 716, 717, and 718 of the Communications Act, which were added by the Twenty-First Century Communications and Video Accessibility Act of 2010 (CVAA), related to the accessibility of advanced communications services and equipment (section 716), recordkeeping and enforcement requirements for entities subject to sections 255, 716, and 718 (section 717), and accessibility of Internet browsers built into mobile phones (section 718).

Timetable:

Action | Date | FR Cite
NPRM | 03/14/11 | 76 FR 13800
NPRM Comment Period Extended | 04/12/11 | 76 FR 20297
NPRM Comment Period End | 05/13/11
FNPRM | 12/30/11 | 76 FR 82240
R&O | 12/30/11 | 76 FR 82354
FNPRM Comment Period End | 03/14/12
Announcement of Effective Date | 04/25/12 | 77 FR 24632
2nd R&O | 05/22/13 | 78 FR 30226
Next Action Undetermined

Regulatory Flexibility Analysis Required: Yes.

Agency Contact: Rosaline Crawford, Attorney, Disability Rights Office, Federal Communications Commission, 445 12th Street SW., Washington, DC 20554, Phone: 202 418-2075, Email: rosaline.crawford@fcc.gov.

RIN: 3060-AK00

445. Misuse of Internet Protocol (IP) Captioned Telephone Service; Telecommunications Relay Services and Speech-to-Speech Services; CG Docket No. 13-24

Legal Authority: 47 U.S.C. 151; 47 U.S.C. 154; 47 U.S.C. 225

Abstract: The FCC initiated this proceeding in its effort to ensure that IP CTS is available for eligible users only. In doing so, the FCC released an Interim Order and Notice of Proposed Rulemaking (NPRM) to address certain practices related to the provision and marketing of Internet Protocol Captioned Telephone Service (IP CTS). IP CTS is a form of relay service designed to allow people with hearing loss to speak directly to another party on a telephone call and to simultaneously listen to the other party and read captions of what that party is saying over an IP-enabled device. To ensure that IP CTS is provided efficiently to persons who need to use this service, this new Order establishes several requirements on a temporary basis from March 7, 2013, to September 3, 2013.

Timetable:

Action | Date | FR Cite
NPRM | 02/05/13 | 78 FR 8090
Order (Interim Rule) | 02/05/13 | 78 FR 8032
Order | 02/05/13 | 78 FR 8030
Announcement of Effective Date | 03/07/13 | 78 FR 14701
NPRM Comment Period End | 03/12/13
R&O | 08/30/13 | 78 FR 53684
FNPRM | 09/30/13 | 78 FR 54201
FNPRM Comment Period End | 11/18/13
Petition for Reconsideration Request for Comment | 12/16/13 | 78 FR 76097
Petiton for Reconsideration Comment Period End | 01/10/14
Announcement of Effective Date | 08/28/14 | 79 FR 51446
Correction—Announcement of Effective Date | 08/28/14 | 79 FR 51450
Technical Amendments | 09/09/14 | 79 FR 53303
Next Action Undetermined

Regulatory Flexibility Analysis Required: Yes.

Agency Contact: Greg Hlibok, Chief, Disability Rights Office, Federal Communications Commission, Consumer and Governmental Affairs Bureau, 445 12th Street SW., Washington, DC 20554, Phone: 202 559-5158, TDD Phone: 202 418-0413, Email: gregory.hlibok@fcc.gov.

RIN: 3060-AK01

FEDERAL COMMUNICATIONS COMMISSION (FCC)

Office of Engineering and Technology

Long-Term Actions

446. New Advanced Wireless Services (ET Docket No. 00-258)

Legal Authority: 47 U.S.C. 154(i); 47 U.S.C. 157(a); 47 U.S.C. 303(c); 47 U.S.C. 303(f); 47 U.S.C. 303(g); 47 U.S.C. 303(r)

Abstract: This proceeding explores the possible uses of frequency bands below 3 GHz to support the introduction of new advanced wireless services, including third generations as well as future generations of wireless systems. Advanced wireless systems could provide for a wide range of voice data and broadband services over a variety of mobile and fixed networks. The Third Notice of Proposed Rulemaking discusses the frequency bands that are still under consideration in this proceeding and invites additional comments on their disposition. Specifically, it addresses the Unlicensed Personal Communications Service (UPCS) band at 1910-1930 MHz, the Multipoint Distribution Service (MDS) spectrum at 2155-2160/62 MHz bands, the Emerging Technology spectrum, at 2160-2165 MHz, and the bands reallocated from MSS 91990-2000 MHz, 2020-2025 MHz, and 2165-2180 MHz. We seek comment on these bands with respect to using them for paired or unpaired Advance Wireless Service (AWS) operations or as relocation spectrum for existing services. The seventh Report and Order facilitates the introduction of Advanced Wireless Service (AWS) in the band 1710-1755 MHz—an integral part of a 90 MHz spectrum allocation recently reallocated to allow for such new and innovative wireless services. We largely adopt the proposals set forth in our recent AWS Fourth NPRM in this proceeding that are designed to clear the 1710-1755 MHz band of incumbent Federal Government operations that would otherwise impede the development of new nationwide AWS services. These actions are consistent with previous actions in this proceeding and with the United States Department of Commerce, National Telecommunications and Information Administration (NTIA) 2002 Viability Assessment, which addressed relocation and reaccommodation options for Federal Government operations in the band. The eighth Report and Order reallocated the 2155-2160 MHz band for fixed and mobile services and designates the 2155-2175 MHz band for Advanced Wireless Service (AWS) use. This proceeding continues the Commission's ongoing efforts to promote spectrum utilization and efficiency with regard to the provision of new services, including Advanced Wireless Services. The Order requires Broadband Radio Service (BRS) licensees in the 2150-2160/62 MHz band to provide information on the construction status and operational parameters of each incumbent BRS system that would be the subject of relocation. The Notice of Proposed Rule Making requested comments on the specific relocation procedures applicable to Broadband Radio Service (BRS) operations in the 2150-2160/62 MHz band, which the Commission recently decided will be relocated to the newly restructured 2495-2690 MHz band. The Commission also requested comments on the specific relocation procedures applicable to Fixed Microwave Service (FS) operations in the 2160-2175 MHz band. The Office of Engineering and Technology (OET) and the Wireless Telecommunications Bureau (WTB) set forth the specific data that Broadband Radio Service (BRS) licensees in the 2150-2160/62 MHz band must file along with the deadline date and procedures for filing this data on the Commission's Universal Licensing System (ULS). The data will assist in determining future AWS licensees' relocation obligations. The ninth Report and Order established procedures for the relocation of Broadband Radio Service (BRS) operations from the 2150-2160/62 MHz band, as well as for the relocation of Fixed Microwave Service (FS) operations from the 2160-2175 MHz band, and modified existing relocation procedures for the 2110-2150 MHz and 2175-2180 MHz bands. It also established cost-sharing rules to identify the reimbursement obligations for Advanced Wireless Service (AWS) and Mobile Satellite Service (MSS) entrants benefiting from the relocation of incumbent FS operations in the 2110-2150 MHz and 2160-2200 MHz bands and AWS entrants benefiting from the relocation of BRS incumbents in the 2150-2160/62 MHz band. The Commission continues its ongoing efforts to promote spectrum utilization and efficiency with regard to the provision of new services, including AWS. The Order dismisses a petition for reconsideration filed by the Wireless Communications Association International, Inc. (WCA) as moot. Two petitions for reconsideration were filed in response to the ninth Report and Order. The Report and Orders and Declaratory Ruling concludes the Commission's longstanding efforts to relocate the Broadcast Auxiliary Service (BAS) from the 1990-2110 MHz band to the 2025-2110 MHz band, freeing up 35 megahertz of spectrum in order to foster the development of new and innovative services. This decision addresses the outstanding matter of Sprint Nextel Corporation's (Sprint Nextel) inability to agree with Mobile Satellite Service (MSS) operators in the band on the sharing of the costs to relocate the BAS incumbents. To resolve this controversy, the Commission applied its time-honored relocation principles for emerging technologies previously adopted for the BAS band to the instant relocation process, where delays and unanticipated developments have left ambiguities and misconceptions among the relocating parties. In the process, the Commission balances the responsibilities for and benefits of relocating incumbent BAS operations among all the new entrants in the different services that will operate in the band. The Commission proposed to modify its cost-sharing requirements for the 2 GHz BAS band because the circumstances surrounding the BAS transition are very different than what was expected when the cost-sharing requirements were adopted. The Commission believed that the best course of action was to propose new requirements that would address the ambiguity of applying the literal language of the current requirements to the changed circumstances, as well as balance the responsibilities for and benefits of relocating incumbent BAS operations among all new entrants in the band based on the Commission's relocation policies set forth in the Emerging Technologies proceeding. The Commission proposed to eliminate, as of January 1, 2009, the requirement that Broadcast Auxiliary Service (BAS) licensees in the 30 largest markets and fixed BAS links in all markets be transitioned before the Mobile Satellite Service (MSS) operators can begin offering service. The Commission also sought comments on how to mitigate interference between new MSS entrants and incumbent BAS licensees who had not completed relocation before the MSS entrants begin offering service. In addition, the Commission sought comments on allowing MSS operators to begin providing service in those markets where BAS incumbents have been transitioned. In the Further Notice of Proposed Rule Making the Commission proposed to modify its cost sharing requirements for the 2 GHz BAS band because the circumstances surrounding the BAS transition are very different than what was expected when the cost sharing requirements were adopted. The Commission believes that the best course of action is to propose new requirements that will address the ambiguity of applying the literal language of the current requirements to the changed circumstances, as well as balance the responsibilities for and benefits of relocating incumbent BAS operations among all new entrants in the band based on the Commission's relocation policies set forth in the Emerging Technologies proceeding.

Timetable:

Action | Date | FR Cite
NPRM | 01/23/01 | 66 FR 7438
NPRM Comment Period End | 03/09/01
Final Report | 04/11/01 | 66 FR 18740
FNPRM | 09/13/01 | 66 FR 47618
MO&O | 09/13/01 | 66 FR 47591
First R&O | 10/25/01 | 66 FR 53973
Petition for Reconsideration | 11/02/01 | 66 FR 55666
Second R&O | 01/24/03 | 68 FR 3455
Third NPRM | 03/13/03 | 68 FR 12015
Seventh R&O | 12/29/04 | 69 FR 7793
Petition for Reconsideration | 04/13/05 | 70 FR 19469
Eighth R&O | 10/26/05 | 70 FR 61742
Order | 10/26/05 | 70 FR 61742
NPRM | 10/26/05 | 70 FR 61752
Public Notice | 12/14/05 | 70 FR 74011
Ninth R&O and Order | 05/24/06 | 71 FR 29818
Petition for Reconsideration | 07/19/06 | 71 FR 41022
FNPRM | 03/31/08 | 73 FR 16822
R&O and NPRM | 06/23/09 | 74 FR 29607
FNPRM | 06/23/09 | 74 FR 29607
5th R&O, 11th R&O, 6th R&O, and Declaratory Ruling | 11/02/10 | 75 FR 67227
Next Action Undetermined

Regulatory Flexibility Analysis Required: Yes.

Agency Contact: Rodney Small, Economist, Federal Communications Commission, Office of Engineering and Technology, 445 12th Street SW., Washington, DC 20554, Phone: 202 418-2452, Fax: 202 418-1944, Email: rodney.small@fcc.gov.

RIN: 3060-AH65

447. Exposure to Radiofrequency Electromagnetic Fields

Legal Authority: 47 U.S.C. 151; 47 U.S.C. 302 and 303; 47 U.S.C. 309(j); 47 U.S.C. 336

Abstract: In the Report and Order the Federal Communications Commission (Commission) resolved several issues regarding compliance with its regulations for conducting environmental reviews under the National Environmental Policy Act (NEPA) as they relate to the guidelines for human exposure to RF electromagnetic fields. More specifically, the Commission clarifies evaluation procedures and references to determine compliance with its limits, including specific absorption rate (SAR) as a primary metric for compliance, consideration of the pinna (outer ear) as an extremity, and measurement of medical implant exposure. The Commission also elaborates on mitigation procedures to ensure compliance with its limits, including labeling and other requirements for occupational exposure classification, clarification of compliance responsibility at multiple transmitter sites, and labeling of fixed consumer transmitters.

Timetable:

Action | Date | FR Cite
NPRM | 09/08/03 | 68 FR 52879
NPRM Comment Period End | 12/08/03
R&O | 06/04/13 | 78 FR 33634
Petition for Recon | 08/27/13 | 78 FR 52893
Next Action Undetermined

Regulatory Flexibility Analysis Required: Yes.

Agency Contact: Ira Keltz, Electronics Engineer, Federal Communications Commission, Office of Engineering and Technology, 445 12th Street SW., Washington, DC 20554, Phone: 202 418-0616, Fax: 202 418-1944, Email: ikeltz@fcc.gov.

RIN: 3060-AI17

448. Unlicensed Operation in the TV Broadcast Bands (ET Docket No. 04-186)

Legal Authority: 47 U.S.C. 154(i); 47 U.S.C. 302; 47 U.S.C. 303(e) and 303(f); 47 U.S.C. 303(r); 47 U.S.C. 307

Abstract: The Commission adopted rules to allow unlicensed radio transmitters to operate in the broadcast television spectrum at locations where that spectrum is not being used by licensed services (this unused TV spectrum is often termed “white spaces”). This action will make a significant amount of spectrum available for new and innovative products and services, including broadband data and other services for businesses and consumers. The actions taken are a conservative first step that includes many safeguards to prevent harmful interference to incumbent communications services. Moreover, the Commission will closely oversee the development and introduction of these devices to the market and will take whatever actions may be necessary to avoid, and if necessary, correct any interference that may occur. The Second Memorandum Opinion and Order finalizes rules to make the unused spectrum in the TV bands available for unlicensed broadband wireless devices. This particular spectrum has excellent propagation characteristics that allow signals to reach farther and penetrate walls and other structures. Access to this spectrum could enable more powerful public Internet connections—super Wi-Fi hot spots—with extended range, fewer dead spots, and improved individual speeds as a result of reduced congestion on existing networks. This type of “opportunistic use” of spectrum has great potential for enabling access to other spectrum bands and improving spectrum efficiency. The Commission's actions here are expected to spur investment and innovation in applications and devices that will be used not only in the TV band, but eventually in other frequency bands as well. This Order addressed five petitions for reconsideration of the Commission's decisions in the Second Memorandum Opinion and Order (“Second MO&O”) in this proceeding and modified rules in certain respects. In particular, the Commission: (1) Increased the maximum height above average terrain (HAAT) for sites where fixed devices may operate; (2) modified the adjacent channel emission limits to specify fixed rather than relative levels; and (3) slightly increased the maximum permissible power spectral density (PSD) for each category of TV bands device. These changes will result in decreased operating costs for fixed TVBDs and allow them to provide greater coverage, thus increasing the availability of wireless broadband services in rural and underserved areas without increasing the risk of interference to incumbent services. The Commission also revised and amended several of its rules to better effectuate the Commission's earlier decisions in this docket and to remove ambiguities.

Timetable:

Action | Date | FR Cite
NPRM | 06/18/04 | 69 FR 34103
First R&O | 11/17/06 | 71 FR 66876
FNPRM | 11/17/06 | 71 FR 66897
R&O and MO&O | 02/17/09 | 74 FR 7314
Petitions for Reconsideration | 04/13/09 | 74 FR 16870
Second MO&O | 12/06/10 | 75 FR 75814
Petitions for Reconsideration | 02/09/11 | 76 FR 7208
3rd MO&O and Order | 05/17/12 | 77 FR 28236
Next Action Undetermined

Regulatory Flexibility Analysis Required: Yes.

Agency Contact: Hugh Van Tuyl, Electronics Engineer, Federal Communications Commission, Office of Engineering and Technology, 445 12th Street SW., Washington, DC 20554, Phone: 202 418-7506, Fax: 202 418-1944, Email: hugh.vantuyl@fcc.gov.

RIN: 3060-AI52

449. Fixed and Mobile Services in the Mobile Satellite Service (ET Docket No. 10-142)

Legal Authority: 47 U.S.C. 154(i) and 301; 47 U.S.C. 303(c) and 303(f); 47 U.S.C. 303(r) and 303(y); 47 U.S.C. 310

Abstract: The Notice of Proposed Rulemaking proposed to take a number of actions to further the provision of terrestrial broadband services in the MSS bands. In the 2 GHz MSS band, the Commission proposed to add co-primary Fixed and Mobile allocations to the existing Mobile-Satellite allocation. This would lay the groundwork for providing additional flexibility in use of the 2 GHz spectrum in the future. The Commission also proposed to apply the terrestrial secondary market spectrum leasing rules and procedures to transactions involving terrestrial use of the MSS spectrum in the 2 GHz, Big LEO, and L-bands in order to create greater certainty and regulatory parity with bands licensed for terrestrial broadband service. The Commission also asked, in a notice of inquiry, about approaches for creating opportunities for full use of the 2 GHz band for standalone terrestrial uses. The Commission requested comment on ways to promote innovation and investment throughout the MSS bands while also ensuring market-wide mobile satellite capability to serve important needs like disaster recovery and rural access.

In the Report and Order, the Commission amended its rules to make additional spectrum available for new investment in mobile broadband networks while also ensuring that the United States maintains robust mobile satellite service capabilities. First, the Commission adds co-primary Fixed and Mobile allocations to the Mobile Satellite Service (MSS) 2 GHz band, consistent with the International Table of Allocations, allowing more flexible use of the band, including for terrestrial broadband services, in the future. Second, to create greater predictability and regulatory parity with the bands licensed for terrestrial mobile broadband service, the Commission extends its existing secondary market spectrum manager spectrum leasing policies, procedures, and rules that currently apply to wireless terrestrial services to terrestrial services provided using the Ancillary Terrestrial Component (ATC) of an MSS system. Petitions for Reconsideration have been filed in the Commission's rulemaking proceeding concerning Fixed and Mobile Services in the Mobile Satellite Service Bands at 1525-1559 MHz and 1626.5-1660.5 MHz, 1610-1626.5 MHz and 2483.5-2500 MHz, and 2000-2020 MHz and 2180-2200 MHz, and published pursuant to 47 CFR 1.429(e). See 1.4(b)(1) of the Commission's rules.

Timetable:

Action | Date | FR Cite
NPRM | 08/16/10 | 75 FR 49871
NPRM Comment Period End | 09/15/10
Reply Comment Period End | 09/30/10
R&O | 05/31/11 | 76 FR 31252
Petitions for Reconsideration | 08/10/11 | 76 FR 49364
Next Action Undetermined

Regulatory Flexibility Analysis Required: Yes.

Agency Contact: Nicholas Oros, Electronics Engineer, Federal Communications Commission, 445 12th Street SW., Washington, DC 20554, Phone: 202 418-0636, Email: nicholas.oros@fcc.gov.

RIN: 3060-AJ46

450. Radio Experimentation and Market Trials Under Part 5 of the Commission's Rules and Streamlining Other Related Rules (ET Docket No. 10-236)

Legal Authority: 47 U.S.C. 154(i); 47 U.S.C. 301 and 303

Abstract: The Commission initiated this proceeding to promote innovation and efficiency in spectrum use in the Experimental Radio Service (ERS). For many years, the ERS has provided fertile ground for testing innovative ideas that have led to new services and new devices for all sectors of the economy. The Commission proposed to leverage the power of experimental radio licensing to accelerate the rate at which these ideas transform from prototypes to consumer devices and services. Its goal is to inspire researchers to dream, discover, and deliver the innovations that push the boundaries of the broadband ecosystem. The resulting advancements in devices and services available to the American public and greater spectrum efficiency over the long term will promote economic growth, global competitiveness, and a better way of life for all Americans.

In the Report and Order (R&O), the Commission revised and streamlined its rules to modernize the Experimental Radio Service (ERS). The rules adopted in the R&O updated the ERS to a more flexible framework to keep pace with the speed of modern technological change while continuing to provide an environment where creativity can thrive. To accomplish this transition, the Commission created three new types of ERS licenses—the program license, the medical testing license, and the compliance testing license—to benefit the development of new technologies, expedite their introduction to the marketplace, and unleash the full power of innovators to keep the United States at the forefront of the communications industry. The Commission's actions also modified the market trial rules to eliminate confusion and more clearly articulate its policies with respect to marketing products prior to equipment certification. The Commission believes that these actions will remove regulatory barriers to experimentation, thereby permitting institutions to move from concept to experimentation to finished product more rapidly and to more quickly implement creative problem-solving methodologies.

The Memorandum Opinion and Order responds to three petitions for reconsideration seeking to modify certain rules adopted in the Report and Order in this proceeding. In response, the Commission modifies its rules, consistent with past practice, to permit conventional Experimental Radio Service (ERS) licensees and compliance testing licensees to use bands exclusively allocated to the passive services in some circumstances; clarifies that some cost recovery is permitted for the testing and operation of experimental medical devices that take place under its market trial rules; and adds a definition of emergency notification providers to its rules to clarify that all participants in the Emergency Alert System (EAS) are such providers. However, the Commission declines to expand the eligibility for medical testing licenses.

In the Further Notice of Proposed Rulemaking the Commission proposes to modify the rules for program experimental licenses to permit experimentation for radio frequency (RF)-based medical devices, if the device being tested is designed to comply with all applicable service rules in part 18, Industrial, Scientific, and Medical Equipment; part 95, Personal Radio Services subpart H Wireless Medical Telemetry Service; or part 95, subpart I Medical Device Radiocommunication Service. This proposal is designed to establish parity between all qualified medical device manufacturers for conducting basic research and clinical trials with RF-based medical devices as to permissible frequencies of operation.

This Memorandum Opinion and Order responds to three petitions for reconsideration seeking to modify certain rules adopted in the Report and Order in this proceeding. In response, the Commission modifies its rules, consistent with past practice, to permit conventional Experimental Radio Service (ERS) licensees and compliance testing licensees to use bands exclusively allocated to the passive services in some circumstances; clarifies that some cost recovery is permitted for the testing and operation of experimental medical devices that take place under its market trial rules; and adds a definition of emergency notification providers: To its rules to clarify that all participants in the Emergency Alert System (EAS) are such providers. However, the Commission declines to expand the eligibility for medical testing licenses.

Timetable:

Action | Date | FR Cite
NPRM | 02/08/11 | 76 FR 6928
NPRM Comment Period End | 03/10/11
R&O | 04/29/13 | 78 FR 25138
FNPRM | 08/31/15 | 80 FR 52437
MO&O | 08/31/15 | 80 FR 52408
Next Action Undetermined

Regulatory Flexibility Analysis Required: Yes.

Agency Contact: Nnake Nweke, Chief, Experimental Licensing Branch, Federal Communications Commission, Office of Engineering and Technology, 445 12th Street SW., Washington, DC 20554, Phone: 202 418-0785, Email: nnake.nweke@fcc.gov.

RIN: 3060-AJ62

451. Operation of Radar Systems in the 76-77 GHz Band (ET Docket No. 11-90)

Legal Authority: 47 U.S.C. 151; 47 U.S.C. 152; 47 U.S.C. 154(i); 47 U.S.C. 301; 47 U.S.C. 302; 47 U.S.C. 303(f)

Abstract: The Commission proposed to amend its rules to enable enhanced vehicular radar technologies in the 76-77 GHz band to improve collision avoidance and driver safety. Vehicular radars can determine the exact distance and relative speed of objects in front of, beside, or behind a car to improve the driver's ability to perceive objects under bad visibility conditions or objects that are in blind spots. These modifications to the rules will provide more efficient use of spectrum, and enable the automotive and fixed radar application industries to develop enhanced safety measures for drivers and the general public. The Commission takes this action in response to petitions for rulemaking filed by Toyota Motor Corporation (“TMC”) and Era Systems Corporation (“Era”). The Report and Order amends the Commission's rules to provide a more efficient use of the 76-77 GHz band, and to enable the automotive and aviation industries to develop enhanced safety measures for drivers and the general public. Specifically, the Commission eliminated the in-motion and not-in-motion distinction for vehicular radars, and instead adopted new uniform emission limits for forward, side, and rear-looking vehicular radars. This will facilitate enhanced vehicular radar technologies to improve collision avoidance and driver safety. The Commission also amended its rules to allow the operation of fixed radars at airport locations in the 76-77 GHz band for purposes of detecting foreign object debris on runways and monitoring aircraft and service vehicles on taxiways and other airport vehicle service areas that have no public vehicle access. The Commission took this action in response to petitions for rulemaking filed by Toyota Motor Corporation (“TMC”) and Era Systems Corporation (“Era”). Petitions for Reconsideration were filed by Navtech Radar, Ltd. and Honeywell International Inc.

Navtech Radar, Ltd. and Honeywell International, Inc., filed petitions for reconsideration in response to the Vehicular Radar R&O that modified the Commission's Part 15 rules to permit vehicular radar technologies and airport-based fixed radar applications in the 76-77 GHz band.

The Commission denied Honeywell's petition. Section 1.429(b) of the Commission's rules provides three ways in which a petition for reconsideration can be granted, and none of these have been met. Honeywell has not shown that its petition relies on facts regarding fixed radar use which had not previously been presented to the Commission, nor does it show that its petition relies on facts that relate to events that changed since Honeywell had the last opportunity to present its facts regarding fixed radar use.

The Commission stated in the Vehicular Radar R&O, “that no parties have come forward to support fixed radar applications beyond airport locations in this band,” and it decided not to adopt provisions for unlicensed fixed radar use other than those for FOD detection applications at airport locations. Because Navtech first participated in the proceeding when it filed its petition well after the decision was published, its petition fails to meet the timeliness standard of section 1.429(d).

In connection with the Commission's decision to deny the petitions for reconsideration discussed above, the Commission terminates ET Docket Nos. 10-28 and 11-90 (pertaining to vehicular radar).

Timetable:

Action | Date | FR Cite
NPRM | 06/16/11 | 76 FR 35176
R&O | 08/13/12 | 77 FR 48097
Petition for Reconconsideration | 11/11/12 | 77 FR 68722
Reconsideration Order | 03/06/15 | 80 FR 12120
Next Action Undetermined

Regulatory Flexibility Analysis Required: Yes.

Agency Contact: Aamer Zain, Federal Communications Commission, 445 12th Street SW., Washington, DC 20554, Phone: 202 418-2437, Email: aamer.zain@fcc.gov.

RIN: 3060-AJ68

452. WRC-07 Implementation (ET Docket No. 12-338)

Legal Authority: 47 U.S.C. 151; 47 U.S.C. 154; 47 U.S.C. 301; 47 U.S.C. 302(a); 47 U.S.C. 303

Abstract: In the Notice of Proposed Rulemaking (NPRM), the Commission proposed to amend parts 1, 2, 74, 78, 87, 90, and 97 of its rules to implement allocation decisions from the World Radiocommunication Conference (Geneva, 2007) (WRC 07) concerning portions of the radio frequency (RF) spectrum between 108 MHz and 20.2 GHz and to make certain updates to its rules in this frequency range. The NPRM follows the Commission's July 2010 WRC-07 Table Clean-up Order, 75 FR 62924, October 13, 2010, which made certain nonsubstantive, editorial revisions to the Table of Frequency Allocations (Allocation Table) and to other related rules. The Commission also addressed the recommendations for implementation of the WRC-07 Final Acts that the National Telecommunications and Information Administration (NTIA) submitted to the Commission in August 2009. As part of its comprehensive review of the Allocation Table, the Commission also proposed to make allocation changes that are not related to the WRC-07 Final Acts and update certain service rules, and requested comment on other allocation issues that concern portions of the RF spectrum between 137.5 kHz and 54.25 GHz.

In the Report and Order the Commission implemented allocation changes from the World Radiocommunication Conference (Geneva, 2007) (WRC-07) and updated related service rules. The Commission took this action in order to conform its rules, to the extent practical, to the decisions that the international community made at WRC-07. This action will promote the advancement of new and expanded services and provide significant benefits to the American people. In addition, the Commission revised the International Table of Frequency Allocations within its rules to generally reflect the allocation changes made at the World Radiocommunication Conference (Geneva, 2012) (WRC-12).

Timetable:

Action | Date | FR Cite
NPRM | 12/27/12 | 77 FR 76250
NPRM Comment Period End | 02/25/13
Report and Order | 04/23/15 | 80 FR 38811
Next Action Undetermined

Regulatory Flexibility Analysis Required: Yes.

Agency Contact: Tom Mooring, Electronics Engineer, Federal Communications Commission, Office of Engineering and Technology, 445 12th Street SW., Washington, DC 20554, Phone: 202 418-2450, Fax: 202 418-1944, Email: tom.mooring@fcc.gov.

RIN: 3060-AJ93

453. Federal Earth Stations—Non Federal Fixed Satellite Service Space Stations; Spectrum for Non-Federal Space Launch Operations; ET Docket No. 13-115

Legal Authority: 47 U.S.C. 154; 47 U.S.C. 302(a); 47 U.S.C. 303; 47 U.S.C. 336

Abstract: The Notice of Proposed Rulemaking proposes to make spectrum allocation proposals for three different space related purposes. The Commission makes two alternative proposals to modify the Allocation Table to provide interference protection for Fixed-Satellite Service (FSS) and Mobile-Satellite Service (MSS) earth stations operated by Federal agencies under authorizations granted by the National Telecommunications and Information Administration (NTIA) in certain frequency bands. The Commission also proposes to amend a footnote to the Allocation Table to permit a Federal MSS system to operate in the 399.9-400.05 MHz band; it also makes alternative proposals to modify the Allocation Table to provide access to spectrum on an interference protected basis to Commission licensees for use during the launch of launch vehicles (i.e. rockets). The Commission also seeks comment broadly on the future spectrum needs of the commercial space sector. The Commission expects that, if adopted, these proposals would advance the commercial space industry and the important role it will play in our Nation's economy and technological innovation now and in the future.

Timetable:

Action | Date | FR Cite
NPRM | 07/01/13 | 78 FR 39200
Next Action Undetermined

Regulatory Flexibility Analysis Required: Yes.

Agency Contact: Nicholas Oros, Electronics Engineer, Federal Communications Commission, 445 12th Street SW., Washington, DC 20554, Phone: 202 418-0636, Email: nicholas.oros@fcc.gov.

RIN: 3060-AK09

454. Authorization of Radiofrequency Equipment; ET Docket No. 13-44

Legal Authority: 47 U.S.C. 151; 47 U.S.C. 154(i); 47 U.S.C. 157(a); 47 U.S.C. 301; 47 U.S.C. 303(f); 47 U.S.C. 303(g); 47 U.S.C. 303(r); 47 U.S.C. 307(e); 47 U.S.C. 332

Abstract: The Commission is responsible for an equipment authorization program for radiofrequency (RF) devices under part 2 of its rules. This program is one of the primary means that the Commission uses to ensure that the multitude of RF devices used in the United States operate effectively without causing harmful interference and otherwise comply with the Commission rules. All RF devices subject to equipment authorization must comply with the Commission's technical requirement before they can be imported or marketed. The Commission or a Telecommunication Certification Body (TCB) must approve some of these devices before they can be imported or marketed, while others do not require such approval. The Commission last comprehensively reviewed its equipment authorization program more than 10 years ago. The rapid innovation in equipment design since that time has led to ever-accelerating growth in the number of parties applying for equipment approval. The Commission therefore believes that the time is now right for us to comprehensively review our equipment authorization processes to ensure that they continue to enable this growth and innovation in the wireless equipment market. In May of 2012, the Commission began this reform process by issuing an Order to increase the supply of available grantee codes. With this Notice of Proposed Rulemaking (NPRM), the Commission continues its work to review and reform the equipment authorization processes and rules. This Notice of Proposed Rulemaking proposes certain changes to the Commission's part 2 equipment authorization processes to ensure that they continue to operate efficiently and effectively. In particular, it addresses the role of TCBs in certifying RF equipment and post-market surveillance, as well as the Commission's role in assessing TCB performance. The NPRM also addressed the role of test laboratories in the RF equipment approval process, including accreditation of test labs and the Commission's recognition of laboratory accreditation bodies, and measurement procedures used to determine RF equipment compliance. Finally, it proposes certain modifications to the rules regarding TCBs that approve terminal equipment under part 68 of the rules that are consistent with our proposed modifications to the rules for TCBs that approve RF equipment. Specifically, the Commission proposes to recognize the National Institute for Standards and Technology (NIST) as the organization that designates TCBs in the United States and to modify the rules to reference the current International Organization for Standardization and International Electrotechnical Commission (ISO/IEC) guides used to accredit TCBs.

This Report and Order updates the Commission's radiofrequency (RF) equipment authorization program to build on the success realized by its use of Commission-recognized Telecommunications Certification Bodies (TCBs). The rules the Commission is adopting will facilitate the continued rapid introduction of new and innovative products to the market while ensuring that these products do not cause harmful interference to each other or to other communications devices and services.

Timetable:

Action | Date | FR Cite
NPRM | 05/03/13 | 78 FR 25916
R&O | 06/12/15 | 80 FR 33425
Next Action Undetermined

Regulatory Flexibility Analysis Required: Yes.

Agency Contact: Hugh Van Tuyl, Electronics Engineer, Federal Communications Commission, Office of Engineering and Technology, 445 12th Street SW., Washington, DC 20554, Phone: 202 418-7506, Fax: 202 418-1944, Email: hugh.vantuyl@fcc.gov.

RIN: 3060-AK10

455. Operation of Radar Systems in the 76-77 GHz Band (ET Docket No. 15-26)

Legal Authority: 47 U.S.C. 1; 47 U.S.C. 4(i); 47 U.S.C. 154(i); 47 U.S.C. 302; 47 U.S.C. 303(f); 47 U.S.C. 303(r); 47 U.S.C. 332; 47 U.S.C. 337

Abstract: The Notice of Proposed Rulemaking proposes to authorize radar applications in the 76-81 GHz band. The Commission seeks to develop a flexible and streamlined regulatory framework that will encourage efficient, innovative uses of the spectrum and to allow various services to operate on an interference-protected basis. In doing so, it further seeks to adopt service rules that will allow for the deployment of the various radar applications in this band, both within and outside the U.S. The Commission takes this action in response to a petition for rulemaking filed by Robert Bosch, LLC (Bosch) and two petitions for reconsideration of the 2012 Vehicular Radar R&O.

Timetable:

Action | Date | FR Cite
NPRM | 03/06/15 | 80 FR 12120
NPRM Comment Period End | 04/06/15
NPRM Reply Comment Period End | 04/20/15
Next Action Undetermined

Regulatory Flexibility Analysis Required: Yes.

Agency Contact: Aamer Zain, Federal Communications Commission, 445 12th Street SW., Washington, DC 20554, Phone: 202 418-2437, Email: aamer.zain@fcc.gov.

RIN: 3060-AK29

456. Spectrum Access for Wireless Microphone Operations (GN Docket Nos. 14-166 and 12-268)

Legal Authority: 47 U.S.C. 151; 47 U.S.C. 154(i); 47 U.S.C. 157(a); 47 U.S.C. 301; 47 U.S.C. 303(f); 47 U.S.C. 303(g); 47 U.S.C. 303(r); 47 U.S.C. 307(e); 47 U.S.C. 332

Abstract: The Notice of Proposed Rule Making initiates a proceeding to address how to accommodate the long-term needs of wireless microphone users. Wireless microphones play an important role in enabling broadcasters and other video programming networks to serve consumers, including as they cover breaking news and broadcast live sports events. They enhance event productions in a variety of settings including theaters and music venues, film studios, conventions, corporate events, houses of worship, and internet webcasts. They also help create high quality content that consumers demand and value. Recent actions by the Commission, and in particular the repurposing of broadcast television band spectrum for wireless services set forth in the Incentive Auction R&O, will significantly alter the regulatory environment in which wireless microphones operate, which necessitates our addressing how to accommodate wireless microphone users in the future.

Timetable:

Action | Date | FR Cite
NPRM | 11/21/14 | 79 FR 69387
NPRM Comment Period End | 01/05/15
NPRM Reply Comment Period End | 01/26/15
Next Action Undetermined

Regulatory Flexibility Analysis Required: Yes.

Agency Contact: Paul Murray, Attorney Advisor, Federal Communications Commission, Office of Engineering and Technology, 445 12th Street SW., Washington, DC 20554, Phone: 202 418-0688, Fax: 202 418-7447, Email: paul.murray@fcc.gov.

RIN: 3060-AK30

FEDERAL COMMUNICATIONS COMMISSION (FCC)

Office of Engineering and Technology

Completed Actions

457. Innovation in the Broadcast Television Bands (ET Docket No. 10-235)

Legal Authority: 47 U.S.C. 154(i); 47 U.S.C. 301; 47 U.S.C. 302; 47 U.S.C. 303(e); 47 U.S.C. 303(f); 47 U.S.C. 303(r)

Abstract: The Commission initiated this proceeding to further its ongoing commitment to address America's growing demand for wireless broadband services, spur innovation and investment in mobile technology, and ensure that America keeps pace with the global wireless revolution by making a significant amount of new spectrum available for broadband. The approach proposed is consistent with the goal set forth in the National Broadband Plan (the Plan) to repropose up to 120 megahertz from the broadcast television bands for new wireless broadband uses through, in part, voluntary contributions of spectrum to an incentive auction. Reallocation of this spectrum as proposed will provide the necessary flexibility for meeting the requirements of these new applications.

In the Report and Order, the Commission took preliminary steps toward making a significant portion of the UHF and VHF frequency bands (U/V Bands) currently used by the broadcast television service available for new uses. This action serves to further address the Nation's growing demand for wireless broadband services, promote the ongoing innovation and investment in mobile communications, and ensure that the United States keeps pace with the global wireless revolution. At the same time, the approach helps preserve broadcast television as a healthy, viable medium and would be consistent with the general proposal set forth in the National Broadband Plan to repurpose spectrum from the U/V bands for new wireless broadband uses through, in part, voluntary contributions of spectrum to an incentive auction. This action is consistent with the recent enactment by Congress of new incentive auction authority for the Commission (Spectrum Act). Specifically, this item sets out a framework by which two or more television licensees may share a single six MHz channel in connection with an incentive auction. However, the Report and Order did not act on the proposals in the Notice of Proposed Rulemaking to establish fixed and mobile allocations in the U/V bands or to improve TV service on VHF channels. The Report and Order stated that the Commission will undertake a broader rulemaking to implement the Spectrum Act's provisions relating to an incentive auction for U/V band spectrum, and that it believes it will be more efficient to act on new allocations in the context of that rulemaking. In addition, the record created in response to the Notice of Proposed Rulemaking does not establish a clear way forward to increase the utility of the VHF bands significantly for the operation of television services. The Report and Order states that the Commission will revisit this matter in a future proceeding.

Timetable:

Action | Date | FR Cite
NPRM | 02/01/11 | 76 FR 5521
NPRM Comment Period End | 03/18/11 |
R&O | 05/23/12 | 77 FR 30423

Regulatory Flexibility Analysis Required: Yes.

Agency Contact: Alan Stillwell, Deputy Chief, Federal Communications Commission, Office of Engineering and Technology, 445 12th Street SW., Washington, DC 20554, Phone: 202 418-2925, Email: alan.stillwell@fcc.gov.

RIN: 3060-AJ57

458. Tank Level Probing Radars (ET Docket No. 10-23)

Legal Authority: 47 U.S.C. 151; 47 U.S.C. 154(i); 47 U.S.C. 302; 47 U.S.C. 303(e); 47 U.S.C. 303(f); 47 U.S.C. 303(g); 47 U.S.C. 303(r)

Abstract: The Notice of Proposed Rulemaking proposed to expand the scope of this proceeding to propose a set of technical rules for the operation of unlicensed level probing radars (LPR) in several frequency bands. LPR devices are low-power radars that measure the level (relative height) of various substances in man-made or natural containments. In open-air environments, LPR devices may be used to measure levels of materials, such as coal piles or water basin levels. An LPR device also may be installed inside an enclosure, e.g., a tank made of materials such as steel or fiberglass, and commonly referred to as a tank level probing radar (TLPR) that could be filled with liquids or granulates. During the pendency of the rulemaking proceeding (but outside this proceeding), the Commission received waiver requests and other inquiries regarding outdoor use on additional frequencies under existing rules for unlicensed devices. To address the apparent need for a comprehensive and consistent approach to LPR devices, the Commission proposed in this FNPRM rule that would apply to the operation of LPR devices installed in both open-air environments and inside storage tanks in the following frequency bands: 5.925-7.250 GHz, 24.05-29.00 GHz, and 75-85 GHz.

The Report and Order in this proceeding modifies part 15 of the Commission's rules for level probing radars (LPRs) operating on an unlicensed basis in the 5.9257.250 GHz, 24.0529.00 GHz, and 7585 GHz bands to revise our measurement procedures to provide more accurate and repeatable measurement protocols for these devices. LPR devices are lowpower radars that measure the level (relative height) of various substances in manmade or natural containments. In open air environments, LPR devices may be used to measure levels of substances such as water basin levels or coal piles. An LPR device that is installed inside an enclosure, which could be filled with liquids or granulates, is commonly referred to as a tank level probing radar (TLPR). LPR (including TLPR) devices can provide accurate and reliable target resolution to identify water levels in rivers and dams or critical levels of materials such as fuel or sewertreated waste, reducing overflow and spillage and minimizing exposure of maintenance personnel in the case of high risk substances. The new rules will benefit the public and industry by improving the accuracy and reliability of these measuring tools, and providing needed flexibility and cost savings for LPR device manufacturers which should, in turn, make them more available to users, without causing harmful interference to authorized services.

Timetable:

Action | Date | FR Cite
NPRM | 04/30/12 | 77 FR 25386
R&O | 03/06/14 | 79 FR 12667

Regulatory Flexibility Analysis Required: Yes.

Agency Contact: Anh Wride, Electronics Engineer, Federal Communications Commission, 445 12th Street SW., Washington, DC 20554, Phone: 202 418-0577, Fax: 202 418-1944, Email: anh.wride@fcc.gov.

RIN: 3060-AJ83

FEDERAL COMMUNICATIONS COMMISSION (FCC)

International Bureau

Long-Term Actions

459. Space Station Licensing Reform (IB Docket No. 02-34)

Legal Authority: 47 U.S.C. 154(i); 47 U.S.C. 157; 47 U.S.C. 303(c); 47 U.S.C. 303(g)

Abstract: The Commission adopted a Notice of Proposed Rulemaking (NPRM) to streamline its procedures for reviewing satellite license applications. Before 2003, the Commission used processing rounds to review those applications. In a processing round, when an application is filed, the International Bureau (Bureau) issued a Public Notice establishing a cutoff date for other mutually exclusive satellite applications, and then considered all those applications together. In cases where sufficient spectrum to accommodate all the applications was not available, the Bureau directed the applicants to negotiate a mutually agreeable solution. Those negotiations took a long time, and delayed provision of satellite services to the public. The NPRM invited comment on two alternatives for expediting the satellite application process. One alternative was to replace the processing round procedure with a “first-come, first-served” procedure that would allow the Bureau to issue a satellite license to the first party filing a complete, acceptable application. The other alternative was to streamline the processing round procedure by adopting one or more of the following proposals: (1) Place a time limit on negotiations; (2) establish criteria to select among competing applicants; (3) divide the available spectrum evenly among the applicants. In the First Report and Order in this proceeding, the Commission determined that different procedures were better suited for different kinds of satellite applications. For most geostationary orbit (GSO) satellite applications, the Commission adopted a first-come, first-served approach. For most non-geostationary orbit (NGSO) satellite applications, the Commission adopted a procedure in which the available spectrum is divided evenly among the qualified applicants. The Commission also adopted measures to discourage applicants from filing speculative applications, including a bond requirement, payable if a licensee misses a milestone. The bond amounts originally were $5 million for each GSO satellite, and $7.5 million for each NGSO satellite system. These were interim amounts. Concurrently with the First Report and Order, the Commission adopted an FNPRM to determine whether to revise the bond amounts on a long-term basis. In the Second Report and Order, the Commission adopted a streamlined procedure for certain kinds of satellite license modification requests. In the Third Report and Order, the Commission adopted a standardized application form for satellite licenses, and adopted a mandatory electronic filing requirement for certain satellite applications. In the Fourth Report and Order, the Commission revised the bond amounts based on the record developed in response to FNPRM. The bond amounts are now $3 million for each GSO satellite, and $5 million for each NGSO satellite system.

Timetable:

Action | Date | FR Cite
NPRM | 03/19/02 | 67 FR 12498
NPRM Comment Period End | 07/02/02 |
Second R&O (Release Date) | 06/20/03 | 68 FR 62247
Second FNPRM (Release Date) | 07/08/03 | 68 FR 53702
Third R&O (Release Date) | 07/08/03 | 68 FR 63994
FNPRM | 08/27/03 | 68 FR 51546
First R&O | 08/27/03 | 68 FR 51499
FNPRM Comment Period End | 10/27/03 |
Fourth R&O (Release Date) | 04/16/04 | 69 FR 67790
Fifth R&O, First Order on Reconsideration | 08/20/04 | 69 FR 51586
Next Action Undetermined

Regulatory Flexibility Analysis Required: Yes.

Agency Contact: Clay DeCell, Attorney Advisor, Federal Communications Commission, 445 12th Street SW., Washington, DC 20554, Phone: 202 418-0803, Email: clay.decell@fcc.gov.

RIN: 3060-AH98

460. International Settlements Policy Reform (IB Docket No. 11-80)

Legal Authority: 47 U.S.C. 151; 47 U.S.C. 152; 47 U.S.C. 154; 47 U.S.C. 201 to 205; 47 U.S.C. 208; 47 U.S.C. 211; 47 U.S.C. 214; 47 U.S.C. 303(r); 47 U.S.C. 309; 47 U.S.C. 403

Abstract: FCC is reviewing the International Settlements Policy (ISP). It governs how U.S. carriers negotiate with foreign carriers for the exchange of international traffic, and is the structure by which the Commission has sought to respond to concerns that foreign carriers with market power are able to take advantage of the presence of multiple U.S. carriers serving a particular market. In the NPRM, the FCC proposes to further deregulate the international telephony market and enable U.S. consumers to enjoy competitive prices when they make calls to international destinations. First, it proposes to remove the ISP from all international routes, except Cuba. Second, the FCC seeks comment on a proposal to enable the Commission to better protect U.S. consumers from the effects of anticompetitive conduct by foreign carriers in instances necessitating Commission intervention. Specifically, it seeks comments on proposals and issues regarding the application of the Commission's benchmarks policy.

Timetable:

Action | Date | FR Cite
NPRM | 05/13/11 | 76 FR 42625
NPRM Comment Period End | 09/02/11 |
Report and Order | 02/15/13 | 78 FR 11109
Next Action Undetermined

Regulatory Flexibility Analysis Required: Yes.

Agency Contact: James Ball, Chief, Policy Division, International Bureau, Federal Communications Commission, 445 12th Street SW., Washington, DC 20554, Phone: 202 418-0427, Email: james.ball@fcc.gov.

RIN: 3060-AJ77

461. Reform of Rules and Policies on Foreign Carrier Entry Into the U.S. Telecommunications Market (IB Docket 12-299)

Legal Authority: 47 U.S.C. 151; 47 U.S.C. 152; 47 U.S.C. 154(i) to (j); 47 U.S.C. 201 to 205

Abstract: FCC is considering proposed changes in the criteria under which it considers certain applications from foreign carriers or affiliates of foreign carriers for entry into the U.S. market for international telecommunications services. It proposes to eliminate or in the alternative simplify the effective competitive opportunities test (ECO Test) adopted in 1995 for Commission review of foreign carrier applications.

Timetable:

Action | Date | FR Cite
NPRM | 11/26/12 | 77 FR 70400
NPRM Comment Period End | 12/26/12 |
NPRM Reply Comment Period End | 01/15/13 |
R&O | 06/03/14 | 79 FR 31873
Final Rule (Announcement of Effective Date) | 03/03/15 | 80 FR 11326
Final Rule Effective | 03/03/15 |
Correction | 08/03/15 | 80 FR 45898
Next Action Undetermined

Regulatory Flexibility Analysis Required: Yes.

Agency Contact: Howard Griboff, Deputy Chief, Policy Division, Federal Communications Commission, International Bureau, 445 12th Street SW., Washington, DC 20554, Phone: 202 418-0657, Fax: 202 418-2824, Email: howard.griboff@fcc.gov.

RIN: 3060-AJ97

462. Comprehensive Review of Licensing and Operating Rules for Satellite Services (IB Docket No. 12-267)

Legal Authority: 47 U.S.C. 154(i); 47 U.S.C. 157(a); 47 U.S.C. 161; 47 U.S.C. 303(c); 47 U.S.C. 303(g); 47 U.S.C. 303(r)

Abstract: The Commission adopted a Notice of Proposed Rulemaking (NPRM) as part of its ongoing efforts to update and streamline regulatory requirements. The NPRM initiated a comprehensive review of part 25 of the Commission's rules, which governs the licensing and operation of space stations and earth stations. The Commission proposed amendments to modernize the rules to better reflect evolving technology, to eliminate unnecessary technical and information filing requirements, and to reorganize and simplify existing requirements. In the ensuing Report and Order, the Commission adopted most of its proposed changes and revised over 150 rule provisions. Several proposals raised by commenters in the proceeding, however, were not within the scope of the original NPRM. To address these and other issues, the Commission released a Further Notice of Proposed Rulemaking (FNPRM). The FNPRM proposes additional rule changes to facilitate international coordination of proposed satellite networks, to revise system implementation milestones and the associated bond, and to expand the applicability of routine licensing standards.

Timetable:

Action | Date | FR Cite
NPRM | 11/08/12 | 77 FR 67172
NPRM Comment Period End | 12/24/12 |
Reply Comment Period End | 01/22/13 |
Report and Order | 02/12/14 | 79 FR 8308
FNPRM Comment Period End | 03/02/14 |
FNPRM | 10/21/14 | 79 FR 65106
Next Action Undetermined

Regulatory Flexibility Analysis Required: Yes.

Agency Contact: Clay DeCell, Attorney Advisor, Federal Communications Commission, 445 12th Street SW., Washington, DC 20554, Phone: 202 418-0803, Email: clay.decell@fcc.gov.

RIN: 3060-AJ98

463. Expanding Broadband and Innovation Through Air-Ground Mobile Broadband Secondary Service for Passengers Aboard Aircraft in the 14.0-14.5 GHz Band; Gn Docket No. 13-114

Legal Authority: 47 U.S.C. 151; 47 U.S.C. 152; 47 U.S.C. 154(i); 47 U.S.C. 301; 47 U.S.C. 302; 47 U.S.C. 303; 47 U.S.C. 324

Abstract: In this docket, the Commission establishes a secondary allocation for the Aeronautical Mobile Service in the 14.0-14.5 GHz band and establishes service, technical, and licensing rules for air-ground mobile broadband. The Notice of Proposed Rulemaking requests public comment on a secondary allocation and service, technical, and licensing rules for air-ground mobile broadband.

Timetable:

Action | Date | FR Cite
NPRM (Release Date) | 05/09/13 |
Next Action Undetermined

Regulatory Flexibility Analysis Required: Yes.

Agency Contact: Sean O'More, Attorney Advisor, Federal Communications Commission, International Bureau, 445 12th Street SW., Washington, DC 20554, Phone: 202 418-2453, Email: sean.omore@fcc.gov.

RIN: 3060-AK02

464. Terrestrial Use of the 2473-2495 MHz Band for Low-Power Mobile Broadband Networks; Amendments to Rules of Mobile Satellite Service System; IB Docket No. 13-213

Legal Authority: Not Yet Determined

Abstract: In this docket, the Commission proposes modified rules for the operation of the Ancillary Terrestrial Component of the single Mobile-Satellite Service system operating in the Big GEO S band. The changes would allow Globalstar, Inc. to deploy a low power broadband network using its licensed spectrum at 2483.5-2495 MHz under certain limited technical criteria, and with the same equipment utilize spectrum in the adjacent 2473-2483.5 MHz band, pursuant to technical rules for unlicensed operations in that band.

Timetable:

Action | Date | FR Cite
NPRM | 02/19/14 | 79 FR 9445
NPRM Comment Period End | 05/05/14 |
Next Action Undetermined

Regulatory Flexibility Analysis Required: Yes.

Agency Contact: Stephen Duall, Chief, Satellite Policy Branch, Federal Communications Commission, International Bureau, 445 12th Street SW., Washington, DC 20554, Phone: 202 418-1103, Fax: 202 418-0748, Email: stephen.duall@fcc.gov.

RIN: 3060-AK16

FEDERAL COMMUNICATIONS COMMISSION (FCC)

International Bureau

Completed Actions

465. Reporting Requirements for U.S. Providers of International Telecommunications Services (IB Docket No. 04-112)

Legal Authority: 47 U.S.C. 151; 47 U.S.C. 154; 47 U.S.C. 161; 47 U.S.C. 201 to 205; . . .

Abstract: The FCC is reviewing the reporting requirements to which entities providing U.S.-international service are subject under 47 CFR part 43. The FCC adopted a First Report and Order that eliminated certain of those requirements. Specifically, it eliminated the quarterly reporting requirements for large carriers and foreign-affiliated switch resale carriers, 47 CFR 43.61(b) and (c); the circuit addition report, 47 CFR 63.23(e); the division of telegraph tolls report, 47 CFR 43.53; and the requirement to report separately for U.S. offshore points, 43.61(a), 48.82(a). The FCC adopted the Second Report and Order that made additional reforms to streamline further and modernize the reporting requirements, including requiring that entities providing international calling service via Voice over Internet Protocol (VoIP) connected to the public switched telephone network (PSTN) to submit data regarding their provision of international telephone service. The Voice on the Net Coalition (VON Coalition) filed a petition requesting that they reconsider requiring VoIP providers from reporting their international traffic and revenues. The Commission issued an Order dismissing the VON Coalition petition.

Timetable:

Action | Date | FR Cite
NPRM | 04/12/04 | 69 FR 29676
First R&O | 05/12/11 | 76 FR 42567
FNPRM | 05/12/11 | 76 FR 42613
FNPRM Comment Period End | 09/02/11 |
Second R&O | 01/15/13 | 78 FR 15615
Petition for Reconsideration | 07/01/13 | 78 FR 39232
Order | 09/01/15 | 80 FR 53641

Regulatory Flexibility Analysis Required: Yes.

Agency Contact: Stephen Duall, Chief, Satellite Policy Branch, Federal Communications Commission, International Bureau, 445 12th Street SW., Washington, DC 20554, Phone: 202 418-1103, Fax: 202 418-0748, Email: stephen.duall@fcc.gov.

RIN: 3060-AI42

FEDERAL COMMUNICATIONS COMMISSION (FCC)

Media Bureau

Long-Term Actions

466. Broadcast Ownership Rules

Legal Authority: 47 U.S.C. 151; 47 U.S.C. 152(a); 47 U.S.C. 154(i); 47 U.S.C. 303; 47 U.S.C. 307; 47 U.S.C. 309 and 310

Abstract: Section 202(h) of the Telecommunications Act of 1996 requires the Commission to review its ownership rules every four years and determine whether any such rules are necessary in the public interest as the result of competition. In 2002, the Commission undertook a comprehensive review of its broadcast multiple and cross-ownership limits examining: Cross-ownership of TV and radio stations; local TV ownership limits; national TV cap; and dual network rule. The Report and Order replaced the newspaper/broadcast cross-ownership and radio and TV rules with a tiered approach based on the number of television stations in a market. In June 2006, the Commission adopted a Further Notice of Proposed Rulemaking initiating the 2006 review of the broadcast ownership rules. The further notice also sought comment on how to address the issues raised by the Third Circuit. Additional questions are raised for comment in a Second Further Notice of Proposed Rulemaking. In the Report and Order and Order on Reconsideration, the Commission adopted rule changes regarding newspaper/broadcast cross-ownership, but otherwise generally retained the other broadcast ownership rules currently in effect. For the 2010 quadrennial review, five of the Commission's media rules are the subject of review: The local TV ownership rule; the local radio ownership rule; the newspaper broadcast cross-ownership rule; the radio/TV cross-ownership rule; and the dual network rule.

In the 2014 review, the Commission incorporated the record of the 2010 review, and sought additional data on market conditions and competitive indicators. The Commission also sought comment on whether to eliminate restrictions on newspaper/radio combined ownership and whether to eliminate the radio/television cross-ownership rule in favor of reliance on the local radio rule and the local television rule.

Timetable:

Action | Date | FR Cite
NPRM | 10/05/01 | 66 FR 50991
R&O | 08/05/03 | 68 FR 46286
Public Notice | 02/19/04 | 69 FR 9216
FNPRM | 08/09/06 | 71 FR 4511
Second FNPRM | 08/08/07 | 72 FR 44539
R&O and Order on Reconsideration | 02/21/08 | 73 FR 9481
Notice of Inquiry | 06/11/10 | 75 FR 33227
NPRM | 01/19/12 | 77 FR 2868
NPRM Comment Period End | 03/19/12 |
FNPRM | 05/20/14 | 79 FR 29010
Next Action Undetermined

Regulatory Flexibility Analysis Required: Yes.

Agency Contact: Hillary DeNigro, Chief, Industry Analysis Division, Media Bureau, Federal Communications Commission, 445 12th Street SW., Washington, DC 20554, Phone: 202 418-7334, Email: hillary.denigro@fcc.gov.

RIN: 3060-AH97

467. Establishment of Rules for Digital Low-Power Television, Television Translator, and Television Booster Stations (MB Docket No. 03-185)

Legal Authority: 47 U.S.C. 309; 47 U.S.C. 336

Abstract: This proceeding initiates the digital television conversion for low-power television (LPTV) and television translator stations. The rules and policies adopted as a result of this proceeding provide the framework for these stations' conversion from analog to digital broadcasting. The Report and Order adopts definitions and permissible use provisions for digital TV translator and LPTV stations. The Second Report and Order takes steps to resolve the remaining issues in order to complete the low-power television digital transition. The third Notice of Proposed Rulemaking seeks comment on a number of issues related to the potential impact of the incentive auction and the repacking process.

Timetable:

Action | Date | FR Cite
NPRM | 09/26/03 | 68 FR 55566
NPRM Comment Period End | 11/25/03 |
R&O | 11/29/04 | 69 FR 69325
FNPRM and MO&O | 10/18/10 | 75 FR 63766
2nd R&O | 07/07/11 | 76 FR 44821
3rd NPRM | 11/28/14 | 79 FR 70824
NPRM Comment Period End | 12/29/14 |
NPRM Comment Period End | 12/29/14 |
NPRM Reply Comment Period End | 01/12/15 |
Next Action Undetermined

Regulatory Flexibility Analysis Required: Yes.

Agency Contact: Shaun Maher, Attorney, Policy Division, Federal Communications Commission, Media Bureau, 445 12th Street SW., Washington, DC 20554, Phone: 202 418-2324, Fax: 202 418-2827, Email: shaun.maher@fcc.gov.

RIN: 3060-AI38

468. Promoting Diversification of Ownership in the Broadcast Services (MB Docket No. 07-294)

Legal Authority: 47 U.S.C. 151; 47 U.S.C. 152(a); 47 U.S.C. 154(i) and (j); 47 U.S.C. 257; 47 U.S.C. 303(r); 47 U.S.C. 307 to 310; 47 U.S.C. 336; 47 U.S.C. 534 and 535

Abstract: Diversity and competition are longstanding and important Commission goals. The measures proposed, as well as those adopted in this proceeding, are intended to promote diversity of ownership of media outlets. In the Report and Order and Third FNPRM, measures are enacted to increase participation in the broadcasting industry by new entrants and small businesses, including minority- and women-owned businesses. In the Report and Order and Fourth FNPRM, the Commission adopts improvements to its data collection in order to obtain an accurate and comprehensive assessment of minority and female broadcast ownership in the United States. The Memorandum Opinion & Order addressed petitions for reconsideration of the rules, and also sought comment on a proposal to expand the reporting requirements to non attributable interests. In 2014, the Commission proposed a new type of FCC registration number for individuals to use on broadcast ownership reports. In 2015, the Commission proposed additional improvements to the collection of data reported on form 323.

Pursuant to a remand from the Third Circuit, the measures adopted in the 2009 Diversity Order were put forth for comment in the NPRM for the 2010 review of the Commission's Broadcast Ownership rules. The Commission sought additional comment in 2014. As directed by the court, the Commission considered a socially and economic disadvantaged business definition as a possible oasis for favorable regulatory treatment.

Timetable:

Action | Date | FR Cite
R&O | 05/16/08 | 73 FR 28361
Third FNPRM | 05/16/08 | 73 FR 28400
R&O | 05/27/09 | 74 FR 25163
Fourth FNPRM | 05/27/09 | 74 FR 25305
MO&O | 10/30/09 | 74 FR 56131
NPRM | 01/19/12 | 77 FR 2868
5th NPRM | 01/15/13 | 78 FR 2934
6th FNPRM | 01/15/13 | 78 FR 2925
FNPRM | 05/20/14 | 79 FR 29010
7th FNPRM | 02/26/15 | 80 FR 10442
Comment Period End | 03/30/15 |
Reply Comment Period End | 04/30/15 |
Next Action Undetermined

Regulatory Flexibility Analysis Required: Yes.

Agency Contact: Hillary DeNigro, Chief, Industry Analysis Division, Media Bureau, Federal Communications Commission, 445 12th Street SW., Washington, DC 20554, Phone: 202 418-7334, Email: hillary.denigro@fcc.gov.

RIN: 3060-AJ27

469. Amendment of the Commission's Rules Related to Retransmission Consent (MB Docket No. 10-71)

Legal Authority: 47 U.S.C. 154; 47 U.S.C. 325; 47 U.S.C. 534

Abstract: Cable systems and other multichannel video programming distributors are not entitled to retransmit a broadcast station's signal without the station's consent. This consent is known as “retransmission consent.” Since Congress enacted the retransmission consent regime in 1992, there have been significant changes in the video programming marketplace. In this proceeding, comment is sought on a series of proposals to streamline and clarify the Commission's rules concerning or affecting retransmission consent negotiations.

In the 2014 Report and Order, the Commission adopted a rule providing that it is a violation of the duty to negotiate retransmission consent in good faith for a television station that is ranked among the top four stations to negotiate retransmission consent jointly with another such station if the stations are not commonly owned and serve the same geographic market.

Timetable:

Action | Date | FR Cite
NPRM | 03/28/11 | 76 FR 17071
NPRM Comment Period End | 05/27/11 |
R&O | 05/19/14 | 79 FR 28615
Next Action Undetermined

Regulatory Flexibility Analysis Required: Yes.

Agency Contact: Diana Sokolow, Attorney, Policy Division, Federal Communications Commission, Media Bureau, 445 12th Street SW., Washington, DC 20554, Phone: 202 418-2120, Email: diana.sokolow@fcc.gov.

RIN: 3060-AJ55

470. Closed Captioning of Internet Protocol-Delivered Video Programming: Implementation of the Twenty-First Century Communications and Video Accessibility Act of 2010 (MB Docket No. 11-154)

Legal Authority: 47 U.S.C. 154(i); 47 U.S.C. 154(j); 47 U.S.C. 303; 47 U.S.C. 330(b); 47 U.S.C. 613; 47 U.S.C. 617

Abstract: Pursuant to the Commission's responsibilities under the Twenty-First Century Communications and Video Accessibility Act of 2010, this proceeding was initiated to adopt rules to govern the closed captioning requirements for the owners, providers, and distributors of video programming delivered using Internet protocol.

Timetable:

Action | Date | FR Cite
NPRM | 09/28/11 | 76 FR 59963
R&O | 03/20/12 | 77 FR 19480
Order on Recon, FNPRM | 07/02/13 | 78 FR 39691
2nd Order on Recon | 08/05/14 | 79 FR 45354
2nd FNPRM | 08/05/14 | 79 FR 45397
Next Action Undetermined

Regulatory Flexibility Analysis Required: Yes.

Agency Contact: Diana Sokolow, Attorney, Policy Division, Federal Communications Commission, Media Bureau, 445 12th Street SW., Washington, DC 20554, Phone: 202 418-2120, Email: diana.sokolow@fcc.gov.

RIN: 3060-AJ67

471. Accessibility of User Interfaces and Video Programming Guides and Menus (MB Docket No. 12-108)

Legal Authority: 47 U.S.C. 151; 47 U.S.C. 154(i); 47 U.S.C. 303(r); 47 U.S.C. 303(aa); 47 U.S.C. 303(bb)

Abstract: This proceeding was initiated to implement sections 204 and 205 of the Twenty-First Century Communications and Video Accessibility Act. These sections generally require that user interfaces on digital apparatus and navigation devices used to view video programming be accessible to and usable by individuals who are blind or visually impaired.

Timetable:

Action | Date | FR Cite
NPRM | 06/18/13 | 78 FR 36478
NPRM Comment Period End | 07/15/13 |
R&O | 12/20/13 | 78 FR 77210
FNPRM | 12/20/13 | 78 FR 77074
Next Action Undetermined

Regulatory Flexibility Analysis Required: Yes.

Agency Contact: Diana Sokolow, Attorney, Policy Division, Federal Communications Commission, Media Bureau, 445 12th Street SW., Washington, DC 20554, Phone: 202 418-2120, Email: diana.sokolow@fcc.gov.

RIN: 3060-AK11

472. Network Non-Duplication and Syndicated Exclusivity Rule (MB Docket No. 14-29)

Legal Authority: 47 U.S.C. 151; 47 U.S.C. 154(i); 47 U.S.C. 301; 47 U.S.C. 303(R); 47 U.S.C. 307; 47 U.S.C. 339(b); 47 U.S.C.573(b)

Abstract: In this proceeding, the Commission continues to examine whether to eliminate or modify the network no-duplication and syndicated exclusivity rules in light of changes in the video marketplace in the more than 40 years since these rules were adopted.

Timetable:

Action | Date | FR Cite
NPRM | 04/10/14 | 79 FR 19849
NPRM Comment Period End | 05/12/14 |
Next Action Undetermined

Regulatory Flexibility Analysis Required: Yes.

Agency Contact: Kathy Berthot, Attorney, Policy Division Media Bureau, Federal Communications Commission, 445 12th Street SW., Washington, DC 20554, Phone: 202 418-2120, Email: kathy.berthot@fcc.gov.

RIN: 3060-AK18

473. Expansion of Online Public File Obligations to Cable and Satellite TV Operators and Broadcast and Satellite Radio Licensees; MB Docket No. 14-127

Legal Authority: 47 U.S.C. 151; 47 U.S.C. 152; 47 U.S.C. 154(i)

Abstract: In this proceeding, the Commission proposes to expand to cable operators, satellite TV providers, broadcast radio licensees, and satellite radio licensees the requirement that public inspection files be posted to the FCC's online database. In 2012, the Commission adopted online public file rules for broadcast television stations that required them to post public file documents to a central, FCC-hosted online database rather than maintain the files locally at their main studios. Expanding the online file to other media entities will extend the benefits of improved public access to public inspection files and ultimately reduce the burden of maintaining these files.

Timetable:

Action | Date | FR Cite
NPRM | 02/13/15 | 80 FR 8031
NPRM Comment Period End | 03/16/15 |
Next Action Undetermined

Regulatory Flexibility Analysis Required: Yes.

Agency Contact: Kim Matthews, Attorney, Policy Division, Federal Communications Commission, Media Bureau, 445 12th Street SW., Washington, DC 20554, Phone: 202 418-2154, Fax: 202 418-2053, Email: kim.matthews@fcc.gov.

RIN: 3060-AK23

474. • Channel Sharing by Full Power and Class A Stations Outside of the Incentive Auction Context; (MB Docket No. 15-137)

Legal Authority: 47 U.S.C. 151; 47 U.S.C. 154; 47 U.S.C. 301; 47 U.S.C. 303; 47 U.S.C. 307; 47 U.S.C. 308; 47 U.S.C. 309; 47 U.S.C. 310; 47 U.S.C. 316; 47 U.S.C. 319; 47 U.S.C. 338; 47 U.S.C. 403; 47 U.S.C. 614; 47 U.S.C. 615

Abstract: In this proceeding, the Commission considers rules to enable full power and Class A television stations to share a channel with another licensee outside of the incentive auction context.

Timetable:

Action | Date | FR Cite
NPRM | 07/14/15 | 80 FR 40957
NPRM Comment Period End | 08/13/15 |
NPRM Reply Comment Period End | 08/28/15 |
Next Action Undetermined

Regulatory Flexibility Analysis Required: Yes.

Agency Contact: Kim Matthews, Attorney, Policy Division, Federal Communications Commission, Media Bureau, 445 12th Street SW., Washington, DC 20554, Phone: 202 418-2154, Fax: 202 418-2053, Email: kim.matthews@fcc.gov.

RIN: 3060-AK42

475. • Preserving Vacant Channels in the UHF Television Band for Unlicensed Use; (MB Docket No. 15-68)

Legal Authority: 47 U.S.C. 151; 47 U.S.C. 154; 47 U.S.C. 157; 47 U.S.C. 301; 47 U.S.C. 303; 47 U.S.C. 307; 47 U.S.C. 308; 47 U.S.C. 309; 47 U.S.C. 310; 47 U.S.C. 316; 47 U.S.C. 319; 47 U.S.C. 332; 47 U.S.C. 336; 47 U.S.C. 403

Abstract: In this proceeding, the Commission considers proposals to preserve vacant television channels in the UHF television band for shared use by white space devices and wireless microphones following the repacking of the band after the conclusion of the Incentive Auction. In the NPRM, the Commission proposed preserving in each area of the country at least one vacant television channel . In the Public Notice, the Commission notes that a limited number of broadcast television stations may be reassigned during the incentive auction and repacking process to channels within the duplex gap established as part of the 600 MHz Band Plan, resulting in a restriction on the ability of white space devices and wireless microphone to use this spectrum. To address this concern, the Public Notice tentatively concluded that a second available television channel should be preserved in the remaining television band in such areas for shared use by white space devices and wireless microphones, in addition to the one such channel proposed in the NPRM.

Timetable:

Action | Date | FR Cite
NPRM | 07/02/15 | 80 FR 38158
NPRM Comment Period End | 08/03/15
NPRM Reply Comment Period End | 08/31/15
Public Notice | 09/01/15 | 80 FR 52715
Next Action Undetermined

Regulatory Flexibility Analysis Required: Yes.

Agency Contact: Shaun Maher, Attorney, Policy Division, Federal Communications Commission, Media Bureau, 445 12th Street SW., Washington, DC 20554, Phone: 202 418-2324, Fax: 202 418-2827, Email: shaun.maher@fcc.gov.

RIN: 3060-AK43

FEDERAL COMMUNICATIONS COMMISSION (FCC)

Office of Managing Director

Long-Term Actions

476. Assessment and Collection of Regulatory Fees

Legal Authority: 47 U.S.C. 159

Abstract: Section 9 of the Communications Act of 1934, as amended, 47 United States Code 159, requires the FCC to recover the cost of its activities by assessing and collecting annual regulatory fees from beneficiaries of the activities.

Timetable:

Action | Date | FR Cite
NPRM | 04/06/06 | 71 FR 17410
R&O | 08/02/06 | 71 FR 43842
NPRM | 05/02/07 | 72 FR 24213
R&O | 08/16/07 | 72 FR 45908
FNPRM | 08/16/07 | 72 FR 46010
NPRM | 05/28/08 | 73 FR 30563
R&O | 08/26/08 | 73 FR 50201
FNPRM | 08/26/08 | 73 FR 50285
2nd R&O | 05/12/09 | 74 FR 22104
NPRM and Order | 06/02/09 | 74 FR 26329
R&O | 08/11/09 | 74 FR 40089
NPRM | 04/26/10 | 75 FR 21536
R&O | 07/19/10 | 75 FR 41932
NPRM | 05/26/11 | 76 FR 30605
R&O | 08/10/11 | 76 FR 49333
NPRM | 05/17/12 | 77 FR 29275
R&O | 08/03/12 | 77 FR 46307
NPRM | 08/17/12 | 77 FR 49749
NPRM | 06/10/13 | 78 FR 34612
R&O | 08/23/13 | 78 FR 52433
NPRM | 07/03/14 | 79 FR 37982
R&O | 09/11/14 | 79 FR 54190
NPRM | 06/30/15 | 80 FR 37206
R&O | 07/21/15 | 80 FR 43019
Final Rule | 09/17/15 | 80 FR 55775
Next Action Undetermined

Regulatory Flexibility Analysis Required: Yes.

Agency Contact: Roland Helvajian, Office of the Managing Director, Federal Communications Commission, 445 12th Street SW., Washington, DC 20554, Phone: 202 418-0444, Email: roland.helvajian@fcc.gov.

RIN: 3060-AI79

477. Amendment of Part 1 of the Commission's Rules, Concerning Practice and Procedure, Amendment of Cores Registration System; MD Docket No. 10-234

Legal Authority: 47 U.S.C. 154(i); 47 U.S.C. 158(c)(2); 47 U.S.C. 159(c)(2); 47 U.S.C. 303(r); 5 U.S.C. 5514; 31 U.S.C. 7701(c)(1)

Abstract: This Notice of Proposed Rulemaking proposes revisions intended to make the Commission's Registration System (CORES) more feature-friendly and improve the Commission's ability to comply with various statutes that govern debt collection and the collection of personal information by the Federal Government. The proposed modifications to CORES partly include requiring entities and individuals to rely primarily upon a single FRN that may, at their discretion, be linked to subsidiary or associated accounts; allowing entities to identify multiple points of contact; eliminating some of our exceptions to the requirement that entities and individuals provide their Taxpayer Identification Number (TIN) at the time of registration; requiring FRN holders to provide their email addresses; modifying CORES log-in procedures; adding attention flags and automated notices that would inform FRN holders of their financial standing before the Commission; and adding data fields to enable FRN holders to indicate their tax-exempt status and notify the Commission of pending bankruptcy proceedings.

Timetable:

Action | Date | FR Cite
NPRM | 02/01/11 | 76 FR 5652
NPRM Comment Period End | 03/03/11
Public Notice | 02/15/11
NPRM | 02/26/15 | 80 FR 10442
NPRM Comment Period End | 03/30/15
FNPRM (Release Date) | 02/27/15
Next Action Undetermined

Regulatory Flexibility Analysis Required: Yes.

Agency Contact: Warren Firschein, Attorney, Federal Communications Commission, 445 12th Street SW., Washington, DC 20554, Phone: 202 418-0844, Email: warren.firschein@fcc.gov.

RIN: 3060-AJ54

FEDERAL COMMUNICATIONS COMMISSION (FCC)

Public Safety and Homeland Security Bureau

Long-Term Actions

478. Revision of the Rules To Ensure Compatibility With Enhanced 911 Emergency Calling Systems

Legal Authority: 47 U.S.C. 134(i); 47 U.S.C. 151; 47 U.S.C. 201; 47 U.S.C. 208; 47 U.S.C. 215; 47 U.S.C. 303; 47 U.S.C. 309

Abstract: In a series of orders in several related proceedings issued since 1996, the Federal Communications Commission has taken action to improve the quality and reliability of 911 emergency services for wireless phone users. Rules have been adopted governing the availability of basic 911 services and the implementation of enhanced 911 (E911) for wireless services.

Timetable:

Action | Date | FR Cite
FNPRM | 08/02/96 | 61 FR 40374
R&O | 08/02/96 | 61 FR 40348
MO&O | 01/16/98 | 63 FR 2631
Second R&O | 06/28/99 | 64 FR 34564
Third R&O | 11/04/99 | 64 FR 60126
Second MO&O | 12/29/99 | 64 FR 72951
Fourth MO&O | 10/02/00 | 65 FR 58657
FNPRM | 06/13/01 | 66 FR 31878
Order | 11/02/01 | 66 FR 55618
R&O | 05/23/02 | 67 FR 36112
Public Notice | 07/17/02 | 67 FR 46909
Order to Stay | 07/26/02
Order on Reconsideration | 01/22/03 | 68 FR 2914
FNPRM | 01/23/03 | 68 FR 3214
R&O, Second FNPRM | 02/11/04 | 69 FR 6578
Second R&O | 09/07/04 | 69 FR 54037
NPRM | 06/20/07 | 72 FR 33948
NPRM Comment Period End | 09/18/07 |
R&O | 02/14/08 | 73 FR 8617
Public Notice | 09/25/08 | 73 FR 55473
Comment Period End | 10/18/08 |
Public Notice | 11/18/09 | 74 FR 59539
Comment Period End | 12/04/09 |
FNPRM, NOI | 11/02/10 | 75 FR 67321
Second R&O | 11/18/10 | 75 FR 70604
Order, Comment Period Extension | 01/07/11 | 76 FR 1126
Comment Period End | 02/18/11 |
Final Rule | 04/28/11 | 76 FR 23713
NPRM | 08/04/11 | 76 FR 47114
Second FNPRM | 08/04/11 | 76 FR 47114
3rd R&O | 09/28/11 | 76 FR 59916
NPRM Comment Period End | 11/02/11 |
3rd FNPRM | 03/28/14 | 79 FR 17820
Order Extending Comment Period | 06/10/14 | 79 FR 33163
3rd FNPRM Comment Period End | 07/14/14 |
Public Notice (release date) | 11/20/14 |
Public Notice Comment Period End | 12/17/14 |
4th R&O | 03/04/15 | 80 FR 11806
Final Rule | 08/03/15 | 80 FR 45897
Next Action Undetermined

Regulatory Flexibility Analysis Required: Yes.

Agency Contact: Tom Beers, Chief, Policy & Licensing Division, Federal Communications Commission, Public Safety and Homeland Security Bureau, 445 12th Street SW., Washington, DC 20554, Phone: 202 418-0952, Email: tom.beers@fcc.gov.

RIN: 3060-AG34

479. Enhanced 911 Services for Wireline and Multi-Line Telephone Systems; PS Docket Nos. 10-255 and 07-117

Legal Authority: 47 U.S.C. 151; 47 U.S.C. 154(i); 47 U.S.C. 201; 47 U.S.C. 222; 47 U.S.C. 251

Abstract: The policies set forth in the Report and Order will assist State governments in drafting legislation that will ensure that multi-line telephone systems are compatible with the enhanced 911 network. The Public Notice seeks comment on whether the Commission, rather than States, should regulate multiline telephone systems, and whether part 68 of the Commission's rules should be revised.

Timetable:

Action | Date | FR Cite
NPRM | 10/11/94 | 59 FR 54878
FNPRM | 01/23/03 | 68 FR 3214
Second FNPRM | 02/11/04 | 69 FR 6595
R&O | 02/11/04 | 69 FR 6578
Public Notice | 01/13/05 | 70 FR 2405
Comment Period End | 03/29/05 |
NOI | 01/13/11 | 76 FR 2297
NOI Comment Period End | 03/14/11 |
Public Notice (Release Date) | 05/21/12 |
Public Notice Comment Period End | 08/06/12 |
Next Action Undetermined

Regulatory Flexibility Analysis Required: Yes.

Agency Contact: Tom Beers, Chief, Policy & Licensing Division, Federal Communications Commission, Public Safety and Homeland Security Bureau, 445 12th Street SW., Washington, DC 20554, Phone: 202 418-0952, Email: tom.beers@fcc.gov.

RIN: 3060-AG60

480. In The Matter of the Communications Assistance for Law Enforcement Act

Legal Authority: 47 U.S.C. 229; 47 U.S.C. 1001 to 1008

Abstract: All of the decisions in this proceeding thus far are aimed at implementation of provisions of the Communications Assistance for Law Enforcement Act.

Timetable:

Action | Date | FR Cite
NPRM | 10/10/97 | 62 FR 63302
Order | 01/13/98 | 63 FR 1943
FNPRM | 11/16/98 | 63 FR 63639
R&O | 01/29/99 | 64 FR 51462
Order | 03/29/99 | 64 FR 14834
Second R&O | 09/23/99 | 64 FR 51462
Third R&O | 09/24/99 | 64 FR 51710
Order on Reconsideration | 09/28/99 | 64 FR 52244
Policy Statement | 10/12/99 | 64 FR 55164
Second Order on Reconsideration | 05/04/01 | 66 FR 22446
Order | 10/05/01 | 66 FR 50841
Order on Remand | 05/02/02 | 67 FR 21999
NPRM | 09/23/04 | 69 FR 56976
First R&O | 10/13/05 | 70 FR 59704
Second R&O | 07/05/06 | 71 FR 38091
Next Action Undetermined

Regulatory Flexibility Analysis Required: Yes.

Agency Contact: Tom Beers, Chief, Policy & Licensing Division, Federal Communications Commission, Public Safety and Homeland Security Bureau, 445 12th Street SW., Washington, DC 20554, Phone: 202 418-0952, Email: tom.beers@fcc.gov.

RIN: 3060-AG74

481. Implementation of 911 Act (CC Docket No. 92-105, WT Docket No. 00-110)

Legal Authority: 47 U.S.C. 151; 47 U.S.C. 154(i) and 154(j); 47 U.S.C. 157; 47 U.S.C. 160; 47 U.S.C. 202; 47 U.S.C. 208; 47 U.S.C. 210; 47 U.S.C. 214; 47 U.S.C. 251(e); 47 U.S.C. 301; 47 U.S.C. 303; 47 U.S.C. 308 to 309(j); 47 U.S.C. 310

Abstract: This proceeding was separate from the Commission's proceeding on Enhanced 911 Emergency Systems (E911) in that it intended to implement provisions of the Wireless Communications and Public Safety Act of 1999 through the promotion of public safety by the deployment of a seamless, nationwide emergency communications infrastructure that includes wireless communications services. More specifically, the chief goal of the proceeding is to ensure that all emergency calls are routed to the appropriate local emergency authority to provide assistance. The E911 proceeding goes a step further and was aimed at improving the effectiveness and reliability of wireless 911 dispatchers with additional information on wireless 911 calls.

Timetable:

Action | Date | FR Cite
Fourth R&O, Third NPRM | 09/19/00 | 65 FR 56752
NPRM | 09/19/00 | 65 FR 56757
Fifth R&O, First R&O, and MO&O | 01/14/02 | 67 FR 1643
Final Rule | 01/25/02 | 67 FR 3621
Next Action Undetermined

Regulatory Flexibility Analysis Required: Yes.

Agency Contact: Tom Beers, Chief, Policy & Licensing Division, Federal Communications Commission, Public Safety and Homeland Security Bureau, 445 12th Street SW., Washington, DC 20554, Phone: 202 418-0952, Email: tom.beers@fcc.gov.

RIN: 3060-AH90

482. Commission Rules Concerning Disruptions to Communications (PS Docket No. 11-82)

Legal Authority: 47 U.S.C.155; 47 U.S.C. 154; 47 U.S.C. 201; 47 U.S.C. 251

Abstract: The 2004 Report and Order extended the Commission's outage reporting requirements to non-wireline carriers and streamlined reporting through a new electronic template. A Further Notice of Proposed Rulemaking regarding the unique communications needs of airports also remains pending. The 2012 Report and Order extended the Commission's outage reporting requirements to interconnected Voice over Internet Protocol services where there is a complete loss of connectivity that has the potential to affect at least 900,000 user minutes. Interconnected VoIP services providers must now file outage reports through the same electronic mechanism as providers of other services. The Commission indicated that the technical issues involved in identifying and reporting significant outages of broadband Internet services require further study.

Timetable:

Action | Date | FR Cite
NPRM | 03/26/04 | 69 FR 15761
FNPRM | 11/26/04 | 69 FR 68859
R&O | 12/03/04 | 69 FR 70316
Announcement of Effective Date and Partial Stay | 12/30/04 | 69 FR 78338
Petition for Reconsideration | 02/15/05 | 70 FR 7737
Amendment of Delegated Authority | 02/21/08 | 73 FR 9462
Public Notice | 08/02/10 |
NPRM | 06/09/11 | 76 FR 33686
NPRM Comment Period End | 08/08/11 |
R&O | 04/27/12 | 77 FR 25088
Final Rule; Correction | 01/30/13 | 78 FR 6216
Next Action Undetermined

Regulatory Flexibility Analysis Required: Yes.

Agency Contact: Scott Mackoul, Attorney Advisor, Federal Communications Commission, Public Safety and Homeland Security Bureau, 445 12th Street SW., Washington, DC 20554, Phone: 202 418-7498, Email: scott.mackoul@fcc.gov.

RIN: 3060-AI22

483. E911 Requirements for IP-Enabled Service Providers (Dockets Nos. GN 11-117, PS 07-114, WC 05-196, WC 04-36)

Legal Authority: 47 U.S.C. 151; 47 U.S.C. 154(i) and 154(j); 47 U.S.C. 251(e); 47 U.S.C. 303(r)

Abstract: The notice seeks comment on what additional steps the Commission should take to ensure that providers of Voice over Internet Protocol services that interconnect with the public switched telephone network to provide ubiquitous and reliable enhanced 911 service.

Timetable:

Action | Date | FR Cite
NPRM | 03/29/04 | 69 FR 16193
NPRM | 06/29/05 | 70 FR 37307
R&O | 06/29/05 | 70 FR 37273
NPRM Comment Period End | 09/12/05 |
NPRM | 06/20/07 | 72 FR 33948
NPRM Comment Period End | 09/18/07 |
FNPRM, NOI | 11/02/10 | 75 FR 67321
Order, Extension of Comment Period | 01/07/11 | 76 FR 1126
Comment Period End | 02/18/11 |
2nd FNPRM, NPRM | 08/04/11 | 76 FR 47114
2nd FNPRM Comment Period End | 11/02/11 |
Next Action Undetermined

Regulatory Flexibility Analysis Required: Yes.

Agency Contact: Tom Beers, Chief, Policy & Licensing Division, Federal Communications Commission, Public Safety and Homeland Security Bureau, 445 12th Street SW., Washington, DC 20554, Phone: 202 418-0952, Email: tom.beers@fcc.gov.

RIN: 3060-AI62

484. Wireless E911 Location Accuracy Requirements; PS Docket No. 07-114

Legal Authority: 47 U.S.C. 151; 47 U.S.C. 154; 47 U.S.C. 332

Abstract: This is related to the proceedings in which the FCC has previously acted to improve the quality of all emergency services. Wireless carriers must provide specific automatic location information in connection with 911 emergency calls to Public Safety Answering Points (PSAPs). Wireless licensees must satisfy Enhanced 911 location accuracy standards at either a county-based or a PSAP-based geographic level.

Timetable:

Action | Date | FR Cite
NPRM | 06/20/07 | 72 FR 33948
R&O | 02/14/08 | 73 FR 8617
Public Notice | 09/25/08 | 73 FR 55473
FNPRM; NOI | 11/02/10 | 75 FR 67321
Public Notice | 11/18/09 | 74 FR 59539
2nd R&O | 11/18/10 | 75 FR 70604
Second NPRM | 08/04/11 | 76 FR 47114
Second NPRM Comment Period End | 11/02/11 |
Final Rule | 04/28/11 | 76 FR 23713
NPRM, 3rd R&O, and 2nd FNPRM | 09/28/11 | 76 FR 59916
3rd FNPRM | 03/28/14 | 79 FR 17820
Order Extending Comment Period | 06/10/14 | 79 FR 33163
3rd FNPRM Comment Period End | 07/14/14 |
Public Notice (Release Date) | 11/20/14 |
Public Notice Comment Period End | 12/17/14 |
4th R&O | 03/04/15 | 80 FR 11806
Final Rule | 08/03/15 | 80 FR 45897
Next Action Undetermined

Regulatory Flexibility Analysis Required: Yes.

Agency Contact: Tom Beers, Chief, Policy & Licensing Division, Federal Communications Commission, Public Safety and Homeland Security Bureau, 445 12th Street SW., Washington, DC 20554, Phone: 202 418-0952, Email: tom.beers@fcc.gov.

RIN: 3060-AJ52

485. 700 MHZ Public Safety Broadband—First Net (PS Docket Nos. 12-94 & 06-229 and WT 06-150)

Legal Authority: 47 U.S.C. 151; 47 U.S.C. 152; 47 U.S.C. 301 to 303; 47 U.S.C. 307 to 309; Pub. L. 112-96

Abstract: This action proposes technical rules to protect against harmful radio frequency interference in the spectrum designated for public safety services under the Middle Class Tax Relief and Job Creation Act of 2012.

Timetable:

Action | Date | FR Cite
NPRM | 04/24/13 | 78 FR 24138
NPRM Comment Period End | 05/24/13 |
R&O | 01/06/14 | 79 FR 588
Next Action Undetermined

Regulatory Flexibility Analysis Required: Yes.

Agency Contact: Roberto Mussenden, Attorney Advisor, Federal Communications Commission, 445 12th Street SW., Washington, DC 20554, Phone: 202 418-1428, Email: roberto.mussenden@fcc.gov.

RIN: 3060-AJ99

486. Proposed Amendments to Service Rules Governing Public Safety Narrowband Operations in the 769-775 and 799-805 MHZ Bands

Legal Authority: 47 U.S.C. 151; 47 U.S.C. 160; 47 U.S.C. 201; 47 U.S.C. 303; 47 U.S.C. 337(a); 47 U.S.C. 403

Abstract:This proceeding seeks to amend the Commission's rules to promote spectrum efficiency, interoperability, and flexibility in 700 MHz public safety narrowband operations (769775/799805 MHz).

Timetable:

Action | Date | FR Cite
NPRM | 04/19/13 | 78 FR 23529
Final Rule | 12/20/14 | 79 FR 71321
Final Rule Effective | 01/02/15 |
Next Action Undetermined

Regulatory Flexibility Analysis Required: Yes.

Agency Contact: Brian Marenco, Electronics Engineer, Federal Communications Commission, 445 12th Street SW., Washington, DC 20554, Phone: 202 418-0838, Email: brian.marenco@fcc.gov.

RIN: 3060-AK19

487. • Improving Outage Reporting for Submarine Cables and Enhancing Submarine Cable Outage Data; GN Docket No. 15-206

Legal Authority: 47 U.S.C. 151; 47 U.S.C. 154; 47 U.S.C. 34-39; 47 U.S.C. 301

Abstract: This proceeding takes steps toward assuring the reliability and resiliency of submarine cables, a critical piece of the Nation's communications infrastructure, by proposing to require submarine cable licensees to report to the Commission when outages occur and communications are disrupted. The Commission's intent is to enhance national security and emergency preparedness by these actions.

Timetable:

Action | Date | FR Cite
NPRM (Release Date) | 09/17/15
Next Action Undetermined

Regulatory Flexibility Analysis Required: Yes.

Agency Contact: Michael Saperstein, Attorney Advisor, Federal Communications Commission, 445 12th Street SW., Washington, DC 20554, Phone: 202 418-7008, Email: michael.saperstein@fcc.gov.

RIN: 3060-AK39

488. • Amendments to Part 4 of the Commission's Rules Concerning Disruptions to Communications; PS Docket No. 15-80

Legal Authority: 47 CFR 0; 47 CFR 4; 47 CFR 63

Abstract: The 2004 Report and Order extended the Commission's communication disruptions reporting rules to non-wireline carriers and streamlined reporting through a new electronic template, see docket ET Docket 04-35. In 2015, this proceeding, PS Docket 15-80, was opened to amend the original communications disruption reporting rules from 2004 in order to reflect technology transitions observed throughout the telecommunications sector. The Commission seeks to further study the possibility to share the reporting database information and access with state and other federal entities.

Timetable:

Action | Date | FR Cite
NPRM | 06/16/15 | 80 FR 34321
NPRM Comment Period End | 07/31/15
Next Action Undetermined

Regulatory Flexibility Analysis Required: Yes.

Agency Contact: Brenda Villanueva, Attorney Advisor, Federal Communications Commission, 445 12th Street SW., Washington, DC 20554, Phone: 202 418-7005.

RIN: 3060-AK40

489. • New Part 4 of the Commission's Rules Concerning Disruptions to Communications; ET Docket No. 04-35

Legal Authority: 47 U.S.C. 154; 47 U.S.C. 155; 47 U.S.C. 201; 47 U.S.C. 251; 47 U.S.C. 307; 47 U.S.C. 316

Abstract: The proceeding creates a new part 4 in title 47, and amends part 63.100. The proceeding updates the Commission's communication disruptions reporting rules for wireline providers formerly found in 47 CFR 63.100, and extends these rules to other non-wireline providers. Through this proceeding, the Commission streamlines the reporting process through an electronic template. The Report and Order received several petitions for reconsideration, of which two were eventually withdrawn, and in 2015, seven are addressed in an Order on Reconsideration. Two petitions remain pending regarding NORS database sharing with states and communication disruptions at airports. The former is addressed in a separate proceeding, PS Docket 15-80. To the extent the communication disruption rules cover VoIP, the Commission studies and addresses these questions in a separate docket, PS Docket 11-82.

Timetable:

Action | Date | FR Cite
NPRM | 03/26/04 | 69 FR 15761
R&O | 11/26/04 | 69 FR 68859
Denial for Petition for Partial Stay | 12/02/04
Seek Comment on Petition for Recon | 02/02/10
Reply Period End | 03/19/10
Seek Comment on Broadband and Interconnected VOIP Service Providers | 07/02/10
Reply Period End | 08/16/12
R&O and Order on Recon | 06/16/15 | 80 FR 34321
Next Action Undetermined

Regulatory Flexibility Analysis Required: Yes.

Agency Contact: Brenda Villanueva, Attorney Advisor, Federal Communications Commission, 445 12th Street SW., Washington, DC 20554, Phone: 202 418-7005.

RIN: 3060-AK41

FEDERAL COMMUNICATIONS COMMISSION (FCC)

Wireless Telecommunications Bureau

Long-Term Actions

490. Reexamination of Roaming Obligations of Commercial Mobile Radio Service Providers

Legal Authority: 47 U.S.C. 151; 47 U.S.C. 152(n); 47 U.S.C. 154(i) and 154(j); 47 U.S.C. 201(b); 47 U.S.C. 251(a); 47 U.S.C. 253; 47 U.S.C. 303(r); 47 U.S.C. 332(c)(1)(B); 47 U.S.C. 309

Abstract: This rulemaking considers whether the Commission should adopt an automatic roaming rule for voice services for Commercial Mobile Radio Services and whether the Commission should adopt a roaming rule for mobile data services.

Timetable:

Action | Date | FR Cite
NPRM | 11/21/00 | 65 FR 69891
NPRM | 09/28/05 | 70 FR 56612
NPRM | 01/19/06 | 71 FR 3029
FNPRM | 08/30/07 | 72 FR 50085
Final Rule | 08/30/07 | 72 FR 50064
Final Rule | 04/28/10 | 75 FR 22263
FNPRM | 04/28/10 | 75 FR 22338
2nd R&O | 05/06/11 | 76 FR 26199
Order on Recon | 06/25/14 | 79 FR 43956
Declaratory Ruling (release date) | 12/18/14
Next Action Undetermined

Regulatory Flexibility Analysis Required: Yes.

Agency Contact: Catherine Matraves, Deputy Division Chief, SCPD, Federal Communications Commission, Wireless Bureau, 445 12th Street SW., Washington, DC 20554, Phone: 202 418-1310, Email: catherine.matraves@fcc.gov.

RIN: 3060-AH83

491. Review of Part 87 of the Commission's Rules Concerning Aviation (WT Docket No. 01-289)

Legal Authority: 47 U.S.C. 154; 47 U.S.C. 303; 47 U.S.C. 307(e)

Abstract: This proceeding is intended to streamline, consolidate, and revise our part 87 rules governing the Aviation Radio Service. The rule changes are designed to ensure these rules reflect current technological advances.

Timetable:

Action | Date | FR Cite
NPRM | 10/16/01 | 66 FR 64785
NPRM Comment Period End | 03/14/02
R&O and FNPRM | 10/16/03
FNPRM | 04/12/04 | 69 FR 19140
FNPRM Comment Period End | 07/12/04
R&O | 06/14/04 | 69 FR 32577
NPRM | 12/06/06 | 71 FR 70710
NPRM Comment Period End | 03/06/07
Final Rule | 12/06/06 | 71 FR 70671
3rd R&O | 03/29/11 | 76 FR 17347
Stay Order | 03/29/11 | 76 FR 17353
3rd FNPRM | 01/30/13 | 78 FR 6276
Next Action Undetermined

Regulatory Flexibility Analysis Required: Yes.

Agency Contact: Jeff Tobias, Attorney Advisor, Federal Communications Commission, Wireless Telecommunications Bureau, 445 12th Street SW., Washington, DC 20554, Phone: 202 418-0680, Email: jeff.tobias@fcc.gov.

RIN: 3060-AI35

492. Implementation of the Commercial Spectrum Enhancement Act (CSEA) and Modernization of the Commission's Competitive Bidding Rules and Procedures (WT Docket No. 05-211)

Legal Authority: 15 U.S.C. 79; 47 U.S.C. 151; 47 U.S.C. 154(i) and (j); 47 U.S.C. 155; 47 U.S.C. 155(c); 47 U.S.C. 157; 47 U.S.C. 225; 47 U.S.C. 303(r); 47 U.S.C. 307; 47 U.S.C. 309; 47 U.S.C. 309(j); 47 U.S.C. 325(e); 47 U.S.C. 334; 47 U.S.C. 336; 47 U.S.C. 339; 47 U.S.C. 554

Abstract: This proceeding implements rules and procedures needed to comply with the Commercial Spectrum Enhancement Act (CSEA). It establishes a mechanism for reimbursing Federal agencies' out-of-spectrum auction proceeds for the cost of relocating their operations from certain “eligible frequencies” that have been reallocated from Federal to non-Federal use. It also seeks to improve the Commission's ability to achieve Congress' directives with regard to designated entities and to ensure that, in accordance with the intent of Congress, every recipient of its designated entity benefits is an entity that uses its licenses to directly provide facilities-based telecommunications services for the benefit of the public.

Timetable:

Action | Date | FR Cite
NPRM | 06/14/05 | 70 FR 43372
NPRM Comment Period End | 08/26/05
Declaratory Ruling | 06/14/05 | 70 FR 43322
R&O | 01/24/06 | 71 FR 6214
FNPRM | 02/03/06 | 71 FR 6992
FNPRM Comment Period End | 02/24/06
Second R&O | 04/25/06 | 71 FR 26245
Order on Reconsideration of Second R&O | 06/02/06 | 71 FR 34272
NPRM | 06/21/06 | 71 FR 35594
NPRM Comment Period End | 08/21/06
Reply Comment Period End | 09/19/06
Second Order and Reconsideration of Second R&O | 04/04/08 | 73 FR 18528
Order | 02/01/12 | 77 FR 16470
Next Action Undetermined

Regulatory Flexibility Analysis Required: Yes.

Agency Contact: Kelly Quinn, Assistant Chief, Auctions and Spectrum Access Division, Federal Communications Commission, 445 12th Street SW., Washington, DC 20554, Phone: 202 418-0660, Email: kelly.quinn@fcc.gov.

RIN: 3060-AI88

493. Facilitating the Provision of Fixed and Mobile Broadband Access, Educational, and Other Advanced Services in the 2150-2162 and 2500-2690 MHZ BANDS

Legal Authority: 47 U.S.C. 154; 47 U.S.C. 301 to 303; 47 U.S.C. 307; 47 U.S.C. 309; 47 U.S.C. 332; 47 U.S.C. 336 and 337

Abstract: The Commission seeks comment on whether to assign Educational Broadband Service (EBS) spectrum in the Gulf of Mexico. It also seeks comment on how to license unassigned and available EBS spectrum. Specifically, we seek comment on whether it would be in the public interest to develop a scheme for licensing unassigned EBS spectrum that avoids mutual exclusivity; we ask whether EBS eligible entities could participate fully in a spectrum auction; we seek comment on the use of small business size standards and bidding credits for EBS if we adopt a licensing scheme that could result in mutually exclusive applications; we seek comment on the proper market size and size of spectrum blocks for new EBS licenses; and we seek comment on issuing one license to a State agency designated by the Governor to be the spectrum manager, using frequency coordinators to avoid mutually exclusive EBS applications, as well as other alternative licensing schemes. The Commission must develop a new licensing scheme for EBS in order to achieve the Commission's goal of facilitating the development of new and innovative wireless services for the benefit of students throughout the Nation. In addition, the Commission has sought comment on a proposal intended to make it possible to use wider channel bandwidths for the provision of broadband services in these spectrum bands. The proposed changes may permit operators to use spectrum more efficiently, and to provide higher data rates to consumers, thereby advancing key goals of the National Broadband Plan.

Timetable:

Action | Date | FR Cite
NPRM | 04/02/03 | 68 FR 34560
NPRM Comment Period End | 09/08/03
FNPRM | 07/29/04 | 69 FR 72048
FNPRM Comment Period End | 01/10/03
R&O | 07/29/04 | 69 FR 72020
MO&O | 04/27/06 | 71 FR 35178
FNPRM | 03/20/08 | 73 FR 26067
FNPRM Comment Period End | 07/07/08
MO&O | 03/20/08 | 73 FR 26032
MO&O | 09/28/09 | 74 FR 49335
FNPRM | 09/28/09 | 74 FR 49356
FNPRM Comment Period End | 10/13/09
R&O | 06/03/10 | 75 FR 33729
FNPRM | 05/27/11 | 76 FR 32901
FNPRM Comment Period End | 07/22/11
R&O | 07/16/14 | 79 FR 41448
Next Action Undetermined

Regulatory Flexibility Analysis Required: Yes.

Agency Contact: John Schauble, Deputy Chief, Broadband Division, Federal Communications Commission, Wireless Telecommunications Bureau, 445 12th Street SW., Washington, DC 20554, Phone: 202 418-0797, Email: john.schauble@fcc.gov.

RIN: 3060-AJ12

494. Service Rules for Advanced Wireless Services in the 2155-2175 MHZ Band; WT Docket No. 13-185

Legal Authority: 47 U.S.C. 151 and 152; 47 U.S.C. 154(i); 47 U.S.C. 157; 47 U.S.C. 160; 47 U.S.C. 201; 47 U.S.C. 214; 47 U.S.C. 301

Abstract: This proceeding explores the possible uses of the 2155-2175 MHz frequency band (AWS-3) to support the introduction of new advanced wireless services, including third generation and future generations of wireless systems. Advanced wireless systems could provide for a wide range of voice data and broadband services over a variety of mobile and fixed networks. The Notice of Proposed Rulemaking (NPRM) sought comment on what service rules should be adopted in the AWS-3 band. We requested comment on rules for licensing this spectrum in a manner that will permit it to be fully and promptly used to bring advanced wireless services to American consumers. Our objective is to allow for the most effective and efficient use of the spectrum in this band, while also encouraging development of robust wireless broadband services. We proposed to apply our flexible, market-oriented rules to the band to do so. Thereafter, the Commission released a Further Notice of Proposed Rulemaking (FNPRM), seeking comment on the Commission's proposed AWS-3 rules, which include adding 5 megahertz of spectrum (2175-80 MHz) to the AWS-3 band, and requiring licensees of that spectrum to provide—using up to 25 percent of its wireless network capacity—free, two-way broadband Internet service at engineered data rates of at least 768 kbps downstream.

Timetable:

Action | Date | FR Cite
NPRM | 11/14/07 | 72 FR 64013
NPRM Comment Period End | 01/14/08
FNPRM | 06/25/08 | 73 FR 35995
FNPRM Comment Period End | 08/11/08
FNPRM | 08/20/13 | 78 FR 51559
FNPRM Comment Period End | 10/16/13
R&O | 06/04/14 | 79 FR 32366
Next Action Undetermined

Regulatory Flexibility Analysis Required: Yes.

Agency Contact: Peter Daronco, Deputy Division Chief, Broadband Division, Federal Communications Commission, Wireless Telecommunications Bureau, 445 12th Street SW., Washington, DC 20554, Phone: 202 418-7235, Email: peter.daronco@fcc.gov.

RIN: 3060-AJ19

495. Rules Authorizing the Operation of Low Power Auxiliary Stations in the 698-806 MHZ Band (WT Docket No. 08-166) Public Interest Spectrum Coalition, Petition for Rulemaking Regarding Low Power Auxiliary

Legal Authority: 47 U.S.C. 151 and 152; 47 U.S.C. 154(i) and 154(j); 47 U.S.C. 301 and 302(a); 47 U.S.C. 303; 47 U.S.C. 303(r); 47 U.S.C. 304; 47 U.S.C. 307 to 309; 47 U.S.C. 316; 47 U.S.C. 332; 47 U.S.C. 336 and 337

Abstract: In 2010, the Commission: Prohibited the distribution and sale of wireless microphones that operate in the 700 MHz Band (TV channels 52-69); ordered that the band be cleared of these devices; authorized unlicensed wireless microphone operations subject to conditions; and sought comment on issues including the operation of low power auxiliary stations including wireless microphones in the core TV bands (channels 52-36, 38-51), and on license eligibility.

On June 2, 2014, the Commission released a Second Report and Order to provide a limited expansion of the types of entities eligible for a low power auxiliary station license under part 74 of its rules to include qualifying professional sound companies, as well as owners and operators of large venues, as further explained in the order. The Commission also: (1) Denied requests to expand eligibility under part 74 to include nuclear power plants, but modified a previous waiver concerning the operation of unlicensed low power auxiliary devices both inside and outside the plants; (2) adopted provisions to condition any new LPAS licenses on the requirement to cease operating in repurposed UHF spectrum in connection with the Commission's Incentive Auction Report and Order in GN Docket No. 12-268 (FCC 14-50); and (3) provided newly eligible licensees with an initial and renewal license term not to exceed 10 years.

Timetable:

Action | Date | FR Cite
NPRM | 09/03/08 | 73 FR 51406
NPRM Comment Period End | 10/20/08
R&O | 01/22/10 | 75 FR 3622
FNPRM | 01/22/10 | 75 FR 3682
FNPRM Comment Period End | 03/22/10
Public Notice | 10/05/12
Second R&O | 07/14/14 | 79 FR 40680
Next Action Undetermined

Regulatory Flexibility Analysis Required: Yes.

Agency Contact: G. William Stafford, Attorney, Federal Communications Commission, 445 12th Street SW., Washington, DC 20554, Phone: 202 418-0563, Email: bill.stafford@fcc.gov.

RIN: 3060-AJ21

496. Amendment of the Commission's Rules To Improve Public Safety Communications in the 800 MHZ Band, and To Consolidate the 800 MHZ and 900 MHZ Business and Industrial/Land Transportation Pool Channels

Legal Authority: 47 U.S.C. 151; 47 U.S.C. 154(i); 47 U.S.C. 303; 47 U.S.C. 309; 47 U.S.C. 332

Abstract: This action adopts rules that retain the current site-based licensing paradigm for the 900 MHz B/ILT “white space”; adopts interference protection rules applicable to all licensees operating in the 900 MHz B/ILT spectrum; and lifts, on a rolling basis, the freeze placed on applications for new 900 MHz B/ILT licenses in September 2004—the lift being tied to the completion of rebanding in each 800 MHz National Public Safety Planning Advisory Committee (NPSPAC) region.

Timetable:

Action | Date | FR Cite
NPRM | 03/18/05 | 70 FR 13143
NPRM Comment Period End | 06/12/05 | 70 FR 23080
Final Rule | 12/16/08 | 73 FR 67794
Petition for Reconsideration | 03/12/09 | 74 FR 10739
Order on Reconsideration | 07/17/13 | 78 FR 42701
Next Action Undetermined

Regulatory Flexibility Analysis Required: Yes.

Agency Contact: Joyce Jones, Attorney Advisor, Wireless Telecommunications Bureau, Federal Communications Commission, 445 12th Street SW., Washington, DC 20554, Phone: 202 418-1327, Email: joyce.jones@fcc.gov.

RIN: 3060-AJ22

497. Amendment of Part 101 To Accommodate 30 MHz Channels in the 6525-6875 MHz Band and Provide Conditional Authorization on Channels in the 21.8-22.0 and 23.0-23.2 GHz Band (Wt Docket No. 04-114)

Legal Authority: 47 U.S.C. 151 and 152; 47 U.S.C. 154(i); 47 U.S.C. 157; 47 U.S.C. 160; 47 U.S.C. 201; 47 U.S.C. 214; 47 U.S.C. 301 to 303; 47 U.S.C. 307 to 310; 47 U.S.C. 319; 47 U.S.C. 324; 47 U.S.C. 332 and 333

Abstract: The Commission seeks comments on modifying its rules to authorize channels with bandwidths of as much as 30 MHz in the 6525-6875 MHz band. We also propose to allow conditional authorization on additional channels in the 21.8-22.0 and 23.0-23.2 GHz bands.

Timetable:

Action | Date | FR Cite
NPRM | 06/29/09 | 74 FR 36134
NPRM Comment Period End | 07/22/09
R&O | 06/11/10 | 75 FR 41767
Next Action Undetermined

Regulatory Flexibility Analysis Required: Yes.

Agency Contact: John Schauble, Deputy Chief, Broadband Division, Federal Communications Commission, Wireless Telecommunications Bureau, 445 12th Street SW., Washington, DC 20554, Phone: 202 418-0797, Email: john.schauble@fcc.gov.

RIN: 3060-AJ28

498. In the Matter of Service Rules for the 698 to 746, 747 to 762, and 777 to 792 MHz Bands

Legal Authority: 47 U.S.C. 151; 47 U.S.C. 154(i); 47 U.S.C. 303(r); 47 U.S.C. 309

Abstract: This is one of several docketed proceedings involved in the establishment of rules governing wireless licenses in the 698-806 MHz band (the 700 MHz band). This spectrum is being vacated by television broadcasters in TV channels 52-69. It is being made available for wireless services, including public safety and commercial services, as a result of the digital television (DTV) transition. This docket has to do with service rules for the commercial services, and is known as the 700 MHz Commercial Services proceeding.

Timetable:

Action | Date | FR Cite
NPRM | 08/03/06 | 71 FR 48506
NPRM | 09/20/06
FNPRM | 05/02/07 | 72 FR 24238
FNPRM Comment Period End | 05/23/07
R&O | 07/31/07 | 72 FR 48814
Order on Reconsideration | 09/24/07 | 72 FR 56015
Second FNPRM | 05/14/08 | 73 FR 29582
Second FNPRM Comment Period End | 06/20/08
Third FNPRM | 09/05/08 | 73 FR 57750
Third FNPRM Comment Period End | 11/03/08
Second R&O | 02/20/09 | 74 FR 8868
Final Rule | 03/04/09 | 74 FR 8868
Order on Reconsideration | 03/01/13 | 78 FR 19424
Next Action Undetermined

Regulatory Flexibility Analysis Required: Yes.

Agency Contact: Paul D'Ari, Spectrum and Competition Policy Division, Federal Communications Commission, Wireless Telecommunications Bureau, 445 12th Street SW., Washington, DC 20554, Phone: 202 418-1550, Email: paul.dari@fcc.gov.

RIN: 3060-AJ35

499. National Environmental Act Compliance for Proposed Tower Registrations; in the Matter of Effects on Migratory Birds

Legal Authority: 47 U.S.C. 151; 47 U.S.C. 154(i); 47 U.S.C. 303(q); 47 U.S.C. 303(r); 47 U.S.C. 309(g); 42 U.S.C. 4321 et seq.

Abstract: On April 14, 2009, American Bird Conservancy, Defenders of Wildlife, and National Audubon Society filed a Petition for Expedited Rulemaking and Other Relief. The petitioners request that the Commission adopt on an expedited basis a variety of new rules which they assert are necessary to comply with environmental statutes and their implementing regulations. This proceeding addresses the Petition for Expedited Rulemaking and Other Relief.

Timetable:

Action | Date | FR Cite
NPRM | 11/22/06 | 71 FR 67510
NPRM Comment Period End | 02/20/07 |
New NPRM Comment Period End | 05/23/07 |
Order on Remand | 01/26/12 | 77 FR 3935
Next Action Undetermined

Regulatory Flexibility Analysis Required: Yes.

Agency Contact: Jeff Steinberg, Deputy Chief, Spectrum and Competition Division, Federal Communications Commission, Wireless Telecommunications Bureau, 445 12th Street SW., Washington, DC 20554, Phone: 202-418-0896, Email: jeffrey.steinberg@fcc.gov.

RIN: 3060-AJ36

500. Amendment of Part 90 of the Commission's Rules

Legal Authority: 47 U.S.C. 154; 47 U.S.C. 303

Abstract: This proceeding considers rule changes impacting miscellaneous part 90 Private Land Mobile Radio rules.

Timetable:

Action | Date | FR Cite
NPRM | 06/13/07 | 72 FR 32582
FNPRM | 04/14/10 | 75 FR 19340
Order on Reconsideration | 05/27/10 | 75 FR 29677
5th R&O | 05/16/13 | 78 FR 28749
Petition for Reconsideration | 07/23/13 | 78 FR 44091
Next Action Undetermined

Regulatory Flexibility Analysis Required: Yes.

Agency Contact: Rodney P Conway, Engineer, Federal Communications Commission, Wireless Telecommunications Bureau, 445 12th Street SW., Washington, DC 20554, Phone: 202-418-2904, Fax: 202-418-1944, Email: rodney.conway@fcc.gov.

RIN: 3060-AJ37

501. Amendment of Part 101 of the Commission's Rules for Microwave use and Broadcast Auxiliary Service Flexibility

Legal Authority: 47 U.S.C. 151 and 152; 47 U.S.C. 154(i) and 157; 47 U.S.C. 160 and 201; 47 U.S.C. 214; 47 U.S.C. 301 to 303; 47 U.S.C. 307 to 310; 47 U.S.C. 319 and 324; 47 U.S.C. 332 and 333

Abstract: In this document, the Commission commences a proceeding to remove regulatory barriers to the use of spectrum for wireless backhaul and other point-to-point and point-to-multipoint communications.

Timetable:

Action | Date | FR Cite
NPRM | 08/05/10 | 75 FR 52185
NPRM Comment Period End | 11/22/10 |
R&O | 09/27/11 | 76 FR 59559
FNPRM | 09/27/11 | 76 FR 59614
FNPRM Comment Period End | 10/25/11 |
R&O | 09/05/12 | 77 FR 54421
FNPRM | 09/05/12 | 77 FR 54511
FNPRM Comment Period End | 10/22/12 |
Next Action Undetermined

Regulatory Flexibility Analysis Required: Yes.

Agency Contact: John Schauble, Deputy Chief, Broadband Division, Federal Communications Commission, Wireless Telecommunications Bureau, 445 12th Street SW., Washington, DC 20554, Phone: 202-418-0797, Email: john.schauble@fcc.gov.

RIN: 3060-AJ47

502. 2004 and 2006 Biennial Regulatory Reviews—Streamlining and Other Revisions of the Commission's Rules Governing Construction, Marking, and Lighting of Antenna Structures

Legal Authority: 47 U.S.C. 154(i)-(j) and 161; 47 U.S.C. 303(q)

Abstract: In this NPRM, in WT Docket No. 10-88, the Commission seeks comment on revisions to part 17 of the Commission's rules governing construction, marking, and lighting of antenna structures. The Commission initiated this proceeding to update and modernize the part 17 rules. These proposed revisions are intended to improve compliance with these rules and allow the Commission to enforce them more effectively, helping to better ensure the safety of pilots and aircraft passengers nationwide. The proposed revisions also would remove outdated and burdensome requirements without compromising the Commission's statutory responsibility to prevent antenna structures from being hazards or menaces to air navigation.

Timetable:

Action | Date | FR Cite
NPRM | 05/21/10 | 75 FR 28517
NPRM Comment Period End | 07/20/10 |
NPRM Reply Comment Period End | 08/19/10 |
R&O | 09/24/14 | 79 FR 56968
Next Action Undetermined

Regulatory Flexibility Analysis Required: Yes.

Agency Contact: Paul D'Ari, Spectrum and Competition Policy Division, Federal Communications Commission, Wireless Telecommunications Bureau, 445 12th Street SW., Washington, DC 20554, Phone: 202-418-1550, Email: paul.dari@fcc.gov.

RIN: 3060-AJ50

503. Universal Service Reform Mobility Fund (WT Docket No. 10-208)

Legal Authority: 47 U.S.C. 151; 47 U.S.C. 154(i); 47 U.S.C. 155; 47 U.S.C. 160; 47 U.S.C. 201; 47 U.S.C. 205; 47 U.S.C. 225; 47 U.S.C. 254; 47 U.S.C. 301; 47 U.S.C. 303; 47 U.S.C. 303(c); 47 U.S.C. 303(f); 47 U.S.C. 303(r); 47 U.S.C. 303(y); 47 U.S.C. 309; 47 U.S.C. 310

Abstract: This proceeding establishes the Mobility Fund which provides an initial infusion of funds toward solving persistent gaps in mobile services through targeted, one-time support for the build-out of current and next-generation wireless infrastructure in areas where these services are unavailable.

Timetable:

Action | Date | FR Cite
NPRM | 10/14/10 | 75 FR 67060
NPRM Comment Period End | 01/18/11 |
R&O | 11/29/11 | 76 FR 73830
FNPRM | 12/16/11 | 76 FR 78384
R&O | 12/28/11 | 76 FR 81562
2nd R&O | 07/03/12 | 77 FR 39435
4th Order on Recon | 08/14/12 | 77 FR 48453
Next Action Undetermined

Regulatory Flexibility Analysis Required: Yes.

Agency Contact: Scott Mackoul, Attorney Advisor, Federal Communications Commission, Public Safety and Homeland Security Bureau, 445 12th Street SW., Washington, DC 20554, Phone: 202-418-7498, Email: scott.mackoul@fcc.gov.

RIN: 3060-AJ58

504. Fixed and Mobile Services in the Mobile Satellite Service Bands at 1525-1559 MHZ and 1626.5-1660.5 MHZ, 1610-1626.5 MHZ and 2483.5-2500 MHZ, and 2000-2020 MHZ and 2180-2200 MHZ

Legal Authority: 47 U.S.C. 151 and 154; 47 U.S.C. 303 and 310

Abstract: The Commission proposes steps making additional spectrum available for new investment in mobile broadband networks while ensuring that the United States maintains robust mobile satellite service capabilities. Mobile broadband is emerging as one of America's most dynamic innovation and economic platforms. Yet tremendous demand growth soon will test the limits of spectrum availability. Some 90 megahertz of spectrum allocated to the Mobile Satellite Service (MSS)—in the 2 GHz band, Big LEO band, and L-band—are potentially available for terrestrial mobile broadband use. The Commission seeks to remove regulatory barriers to terrestrial use, and to promote additional investments, such as those recently made possible by a transaction between Harbinger Capital Partners and SkyTerra Communications, while retaining sufficient market-wide MSS capability. The Commission proposes to add co-primary Fixed and Mobile allocations to the 2 GHz band, consistent with the International Table of Allocations. This allocation modification is a precondition for more flexible licensing of terrestrial services within the band. Second, the Commission proposes to apply the Commission's secondary market policies and rules applicable to terrestrial services to all transactions involving the use of MSS bands for terrestrial services to create greater predictability and regulatory parity with bands licensed for terrestrial mobile broadband service. The Commission also requests comment on further steps we can take to increase the value, utilization, innovation, and investment in MSS spectrum generally.

Timetable:

Action | Date | FR Cite
NPRM | 07/15/10 | 75 FR 49871
NPRM Comment Period End | 09/30/10 |
R&O | 04/06/11 | 76 FR 31252
Next Action Undetermined

Regulatory Flexibility Analysis Required: Yes.

Agency Contact: Blaise Scinto, Chief, Broadband Div., WTB, Federal Communications Commission, 445 12th Street SW., Washington, DC 20554, Phone: 202-418-1380, Email: blaise.scinto@fcc.gov.

RIN: 3060-AJ59

505. Improving Spectrum Efficiency Through Flexible Channel Spacing and Bandwidth Utilization for Economic Area-Based 800 MHZ Specialized Mobile Radio Licensees (WT Docket Nos. 12-64 and 11-110)

Legal Authority: 47 U.S.C. 151; 47 U.S.C. 152; 47 U.S.C. 154; 47 U.S.C. 301; 47 U.S.C. 302(a); 47 U.S.C. 303; 47 U.S.C. 307; 47 U.S.C. 308

Abstract: This proceeding was initiated to allow EA-based 800 MHz SMR licensees in 813.5-824/858.5-869 MHz to exceed the channel spacing and bandwidth limitation in section 90.209 of the Commission's rules, subject to conditions.

Timetable:

Action | Date | FR Cite
NPRM | 03/29/12 | 77 FR 18991
NPRM Comment Period End | 04/13/12 |
R&O | 05/24/12 | 77 FR 33972
Petition for Recon Public Notice | 08/16/12 | 77 FR 53163
Petition for Recon PN Comment Period End | 09/27/12 |
Next Action Undetermined

Regulatory Flexibility Analysis Required: Yes.

Agency Contact: Linda Chang, Attorney, Deputy Div. Chief, Federal Communications Commission, Wireless Telecommunications Bureau, 445 12th Street SW., Washington, DC 20554, Phone: 202-418-1339, Fax: 202-418-7447, Email: linda.chang@fcc.gov.

RIN: 3060-AJ71

506. Service Rules for Advanced Wireless Services in the 2000-2020 MHZ and 2180-2200 MHZ Bands

Legal Authority: 47 U.S.C. 151; 47 U.S.C. 153; 47 U.S.C. 154(i); 47 U.S.C. 227; 47 U.S.C. 301; 47 U.S.C. 302; 47 U.S.C. 303; 47 U.S.C. 307; 47 U.S.C. 308; 47 U.S.C. 309; 47 U.S.C. 310; 47 U.S.C. 316; 47 U.S.C. 319; 47 U.S.C. 324; 47 U.S.C. 332; 47 U.S.C. 333

Abstract: In the Report and Order, the Commission increased the Nation's supply of spectrum for mobile broadband by removing unnecessary barriers to flexible use of spectrum currently assigned to the Mobile Satellite Service (MSS) in the 2 GHz band. This action carries out a recommendation in the National Broadband Plan that the Commission enable the provision of standalone terrestrial services in this spectrum. We do so by adopting service, technical, assignment, and licensing rules for this spectrum. These rules are designed to provide for flexible use of this spectrum, encourage innovation and investment in mobile broadband, and provide a stable regulatory environment in which broadband deployment could develop.

Timetable:

Action | Date | FR Cite
NPRM Comment Period End | 04/17/12 |
NPRM | 04/17/12 | 77 FR 22720
R&O | 05/05/13 | 78 FR 8229
Next Action Undetermined

Regulatory Flexibility Analysis Required: Yes.

Agency Contact: Peter Daronco, Deputy Division Chief, Broadband Division, Federal Communications Commission, Wireless Telecommunications Bureau, 445 12th Street SW., Washington, DC 20554, Phone: 202 418-7235, Email: peter.daronco@fcc.gov.

RIN: 3060-AJ73

507. Promoting Interoperability in the 700 MHZ Commercial Spectrum; Requests for Waiver and Extension of Lower 700 MHZ Band Interim Construction Benchmark Deadlines (WT Docket Nos. 12-69 & 12-332)

Legal Authority: 47 U.S.C. 151; 47 U.S.C. 152; 47 U.S.C. 154(i); 47 U.S.C. 154(j); 47 U.S.C. 301; 47 U.S.C. 302(a); 47 U.S.C. 303(b); 47 U.S.C. 303(e); 47 U.S.C. 303(f); 47 U.S.C. 303(g); 47 U.S.C. 303(r); 47 U.S.C. 304; 47 U.S.C. 307(a); 47 U.S.C. 309(j)(3); 47 U.S.C. 316(a)(1); 47 CFR 1.401 et seq.

Abstract: In the Report and Order, the Commission took steps to implement an industry solution to provide interoperable Long Term Evolution (LTE) service in the lower 700 MHz band in an efficient and effective manner to improve choice and quality for consumers of mobile services.

Timetable:

Action | Date | FR Cite
NPRM | 04/02/12 | 77 FR 19575
NPRM Comment Period End | 06/01/12 |
R&O and Order of Proposed Modification | 11/05/13 | 78 FR 66298
Order on Modification (Release Date) | 01/16/14 |
Next Action Undetermined

Regulatory Flexibility Analysis Required: Yes.

Agency Contact: Jennifer Salhus, Attorney, Federal Communications Commission, 445 12th Street SW., Washington, DC 20554, Phone: 202 418-2823, Email: jsalhus@fcc.gov.

RIN: 3060-AJ78

508. Expanding the Economic and Innovation Opportunities of Spectrum Through Incentive Auctions; Docket No. 12-268

Legal Authority: 47 U.S.C. 309(j)(8)(G); 47 U.S.C. 1452

Abstract: In February 2012, the Middle Class Tax Relief and Job Creation Act was enacted (Public Law 112-96, 126 Stat. 156 (2012)). Title VI of that statute, commonly known as the Spectrum Act, provides the Commission with the authority to conduct incentive auctions to meet the growing demand for wireless broadband. Pursuant to the Spectrum Act, the Commission may conduct incentive auctions that will offer new initial spectrum licenses subject to flexible-use service rules on spectrum made available by licensees that voluntarily relinquish some or all of their spectrum usage rights in exchange for a portion, based on the value of the relinquished rights as determined by an auction, of the proceeds of bidding for the new licenses. In addition to granting the Commission general authority to conduct incentive auctions, the Spectrum Act requires the Commission to conduct an incentive auction of broadcast TV spectrum and sets forth special requirements for such an auction.

The incentive auction will consist of a reverse auction” to determine the amount of compensation that each broadcast television licensee would accept in return for voluntarily relinquishing some or all of its spectrum usage rights and a forward auction” that will allow mobile broadband providers to bid for licenses in the reallocated spectrum. Broadcast television licensees who elect voluntarily to participate in the auction have three basic options: voluntarily go off the air, share their spectrum, or move channels in exchange for receiving part of the proceeds from auctioning that spectrum to wireless providers.

In June 2014, the Commission adopted a Report and Order that laid out the broad rules for the incentive auction. Consistent with past practice, in December 2014, a public notice was issued asking for comment specific key components related to implementing the June 2014 Report and Order. The public notice asking for comment will be followed by a public notice with the specific procedures about how to participate in the incentive auction. The start of the Incentive Auction is planned for early 2016.

Timetable:

Action | Date | FR Cite
NPRM | 11/21/12 | 77 FR 69933
NPRM Comment Period End | 03/02/13 |
R&O | 08/15/14 | 79 FR 48441
Notice | 01/29/15 | 80 FR 4816
Notice Comment Period End | 03/13/15 |
Next Action Undetermined

Regulatory Flexibility Analysis Required: Yes.

Agency Contact: Rachel Kazan, Federal Communications Commission, 445 12th Street SW., Washington, DC 20554, Phone: 202-418-1500, Email: rachel.kazan@fcc.gov.

RIN: 3060-AJ82

509. Service Rules for Advanced Wireless Services of the Middle Class Tax Relief and Job Creation Act of 2012 Related to the 1915-1920 MHZ and 1995-2000 MHZ Bands (WT Docket No. 12¿357)

Legal Authority: 47 U.S.C. 301; 47 U.S.C. 302; 47 U.S.C. 303; 47 U.S.C. 307; 47 U.S.C. 308; 47 U.S.C. 309; 47 U.S.C. 310

Abstract: The Commission proposes rules for the Advanced Wireless Services (AWS) H Block that would make available 10 megahertz of flexible use. The proposal would extend the widely deployed Personal Communications Services (PCS) band, which is used by the four national providers as well as regional and rural providers to offer mobile service across the nation. The additional spectrum for mobile use will help ensure that the speed, capacity, and ubiquity of the Nation's wireless networks keeps pace with the skyrocketing demand for mobile services.

Today's action is a first step to implement the congressional directive in the Middle Class Tax Relief and Job Creation Act of 2012 (Spectrum Act) to grant new initial licenses for the 1915-1920 MHz and 1995-2000 MHz bands (the Lower H Block and Upper H Block, respectively) through a system of competitive bidding,Â¿ unless doing so would cause harmful interference to commercial mobile service licenses in the 1930-1985 MHz (PCS downlink) band. The potential for harmful interference to the PCS downlink band relates only to the Lower H Block transmissions, and may be addressed by appropriate technical rules, including reduced power limits on H Block devices. We, therefore, propose to pair and license the Lower H Block and the Upper H Block for flexible use, including mobile broadband, aiming to assign the licenses through competitive bidding in 2013. In the event that we conclude that the Lower H Block cannot be used without causing harmful interference to PCS, we propose to license the Upper H Block for full power, and seek comment on appropriate use for the Lower H Block, including Unlicensed PCS.

Timetable:

Action | Date | FR Cite
NPRM | 01/08/13 | 78 FR 1166
NPRM Comment Period End | 03/06/13 |
R&O | 08/16/13 | 78 FR 50213
Next Action Undetermined

Regulatory Flexibility Analysis Required: Yes.

Agency Contact: Peter Daronco, Deputy Division Chief, Broadband Division, Federal Communications Commission, Wireless Telecommunications Bureau, 445 12th Street SW., Washington, DC 20554, Phone: 202-418-7235, Email: peter.daronco@fcc.gov.

RIN: 3060-AJ86

510. Amendment of Parts 1, 2, 22, 24, 27, 90 and 95 of the Commission's Rules to Improve Wireless Coverage Through the Use of Signal Boosters (WT Docket No. 10-4)

Legal Authority: 15 U.S.C. 79; 47 U.S.C. 151; 47 U.S.C. 154(i); 47 U.S.C. 154(j); 47 U.S.C. 155; 47 U.S.C. 157; 47 U.S.C. 225; 47 U.S.C. 227; 47 U.S.C. 303(r)

Abstract: This action adopts new technical, operational, and registration requirements for signal boosters. It creates two classes of signal boosters—consumer and industrial—with distinct regulatory requirements for each, thereby establishing a two-step transition process for equipment certification for both consumer and industrial signal boosters sold and marketed in the United States.

Timetable:

Action | Date | FR Cite
NPRM | 05/10/11 | 76 FR 26983
R&O | 04/11/13 | 78 FR 21555
Petition for Reconsideration | 06/06/13 | 78 FR 34015
Order on Reconsideration | 11/08/14 | 79 FR 70790
FNPRM | 11/28/14 | 79 FR 70837
Next Action Undetermined

Regulatory Flexibility Analysis Required: Yes.

Agency Contact: Amanda Huetinck, Attorney Advisor, WTB, Federal Communications Commission, 445 12th Street SW., Washington, DC 20554, Phone: 202-418-7090, Email: amanda.huetinck@fcc.gov.

RIN: 3060-AJ87

511. Amendment of the Commission's Rules Governing Certain Aviation Ground Station Equipment (Squitter) (WT Docket Nos. 10-61 and 09-42)

Legal Authority: 48 Stat 1066, 1082 as amended; 47 U.S.C. 154; 47 U.S.C. 303; 47 U.S.C. 307(e); 47 U.S.C. 151 to 156; 47 U.S.C. 301

Abstract: This action amends part 87 rules to authorize new ground station technologies to promote safety and allow use of frequency 1090 MHz by aeronautical utility mobile stations for airport surface detection equipment (commonly referred to as “squitters”) to help reduce collisions between aircraft and airport ground vehicles.

Timetable:

Action | Date | FR Cite
NPRM | 04/28/10 | 75 FR 22352
R&O | 03/01/13 | 78 FR 61023
Next Action Undetermined

Regulatory Flexibility Analysis Required: Yes.

Agency Contact: Tim Maguire, Electronics Engineer, Federal Communications Commission, 445 12th Street SW., Washington, DC 20554, Phone: 202-418-2155, Fax: 202-418-7247, Email: tim.maguire@fcc.gov.

RIN: 3060-AJ88

512. Amendment of the Commission's Rules Concerning Commercial Radio Operators (WT Docket No. 10-177)

Legal Authority: 47 U.S.C. 154(i); 47 U.S.C. 303(r); 47 U.S.C. 332(a)2

Abstract: This action amends parts 0, 1, 13, 80, and 87 of the Commission's rules concerning commercial radio operator licenses for maritime and aviation radio stations in order to reduce administrative burdens on the telecom industry.

Timetable:

Action | Date | FR Cite
NPRM | 10/29/10 | 75 FR 66709
R&O | 05/29/13 | 78 FR 32165
Next Action Undetermined

Regulatory Flexibility Analysis Required: Yes.

Agency Contact: Stanislava Kimball, Attorney Advisor, Federal Communications Commission, 445 12th Street SW., Washington, DC 20554, Phone: 202-418-1306, Email: stanislava.kimball@fcc.gov.

RIN: 3060-AJ91

513. Radiolocation Operations in the 78-81 GHz Band; WT Docket No. 11-202

Legal Authority: 47 U.S.C. 154; 47 U.S.C. 303; 47 U.S.C. 307(e)

Abstract: We amend our rules to permit the certification, licensing, and use of foreign object debris (FOD) detection radar equipment in the 78-81 GHz band. The presence of FOD on airport runways, taxiways, aprons, and ramps poses a significant threat to the safety of air travel. FOD detection radar equipment will be authorized on a licensed basis under part 90 of our rules. Authorization of other potential radiolocation uses of the 78-81 GHz band will be considered in other proceedings.

Timetable:

Action | Date | FR Cite
NPRM | 01/11/12 | 77 FR 1661
R&O | 07/26/13 | 78 FR 45072
NPRM | 03/06/15 | 80 FR 12120
Next Action Undetermined

Regulatory Flexibility Analysis Required: Yes.

Agency Contact: Tim Maguire, Electronics Engineer, Federal Communications Commission, 445 12th Street SW., Washington, DC 20554, Phone: 202 418-2155, Fax: 202 418-7247, Email: tim.maguire@fcc.gov.

RIN: 3060-AK04

514. Amendment of Part 90 of the Commission's Rules to Permit Terrestrial Trunked Radio (TETRA) Technology; WT Docket No. 11-6

Legal Authority: 47 U.S.C. 154(i); 47 U.S.C. 161; 47 U.S.C. 303(g); 47 U.S.C. 303(r); 47 U.S.C. 332(c)(7)

Abstract: We modify our rules to permit the certification and use of Terrestrial Trunked Radio (TETRA) equipment under part 90 of our rules. TETRA is a spectrally efficient digital technology with the potential to provide valuable benefits to land mobile radio users, such as higher security and lower latency than comparable technologies. It does not, however, conform to all of our current part 90 technical rules. In the Notice of Proposed Rule Making and Order (NPRM) in this proceeding, the Commission proposed to amend part 90 to accommodate TETRA technology. We conclude that modifying the part 90 rules to permit the certification and use of TETRA equipment in two bands-the 450-470 MHz portion of the UHF band (421-512 MHz) and Business/Industrial Land Transportation 800 MHz band channels (809-824/854-869 MHz) that are not in the National Public Safety Planning Advisory Committee (NPSPAC) portion of the band-will give private land mobile radio (PLMR) licensees additional equipment alternatives without increasing the potential for interference or other adverse effects on other licensees.

Timetable:

Action | Date | FR Cite
NPRM | 05/11/11 | 76 FR 27296
R&O | 10/10/12 | 77 FR 61535
Order on Reconsideration | 08/09/13 | 78 FR 48627
Next Action Undetermined

Regulatory Flexibility Analysis Required: Yes.

Agency Contact: Tim Maguire, Electronics Engineer, Federal Communications Commission, 445 12th Street SW., Washington, DC 20554, Phone: 202 418-2155, Fax: 202 418-7247, Email: tim.maguire@fcc.gov.

RIN: 3060-AK05

515. Promoting Technological Solutions To Combat Wireless Contraband Device Use In Correctional Facilities

Legal Authority: 47 U.S.C. 151; 47 U.S.C. 152; 47 U.S.C. 154(i); 47 U.S.C. 154(j); 47 U.S.C. 301; 47 U.S.C. 303(a); 47 U.S.C. 303(b); 47 U.S.C. 307; 47 U.S.C. 308; 47 U.S.C. 309; 47 U.S.C. 310; 47 U.S.C. 332

Abstract: In this proceeding, the Commission proposes rules to encourage development of multiple technological solutions to combat the use of contraband wireless devices in correctional facilities nationwide. The Commission proposes to streamline rules governing lease agreement modifications between wireless providers and managed access system operators. It also proposes to require wireless providers to terminate service to a contraband wireless device.

Timetable:

Action | Date | FR Cite
NPRM | 06/18/13 | 78 FR 36469
NPRM Comment Period End | 08/08/13
Next Action Undetermined

Regulatory Flexibility Analysis Required: Yes.

Agency Contact: Melissa Conway, Attorney Advisor, Wireless Bureau, Federal Communications Commission, 445 12th Street SW., Washington, DC 20554, Phone: 202 418-2887, Email: melissa.conway@fcc.gov.

RIN: 3060-AK06

516. 800 MHZ Cellular Telecommunications Licensing Reform; Docket No. 12-40

Legal Authority: 47 U.S.C. 151; 47 U.S.C. 152; 47 U.S.C. 154(i); 47 U.S.C. 301 to 303; 47 U.S.C. 308; 47 U.S.C. 309(j); 47 U.S.C. 332

Abstract: The proceeding was launched to revisit and update various rules governing licensing for the 800 MHz cellular radiotelephone service. Most notably, the current site-based model for issuing licenses is under review, mindful of the evolution of this commercial wireless mobile service since its inception more than 30 years ago and the licensing models used for newer wireless telecommunications services.

On November 10, 2014, the FCC released a Report and Order (R&O) and a companion Further Notice of Proposed Rulemaking (FNPRM) to revise rules governing the 800 MHz Cellular Service. In the R&O, the FCC eliminated various regulatory requirements and streamlined requirements remaining in place, while retaining Cellular Service licensees' ability to expand into an area that is not yet licensed. In the FNPRM, the FCC proposes and seeks comment on additional Cellular Service reforms of licensing rules and the radiated power rules, to promote flexibility and help foster the deployment of newer technologies such as LTE.

Timetable:

Action | Date | FR Cite
NPRM | 03/16/12 | 77 FR 15665
NPRM Comment Period End | 05/15/12
NPRM Reply Comment Period End | 06/14/12
R&O | 12/05/14 | 79 FR 72143
FNPRM | 12/22/14 | 79FR 76268
Final Rule Effective (with 3 exceptions) | 01/05/15
FNPRM Comment Period End | 01/21/15
FNPRM Reply Comment Period End | 02/20/15
Next Action Undetermined

Regulatory Flexibility Analysis Required: Yes.

Agency Contact: Nina Shafran, Attorney Advisor, Wireless Bureau, Federal Communications Commission, 445 12th Street SW., Washington, DC 20554, Phone: 202 418-2781, Email: nina.shafran@fcc.gov.

RIN: 3060-AK13

517. Acceleration of Broadband Deployment by Improving Wireless Facilities Siting Policies; WTt Docket Nos. 13-238, 13-32 and WC Docket No. 11-59

Legal Authority: 47 U.S.C. 151; 47 U.S.C. 152; 47 U.S.C. 154(i); 47 U.S.C. 157; 47 U.S.C. 201; 47 U.S.C. 301; 47 U.S.C. 303; 47 U.S.C. 309; 47 U.S.C. 1403; 47 U.S.C. 1422; 42 U.S.C. 4332(c); . . .

Abstract: This rulemaking promotes deployment of wireless infrastructure by adopting and clarifying rules, in an effort to reduce regulatory obstacles and bring efficiency to wireless facilities and construction.

Timetable:

Action | Date | FR Cite
NPRM | 12/05/13 | 78 FR 73144
NPRM Comment Period End | 02/03/14
FNPRM Reply Comment Period End | 03/05/14
Final Rule | 01/08/15 | 80 FR 1238
Final Rule Effective | 02/09/15
Final Rule Effective | 04/08/15
Next Action Undetermined

Regulatory Flexibility Analysis Required: Yes.

Agency Contact: Peter Trachtenberg, Deputy Division Chief, SCPD, Federal Communications Commission, Wireless Telecommunications Bureau, 445 12th Street SW., Washington, DC 20554, Phone: 202 418-7369, Email: peter.trachtenberg@fcc.gov.

RIN: 3060-AK22

518. Updating Competitive Bidding Rules

Legal Authority: 47 U.S.C. 151; 47 U.S.C. 154(i); 47 U.S.C. 303(r); 47 U.S.C. 309(j); 47 U.S.C. 316

Abstract: This proceeding was initiated to revise some of the Commission's general part 1 rules governing competitive bidding for spectrum licenses to reflect changes in the marketplace, including the challenges faced by new entrants, as well as to advance the statutory directive to ensure that small businesses, rural telephone companies, and businesses owned by members of minority groups and women are given the opportunity to participate in the provision of spectrum-based services.

Timetable:

Action | Date | FR Cite
NPRM | 11/14/14 | 79 FR 68172
NPRM Comment Period End | 03/06/15
Next Action Undetermined

Regulatory Flexibility Analysis Required: Yes.

Agency Contact: Kelly Quinn, Assistant Chief, Auctions and Spectrum Access Division, Federal Communications Commission, 445 12th Street SW., Washington, DC 20554, Phone: 202 418-0660, Email: kelly.quinn@fcc.gov.

RIN: 3060-AK28

FEDERAL COMMUNICATIONS COMMISSION (FCC)

Wireline Competition Bureau

Long-Term Actions

519. Implementation of the Universal Service Portions of the 1996 Telecommunications Act

Legal Authority: 47 U.S.C. 151 et seq.

Abstract: The Telecommunications Act of 1996 expanded the traditional goal of universal service to include increased access to both telecommunications and advanced services such as high-speed Internet for all consumers at just, reasonable and affordable rates. The Act established principles for universal service that specifically focused on increasing access to evolving services for consumers living in rural and insular areas, and for consumers with low-incomes. Additional principles called for increased access to high-speed Internet in the Nation's schools, libraries and rural health care facilities. The FCC established four programs within the Universal Service Fund to implement the statute. The four programs are: Connect America Fund (formally known as High-Cost Support) for rural areas; Lifeline (for low-income consumers), including initiatives to expand phone service for Native Americans; Schools and Libraries (E-rate); and Rural Health Care.

The Universal Service Fund is paid for by contributions from telecommunications carriers, including wireline and wireless companies, and interconnected Voice over Internet Protocol (VoIP) providers, including cable companies that provide voice service, based on an assessment on their interstate and international end-user revenues. The Universal Service Administrative Company, or USAC, administers the four programs and collects monies for the Universal Service Fund under the direction of the FCC.

On October 16, 2014, the Commission released a Public Notice seeking comments on proposed methodology for Connect America Fund recipients to measure and report speed and latency performance to fixed locations.

On December 18, 2014, the Commission released a Report and Order finalizing decisions necessary to proceed to Phase II of the Connect America Fund.

On December 19, 2014, the Commission released a Second E-rate Modernization Order adjusting program rules and support levels in order to meet long-term program goals for high speed connectivity.

On January 30, 2015, the Commission released a Public Notice seeking comment on the Alliance of Rural Broadband applicants petition for limited waiver of certain RBE letter of credit requirements.

On February 4, 2015, the Commission released a Public Notice seeking comments on NTCA's emergency petition for limited waiver of RBE letter of credit bank eligibility requirements.

Timetable:

Action | Date | FR Cite
Recommended Decision Federal-State Joint Board, Universal Service | 11/08/96 | 61 FR 63778
First R&O | 05/08/97 | 62 FR 32862
Second R&O | 05/08/97 | 62 FR 32862
Order on Reconsideration | 07/10/97 | 62 FR 40742
R&O and Second Order on Reconsideration | 07/18/97 | 62 FR 41294
Second R&O, and FNPRM | 08/15/97 | 62 FR 47404
Third R&O | 10/14/97 | 62 FR 56118
Second Order on Reconsideration | 11/26/97 | 62 FR 65036
Fourth Order on Reconsideration | 12/30/97 | 62 FR 2093
Fifth Order on Reconsideration | 06/22/98 | 63 FR 43088
Fifth R&O | 10/28/98 | 63 FR 63993
Eighth Order on Reconsideration | 11/21/98 |
Second Recommended Decision | 11/25/98 | 63 FR 67837
Thirteenth Order on Reconsideration | 06/09/99 | 64 FR 30917
FNPRM | 06/14/99 | 64 FR 31780
FNPRM | 09/30/99 | 64 FR 52738
Fourteenth Order on Reconsideration | 11/16/99 | 64 FR 62120
Fifteenth Order on Reconsideration | 11/30/99 | 64 FR 66778
Tenth R&O | 12/01/99 | 64 FR 67372
Ninth R&O and Eighteenth Order on Reconsideration | 12/01/99 | 64 FR 67416
Nineteenth Order on Reconsideration | 12/30/99 | 64 FR 73427
Twentieth Order on Reconsideration | 05/08/00 | 65 FR 26513
Public Notice | 07/18/00 | 65 FR 44507
Twelfth R&O, MO&O and FNPRM | 08/04/00 | 65 FR 47883
FNPRM and Order | 11/09/00 | 65 FR 67322
FNPRM | 01/26/01 | 66 FR 7867
R&O and Order on Reconsideration | 03/14/01 | 66 FR 16144
NPRM | 05/08/01 | 66 FR 28718
Order | 05/22/01 | 66 FR 35107
Fourteenth R&O and FNPRM | 05/23/01 | 66 FR 30080
FNPRM and Order | 01/25/02 | 67 FR 7327
NPRM | 02/15/02 | 67 FR 9232
NPRM and Order | 02/15/02 | 67 FR 10846
FNPRM and R&O | 02/26/02 | 67 FR 11254
NPRM | 04/19/02 | 67 FR 34653
Order and Second FNPRM | 12/13/02 | 67 FR 79543
NPRM | 02/25/03 | 68 FR 12020
Public Notice | 02/26/03 | 68 FR 10724
Second R&O and FNPRM | 06/20/03 | 68 FR 36961
Twenty-Fifth Order on Reconsideration, R&O, Order, and FNPRM | 07/16/03 | 68 FR 41996
NPRM | 07/17/03 | 68 FR 42333
Order | 07/24/03 | 68 FR 47453
Order | 08/06/03 | 68 FR 46500
Order and Order on Reconsideration | 08/19/03 | 68 FR 49707
Order on Remand, MO&O, FNPRM | 10/27/03 | 68 FR 69641
R&O, Order on Reconsideration, FNPRM | 11/17/03 | 68 FR 74492
R&O, FNPRM | 02/26/04 | 69 FR 13794
R&O, FNPRM | 04/29/04 |
NPRM | 05/14/04 | 69 FR 3130
NPRM | 06/08/04 | 69 FR 40839
Order | 06/28/04 | 69 FR 48232
Order on Reconsideration & Fourth R&O | 07/30/04 | 69 FR 55983
Fifth R&O and Order | 08/13/04 | 69 FR 55097
Order | 08/26/04 | 69 FR 57289
Second FNPRM | 09/16/04 | 69 FR 61334
Order & Order on Reconsideration | 01/10/05 | 70 FR 10057
Sixth R&O | 03/14/05 | 70 FR 19321
R&O | 03/17/05 | 70 FR 29960
MO&O | 03/30/05 | 70 FR 21779
NPRM & FNPRM | 06/14/05 | 70 FR 41658
Order | 10/14/05 | 70 FR 65850
Order | 10/27/05 |
NPRM | 01/11/06 | 71 FR 1721
Report Number 2747 | 01/12/06 | 71 FR 2042
Order | 02/08/06 | 71 FR 6485
FNPRM | 03/15/06 | 71 FR 13393
R&O and NPRM | 07/10/06 | 71 FR 38781
Order | 01/01/06 | 71 FR 6485
Order | 05/16/06 | 71 FR 30298
MO&O and FNPRM | 05/16/06 | 71 FR 29843
R&O | 06/27/06 | 71 FR 38781
Public Notice | 08/11/06 | 71 FR 50420
Order | 09/29/06 | 71 FR 65517
Public Notice | 03/12/07 | 72 FR 36706
Public Notice | 03/13/07 | 72 FR 40816
Public Notice | 03/16/07 | 72 FR 39421
Notice of Inquiry | 04/16/07 |
NPRM | 05/14/07 | 72 FR 28936
Recommended Decision | 11/20/07 |
Order | 02/14/08 | 73 FR 8670
NPRM | 03/04/08 | 73 FR 11580
NPRM | 03/04/08 | 73 FR 11591
R&O | 05/05/08 | 73 FR 11837
Public Notice | 07/02/08 | 73 FR 37882
NPRM | 08/19/08 | 73 FR 48352
Notice of Inquiry | 10/14/08 | 73 FR 60689
Order on Remand, R&O, FNPRM | 11/12/08 | 73 FR 66821
R&O | 05/22/09 | 74 FR 2395
Order & NPRM | 03/24/10 | 75 FR 10199
R&O and MO&O | 04/08/10 | 75 FR 17872
NOI and NPRM | 05/13/10 | 75 FR 26906
Order and NPRM | 05/28/10 | 75 FR 30024
NPRM | 06/09/10 | 75 FR 32699
NPRM | 08/09/10 | 75 FR 48236
NPRM | 09/21/10 | 75 FR 56494
R&O | 12/03/10 | 75 FR 75393
Order | 01/27/11 | 76 FR 4827
NPRM | 03/02/11 | 76 FR 11407
NPRM | 03/02/11 | 76 FR 11632
NPRM | 03/23/11 | 76 FR 16482
Order and NPRM | 06/27/11 | 76 FR 37307
R&O | 12/28/11 | 76 FR 81562
Order | 03/09/12 | 77 FR 14297
R&O | 03/30/12 | 77 FR 19125
Order | 05/23/12 | 77 FR 30411
3rd Order on Reconsideration | 05/24/12 | 77 FR 30904
Public Notice | 05/31/12 | 77 FR 32113
FNPRM | 06/07/12 | 77 FR 33896
Public Notice | 07/26/12 | 77 FR 43773
Order | 08/30/12 | 77 FR 52616
Public Notice | 02/28/12 | 77 FR 76345
Public Notice | 08/29/12 | 77 FR 52279
Public Notice | 12/12/12 | 77 FR 74010
5th Order on Reconsideration | 01/17/13 | 78 FR 3837
Public Notice | 02/07/13 | 78 FR 9020
Public Notice | 02/21/13 | 78 FR 12006
Public Notice | 02/22/13 | 78 FR 12269
Public Notice | 03/15/13 | 78 FR 16456
6th Order on Reconsideration and MO&O | 03/19/13 | 78 FR 16808
MO&O | 05/08/13 | 78 FR 26705
R&O | 05/06/13 | 78 FR 26269
R&O | 06/03/13 | 78 FR 32991
Public Notice | 06/13/13 | 78 FR 35632
R&O | 06/26/13 | 78 FR 38227
Order on Reconsideration | 08/08/13 | 78 FR 48622
Order | 03/01/13 | 78 FR 13935
Public Notice | 12/19/13 | 78 FR 76789
Order | 02/28/14 | 79 FR 11366
Public Notice | 03/11/14 | 79 FR 13599
Public Notice | 03/17/14 | 79 FR 17070
Public Notice | 04/18/14 | 79 FR 21924
R&O | 05/21/14 | 79 FR 29111
Order | 05/23/14 | 79 FR 33705
FNPRM | 07/09/14 | 79 FR 39163
R&O | 07/31/14 | 79 FR 44352
R&O | 08/19/14 | 79 FR 49160
Public Notice | 11/20/14 | 79 FR 69091
R&O | 01/27/15 | 80 FR 4446
2nd R&O | 02/04/15 | 80 FR 5961
Public Notice | 02/27/15 | 80 FR 10658
2nd FNPRM | 06/22/15 | 80 FR 40923
Next Action Undetermined

Regulatory Flexibility Analysis Required: Yes.

Agency Contact: Nakesha Woodward, Program Support Assistant, Federal Communications Commission, 445 12th Street SW., Washington, DC 20554, Phone: 202 418-1502, Email: kesha.woodward@fcc.gov.

RIN: 3060-AF85

520. 2000 Biennial Regulatory Review—Telecommunications Service Quality Reporting Requirements

Legal Authority: 47 U.S.C. 154(i) and 154(j); 47 U.S.C. 201(b); 47 U.S.C. 303(r); 47 U.S.C. 403

Abstract: The notice of proposed rulemaking (NPRM) proposed to eliminate our current service quality reports (Automated Reporting Management Information System (ARMIS) Report 43-05 and 43-06) and replace them with a more consumer-oriented report. The NPRM proposed to reduce the reporting categories from more than 30 to six, and addressed the needs of carriers, consumers, State public utility commissions, and other interested parties. On February 15, 2005, the Commission adopted an Order that extended the Federal-State Joint Conference on Accounting Issues until March 1, 2007. On September 6, 2008, the Commission adopted a Memorandum Opinion and Order granting conditional forbearance from the ARMIS 43-05 and 43-06 reporting requirements to all carriers that are required to file these reports.

Timetable:

Action | Date | FR Cite
NPRM | 12/04/00 | 65 FR 75657
Order | 02/06/02 | 67 FR 5670
Order | 03/22/05 | 70 FR 14466
MO&O | 10/15/08 | 73 FR 60997
Next Action Undetermined

Regulatory Flexibility Analysis Required: Yes.

Agency Contact: Cathy Zima, Deputy Chief, Industry Analysis Division, WCB, Federal Communications Commission, Wireline Competition Bureau, 445 12th Street SW., Washington, DC 20554, Phone: 202 418-7380, Fax: 202 418-6768, Email: cathy.zima@fcc.gov.

RIN: 3060-AH72

521. National Exchange Carrier Association Petition

Legal Authority: 47 U.S.C. 151 and 152; 47 U.S.C. 201 and 202; . . .

Abstract: In a Notice of Proposed Rulemaking (NPRM) released on July 19, 2004, the Commission initiated a rulemaking proceeding to examine the proper number of end user common line charges (commonly referred to as subscriber line charges or SLCs) that carriers may assess upon customers that obtain derived channel T-1 service where the customer provides the terminating channelization equipment and upon customers that obtain Primary Rate Interface (PRI) Integrated Service Digital Network (ISDN) service.

Timetable:

Action | Date | FR Cite
NPRM | 08/13/04 | 69 FR 50141
NPRM Comment Period End | 11/12/04 |
Next Action Undetermined

Regulatory Flexibility Analysis Required: Yes.

Agency Contact: Douglas Slotten, Attorney Advisor, Federal Communications Commission, Wireline Competition Bureau, 445 12th Street SW., Washington, DC 20554, Phone: 202 418-1572, Email: douglas.slotten@fcc.gov.

RIN: 3060-AI47

522. IP-Enabled Services; WC Docket No. 04-36

Legal Authority: 47 U.S.C. 151 and 152; . . .

Abstract: The notice seeks comment on ways in which the Commission might categorize or regulate IP-enabled services. It poses questions regarding the proper allocation of jurisdiction over each category of IP-enabled service. The notice then requests comment on whether the services comprising each category constitute “telecommunications services” or “information services” under the definitions set forth in the Act. Finally, noting the Commission's statutory forbearance authority and title I ancillary jurisdiction, the notice describes a number of central regulatory requirements (including, for example, those relating to access charges, universal service, E911, and disability accessibility), and asks which, if any, should apply to each category of IP-enabled services.

Timetable:

Action | Date | FR Cite
NPRM | 03/29/04 | 69 FR 16193
NPRM Comment Period End | 07/14/04 |
First R&O | 06/03/05 | 70 FR 37273
Public Notice | 06/16/05 | 70 FR 37403
First R&O Effective | 07/29/05 | 70 FR 43323
Public Notice | 08/31/05 | 70 FR 51815
R&O | 07/10/06 | 71 FR 38781
R&O and FNPRM | 06/08/07 | 72 FR 31948
FNPRM Comment Period End | 07/09/07 | 72 FR 31782
R&O | 08/06/07 | 72 FR 43546
Public Notice | 08/07/07 | 72 FR 44136
R&O | 08/16/07 | 72 FR 45908
Public Notice | 11/01/07 | 72 FR 61813
Public Notice | 11/01/07 | 72 FR 61882
Public Notice | 12/13/07 | 72 FR 70808
Public Notice | 12/20/07 | 72 FR 72358
R&O | 02/21/08 | 73 FR 9463
NPRM | 02/21/08 | 73 FR 9507
Order | 05/15/08 | 73 FR 28057
Order | 07/29/09 | 74 FR 37624
R&O | 08/07/09 | 74 FR 39551
Public Notice | 10/14/09 | 74 FR 52808
Announcement of Effective Date | 03/19/10 | 75 FR 13235
Public Notice | 05/20/10 | 75 FR 28249
Public Notice | 06/11/10 | 75 FR 33303
NPRM, Order, & NOI | 06/19/13 | 78 FR 36679
R&O (release date) | 06/22/15 |
Next Action Undetermined

Regulatory Flexibility Analysis Required: Yes.

Agency Contact: Melissa Kirkel, Attorney Advisor, Federal Communications Commission, Wireline Competition Bureau, 445 12th Street SW., Washington, DC 20554, Phone: 202 418-7958, Fax: 202 418-1413, Email: melissa.kirkel@fcc.gov.

RIN: 3060-AI48

523. Jurisdictional Separations

Legal Authority: 47 U.S.C. 151; 47 U.S.C. 154(i) and 154(j); 47 U.S.C. 205; 47 U.S.C. 221(c); 47 U.S.C. 254; 47 U.S.C. 403; 47 U.S.C. 410

Abstract: Jurisdictional separations is the process, pursuant to part 36 of the Commission's rules, by which incumbent local exchange carriers apportion regulated costs between the intrastate and interstate jurisdictions. In 1997, the Commission initiated a proceeding seeking comment on the extent to which legislative changes, technological changes, and market changes warrant comprehensive reform of the separations process. In 2001, the Commission adopted the Federal-State Joint Board on Jurisdictional Separations' recommendation to impose an interim freeze on the part 36 category relationships and jurisdictional cost allocation factors for a period of five years, pending comprehensive reform of the part 36 separations rules. In 2006, the Commission adopted an Order and Further Notice of Proposed Rulemaking, which extended the separations freeze for a period of three years and sought comment on comprehensive reform. In 2009, the Commission adopted a Report and Order extending the separations freeze an additional year to June 2010. In 2010, the Commission adopted a Report and Order extending the separations freeze for an additional year to June 2011. In 2011, the Commission adopted a Report and Order extending the separations freeze for an additional year to June 2012. In 2012, the Commission adopted a Report and Order extending the separations freeze for an additional two years to June 2014. In 2014, the Commission adopted a Report and Order extending the separations freeze for an additional three years to June 2017.

Timetable:

Action | Date | FR Cite
NPRM | 11/05/97 | 62 FR 59842
NPRM Comment Period End | 12/10/97 |
Order | 06/21/01 | 66 FR 33202
Order and FNPRM | 05/26/06 | 71 FR 29882
Order and FNPRM Comment Period End | 08/22/06 |
R&O | 05/15/09 | 74 FR 23955
R&O | 05/25/10 | 75 FR 30301
R&O | 05/27/11 | 76 FR 30840
R&O | 05/23/12 | 77 FR 30410
R&O | 06/13/14 | 79 FR 36232
Next Action Undetermined

Regulatory Flexibility Analysis Required: Yes.

Agency Contact: John Hunter, Attorney-Advisor, Federal Communications Commission, 445 12th Street SW., Washington, DC 20554, Phone: 202 418-1520, Email: john.hunter@fcc.gov.

RIN: 3060-AJ06

524. Service Quality, Customer Satisfaction, Infrastructure and Operating Data Gathering (WC Docket Nos. 08-190, 07-139, 07-204, 07-273, 07-21)

Legal Authority: 47 U.S.C. 151 to 155; 47 U.S.C. 160 and 161; 47 U.S.C. 20 to 205; 47 U.S.C. 215; 47 U.S.C. 218 to 220; 47 U.S.C. 251 to 271; 47 U.S.C. 303(r) and 332; 47 U.S.C. 403; 47 U.S.C. 502 and 503

Abstract: This notice of proposed rulemaking (NPRM) tentatively proposes to collect infrastructure and operating data that is tailored in scope to be consistent with Commission objectives from all facilities-based providers of broadband and telecommunications. Similarly, the NPRM also tentatively proposes to collect data concerning service quality and customer satisfaction from all facilities-based providers of broadband and telecommunications. The NPRM seeks comment on the proposals, on the specific information to be collected, and on the mechanisms for collecting information. On June 27, 2013, the Commission adopted a Report and Order addressing collection of broadband deployment data from facilities-based providers.

Timetable:

Action | Date | FR Cite
NPRM | 10/15/08 | 73 FR 60997
NPRM Comment Period End | 11/14/08 |
Reply Comment Period End | 12/15/08 |
NPRM | 02/28/11 | 76 FR 12308
NPRM Comment Period End | 03/30/11 |
Reply Comment Period End | 04/14/11 |
R&O | 08/13/13 | 78 FR 49126
Next Action Undetermined

Regulatory Flexibility Analysis Required: Yes.

Agency Contact: Cathy Zima, Deputy Chief, Industry Analysis Division, WCB, Federal Communications Commission, Wireline Competition Bureau, 445 12th Street SW., Washington, DC 20554, Phone: 202 418-7380, Fax: 202 418-6768, Email: cathy.zima@fcc.gov.

RIN: 3060-AJ14

525. Development of Nationwide Broadband Data To Evaluate Reasonable and Timely Deployment of Advanced Services to All Americans

Legal Authority: 15 U.S.C. 251; 47 U.S.C. 252; 47 U.S.C. 257; 47 U.S.C. 271; 47 U.S.C. 1302; 47 U.S.C. 160(b); 47 U.S.C. 161(a)(2)

Abstract: The Report and Order streamlined and reformed the Commission's Form 477 Data Program, which is the Commission's primary tool to collect data on broadband and telephone services.

Timetable:

Action | Date | FR Cite
NPRM | 05/16/07 | 72 FR 27519
Order | 07/02/08 | 73 FR 37861
Order | 10/15/08 | 73 FR 60997
NPRM | 02/08/11 | 76 FR 10827
Order | 06/27/13 | 78 FR 49126
Next Action Undetermined

Regulatory Flexibility Analysis Required: Yes.

Agency Contact: Ms Chelsea Fallon, Assistant Division Chief, Federal Communications Commission, 445 12th Street SW., Washington, DC 20554, Phone: 202 418-7991, Email: chelsea.fallon@fcc.gov.

RIN: 3060-AJ15

526. Local Number Portability Porting Interval and Validation Requirements (WC Docket No. 07-244)

Legal Authority: 47 U.S.C. 151; 47 U.S.C. 154(i); 47 U.S.C. 154(j); 47 U.S.C. 251; 47 U.S.C. 303(r)

Abstract: In 2007, the Commission released a Notice of Proposed Rulemaking in WC Docket No. 07-244. The Notice sought comment on whether the Commission should adopt rules specifying the length of the porting intervals or other details of the porting process. It also tentatively concluded that the Commission should adopt rules reducing the porting interval for wireline-to-wireline and intermodal simple port requests, specifically, to a 48-hour porting interval.

In the Local Number Portability Porting Interval and Validation Requirements First Report and Order and Further Notice of Proposed Rulemaking, released on May 13, 2009, the Commission reduced the porting interval for simple wireline and simple intermodal port requests, requiring all entities subject to its local number portability (LNP) rules to complete simple wireline-to-wireline and simple intermodal port requests within one business day. In a related Further Notice of Proposed Rulemaking (FNPRM), the Commission sought comment on what further steps, if any, the Commission should take to improve the process of changing providers.

In the LNP Standard Fields Order, released on May 20, 2010, the Commission adopted standardized data fields for simple wireline and intermodal ports. The Order also adopts the NANC's recommendations for porting process provisioning flows and for counting a business day in the context of number porting.

Timetable:

Action | Date | FR Cite
NPRM | 02/21/08 | 73 FR 9507
R&O and FNPRM | 07/02/09 | 74 FR 31630
R&O | 06/22/10 | 75 FR 35305
Public Notice | 12/21/11 | 76 FR 79607
Public Notice | 06/06/13 | 78 FR 34015
R&O | 05/26/15 | 80 FR 29978
Next Action Undetermined

Regulatory Flexibility Analysis Required: Yes.

Agency Contact: Melissa Kirkel, Attorney Advisor, Federal Communications Commission, Wireline Competition Bureau, 445 12th Street SW., Washington, DC 20554, Phone: 202 418-7958, Fax: 202 418-1413, Email: melissa.kirkel@fcc.gov.

RIN: 3060-AJ32

527. Implementation of Section 224 of the Act; a National Broadband Plan For Our Future (WC Docket No. 07-245, GN Docket No. 09-51)

Legal Authority: 47 U.S.C. 151; 47 U.S.C. 154(i); 47 U.S.C. 154(j); 47 U.S.C. 224

Abstract: In 2010, the Commission released an Order and Further Notice of Proposed Rulemaking that implemented certain pole attachment recommendations of the National Broadband Plan and sought comment regarding others. On April 7, 2011, the Commission adopted a Report and Order and Order on Reconsideration that sets forth a comprehensive regulatory scheme for access to poles, and modifies existing rules for pole attachment rates and enforcement.

Timetable:

Action | Date | FR Cite
NPRM | 02/06/08 | 73 FR 6879
FNPRM | 07/15/10 | 75 FR 41338
Declaratory Ruling | 08/03/10 | 75 FR 45494
R&O | 05/09/11 | 76 FR 26620
Next Action Undetermined

Regulatory Flexibility Analysis Required: Yes.

Agency Contact: Jonathan Reel, Attorney Advisor, Federal Communications Commission, Wireline Competition Bureau, 445 12th Street SW., Washington, DC 20554, Phone: 202 418-0637, Email: jonathan.reel@fcc.gov.

RIN: 3060-AJ64

528. Rural Call Completion; WC Docket No. 13-39

Legal Authority: 47 U.S.C. 151; 47 U.S.C. 154(i); 47 U.S.C. 201(b); 47 U.S.C. 202(a); 47 U.S.C. 218; 47 U.S.C. 220(a); 47 U.S.C. 257(a); 47 U.S.C. 403

Abstract: The recordkeeping, retention, and reporting requirements in the Report and Order improve the Commission's ability to monitor problems with completing calls to rural areas, and enforce restrictions against blocking, choking, reducing, or restricting calls. The Further Notice of Proposed Rulemaking sought comment on additional measures intended to further ensure reasonable and nondiscriminatory service to rural areas. The Report and Order applies new recordkeeping, retention, and reporting requirements to providers of long-distance voice service that make the initial long-distance call path choice for more than 100,000 domestic retail subscriber lines which, in most cases, is the calling party's long-distance provider. Covered providers are required to file quarterly reports and retain the call detail records for at least six calendar months. Qualifying providers may certify that they meet a Safe Harbor which reduces their reporting and retention obligations, or seek a waiver of these rules from the Wireline Competition Bureau, in consultation with the Enforcement Bureau. The Report and Order also adopts a rule prohibiting all originating and intermediate providers from causing audible ringing to be sent to the caller before the terminating provider has signaled that the called party is being alerted.

On February 13, 2015, the Wireline Competition Bureau provided additional guidance regarding how providers must request information. The Commission also adopted an Order on Reconsideration addressing petitions for reconsideration. Reports have been due quarterly beginning with the second quarter of 2015.

Timetable:

Action | Date | FR Cite
NPRM | 04/12/13 | 78 FR 21891
Public Notice | 05/07/13 | 78 FR 26572
NPRM Comment Period End | 05/28/13 |
R&O and FNPRM | 12/17/13 | 78 FR 76218
PRA 60 Day Notice | 12/30/13 | 78 FR 79448
FNPRM Comment Period End | 02/18/14 |
PRA Comments Due | 03/11/14 |
Public Notice | 05/06/14 | 79 FR 25682
Order on Reconsideration | 12/10/14 | 79 FR 73227
Erratum | 01/08/15 | 80 FR 1007
Public Notice | 03/04/15 | 80 FR 11954
Next Action Undetermined

Regulatory Flexibility Analysis Required: Yes.

Agency Contact: Richard B. Hovey, Telecom Policy and Technology Specialist, Federal Communications Commission, 445 12th Street SW., Washington, DC 20554, Phone: 202 418-2582, Email: richard.hovey@fcc.gov.

RIN: 3060-AJ89

529. Rates for Inmate Calling Services; WC Docket No. 12-375

Legal Authority: 47 U.S.C. 151; 47 U.S.C. 154(i) to (j); 47 U.S.C. 225; 47 U.S.C. 276; 47 U.S.C. 303(r); 47 CFR 64

Abstract: In the Report and Order portion of this document, the Federal Communications Commission adopts rule changes to bring high interstate inmate calling service (ICS) rates into compliance with the statutory mandate of being just, reasonable, and fair. In the Report and Order, the Commission requires that ICS rates be cost-based and concludes that site commission payments are not a cost of providing the ICS service. The Commission addresses ICS rates and adopts both interim safe harbor rates and per-minute interim interstate rate caps. The Commission requires that ancillary service charges be cost-based, and concludes that rates for the use of TTY equipment for the deaf and hard-of-hearing may not be any higher than rates for other ICS services. Finally, the Commission addresses collect-calling only requirements at correctional facilities, requires an annual certification filing, and initiates a mandatory data collection. In the Further Notice portion of the item, the Commission asks a number of questions about the future of ICS rate reform. In the Second Further Notice, the Commission asks additional questions about ICS rate reform including the regulation of intrastate ICS.

Timetable:

Action | Date | FR Cite
NPRM | 01/22/13 | 78 FR 4369
FNPRM | 11/13/13 | 78 FR 68005
R&O | 11/13/13 | 78 FR 67956
FNPRM Comment Period End | 12/20/13 |
Announcement of Effective Date | 06/20/14 | 79 FR 33709
2nd FNPRM | 11/21/14 | 79 FR 69682
2nd FNPRM Comment Period End | 01/15/15 |
2nd FNPRM Reply Comment Period End | 01/20/15 |
Next Action Undetermined

Regulatory Flexibility Analysis Required: Yes.

Agency Contact: Lynne H Engledow, Assistant Division Chief, Pricing Policy Division, Federal Communications Commission, Wireline Competition Bureau, 445 12th Street SW., Washington, DC 20554, Phone: 202 418-1520, Fax: 202 418-1567, Email: lynne.engledow@fcc.gov.

RIN: 3060-AK08

530. Comprehensive Review of the Part 32 Uniform System of Accounts (WC Docket No. 14-130)

Legal Authority: 47 U.S.C. 151; 47 U.S.C. 154(i); 47 U.S.C. 201(b); 47 U.S.C. 219; 47 U.S.C. 220

Abstract: The Commission initiates a rulemaking proceeding to review the Uniform System of Accounts (USOA) to consider ways to minimize the compliance burdens on incumbent local exchange carriers while ensuring that the agency retains access to the information it needs to fulfill its regulatory duties. In light of the Commission's actions in areas of price cap regulation, universal service reform, and intercarrier compensation reform, the Commission stated that it is likely appropriate to streamline the existing rules even though those reforms may not have eliminated the need for accounting data for some purposes. The Commission's analysis and proposals are divided into three parts. First, the Commission proposes to streamline the USOA accounting rules while preserving their existing structure. Second, the Commission seeks more focused comment on the accounting requirements needed for price cap carriers to address our statutory and regulatory obligations. Third, the Commission seeks comment on several related issues, including state requirements, rate effects, implementation, continuing property records, and legal authority.

Timetable:

Action | Date | FR Cite
NPRM | 09/15/14 | 79 FR 54942
NPRM Comment Period End | 11/14/14 |
NPRM Reply Comment Period End | 12/15/14 |
Next Action Undetermined

Regulatory Flexibility Analysis Required: Yes.

Agency Contact: Robin Cohn, Attorney Advisor, Federal Communications Commission, 445 12th Street SW., Washington, DC 20554, Phone: 202 418-2747, Email: robin.cohn@fcc.gov.

RIN: 3060-AK20

531. Protecting and Promoting the Open Internet; (WC Docket No. 14-28)

Legal Authority: 47 U.S.C. 151; 47 U.S.C. 151; 47 U.S.C. 154(i) to (j); 47 U.S.C. 201(b)

Abstract: In January of 2014, the D.C. Circuit in Verizon v. FCC struck down the no-blocking and no-unreasonable discrimination rules contained in the 2010 Open Internet Order, invalidating the Commission's attempt to create legally enforceable standards to preserve the open Internet. In response to Verizon, in May 2014, the Commission released a Notice of Proposed Rulemaking (2014 Open Internet NPRM) that sought comment on a fundamental question: What is the right public policy to ensure that the Internet remains open? After careful review of the record generated by the 2014 Open Internet NPRM, the Commission issued a combined Report and Order on Remand, Declaratory Ruling, and Order in this proceeding. The Report and Order established bright-line rules banning three specific practices that invariably harm the open Internet: Blocking, Throttling, and Paid Prioritization, and applied those rules to both fixed and mobile broadband Internet access service. In addition, the Report and Order put in place a general conduct standard to prevent a broadband service provider from unreasonably interfering with or disadvantaging the ability of end users to access content, applications, services or devices offered by edge providers. The Report and Order also strengthened the transparency rules that remained in place following Verizon.

In order to provide the best possible legal foundation for these rules, the Commission's Declaratory Ruling reclassified broadband Internet access service as a telecommunications service subject to title II of the Communications Act. Finally, in order to tailor title II to the 21st century broadband ecosystem, the Commission issued an Order forbearing from the majority of title II provisions, leaving in place a light-touch regime that will support regulatory action while simultaneously encouraging broadband investment, innovation, and deployment.

Timetable:

Action | Date | FR Cite
NPRM | 07/01/14 | 79 FR 37448
NPRM Comment Period End | 07/18/14 |
NPRM Reply Comment Period End | 09/15/14 |
R&O on Remand, Declaratory Ruling, and Order | 04/13/15 | 80 FR 19737
Next Action Undetermined

Regulatory Flexibility Analysis Required: Yes.

Agency Contact: Zachary Ross, Attorney Advisor, Competiton Policy Division, WCB, Federal Communications Commission, 445 12th Street SW., Washington, DC 20554, Phone: 202 418-1033, Email: zachary.ross@fcc.gov.

RIN: 3060-AK21

532. Emerging Wireline Networks and Services; GN Docket No. 13-5, WC Docket No. 05-25

Legal Authority: 47 U.S.C. 214; 47 U.S.C. 251; . . .

Abstract: This proceeding seeks to strengthen public safety, pro-consumer and pro-competition policies and protections in a manner appropriate for technology transitions that are underway and for networks and services that emerge from those transitions.The Notice of Proposed Rulemaking proposed new rules to ensure reliable backup power for consumers of IP-based voice and data services across networks that provide residential fixed service that substitutes for and improves upon the kind of traditional telephony used by people to dial 911. It also proposed new and revised rules to protect consumers by ensuring they are informed about their choices and the services provided to them when carriers retire legacy facilities (e.g., copper networks) and seek to discontinue legacy services (e.g., basic voice service). Finally, it proposed revised rules to protect competition where it exists today, so that the mere change of a network facility or discontinuance of a legacy service does not deprive small- and medium-size business, schools, libraries, and other enterprises of the ability to choose the kinds of innovative services that best suit their needs.

Timetable:

Action | Date | FR Cite
NPRM | 01/06/15 | 80 FR 450
NPRM Comment Period End | 02/05/15 |
NPRM Reply Comment Period End | 03/09/15 |
R&O (Release Date) | 08/06/15 |
Next Action Undetermined

Regulatory Flexibility Analysis Required: Yes.

Agency Contact: Michele Levy Berlove, Attorney Advisor, Federal Communications Commission, 445 12th Street SW., Washington, DC 20554, Phone: 202 418-1477, Email: michele.berlove@fcc.gov.

RIN: 3060-AK32

533. Modernizing Common Carrier Rules, WC Docket No 15-33

Legal Authority: 47 U.S.C. 151; 47 U.S.C. 152(a); 47 U.S.C. 154(j); 47 U.S.C. 154(i); 47 U.S.C. 160 to 161; 47 U.S.C. 201 to 205; 47 U.S.C. 214; 47 U.S.C. 218 to 221; 47 U.S.C. 225 to 228; 47 U.S.C. 254; 47 U.S.C. 303; 47 U.S.C. 308; 47 U.S.C. 403; 47 U.S.C. 410; 47 U.S.C. 571; 47 U.S.C. 1302; 52 U.S.C. sec 30141

Abstract: The Notice of Proposed Rulemaking (Notice) seeks to update our rules to better reflect current requirements and technology by removing outmoded regulations from the Code of Federal Regulations (CFR). The Notice proposes to update the CFR by (1) eliminating certain rules from which the Commission has forborn, and (2) eliminating references to telegraph service in certain rules. We propose to eliminate several rules from which the Commission has granted unconditional forbearance for all carriers. These are: (1) Section 64.804(c)-(g), which governs a carrier's recordkeeping and other obligations when it extends to federal candidates unsecured credit for communications service; (2) sections 42.4, 42.5, and 42.7, which require carriers to preserve certain records; (3) section 64.301, which requires carriers to provide communications service to foreign governments for international communications; (4) section 64.501, governing telephone companies' obligations when recording telephone conversations; (5) section 64.5001(a)-(c)(2), and (c)(4), which imposes certain reporting and certification requirements for prepaid calling card providers; and (6) section 64.1, governing traffic damage claims for carriers engaged in radio-telegraph, wire-telegraph, or ocean-cable service. We also propose to remove references to telegraph from certain sections of the Commission's rules. This proposal is consistent with Recommendation 5.38 of the Process Reform Report. Specifically, we propose to remove telegraph from: (1) Section 36.126 (separations); (2) section 54.706(a)(13) (universal service contributions); and (3) sections 63.60(c), 63.61, 63.62, 63.65(a)(4), 63.500(g), 63.501(g), and 63.504(k) (discontinuance).

Timetable:

Action | Date | FR Cite
NPRM | 05/06/15 | 80 FR 25989
Next Action Undetermined

Regulatory Flexibility Analysis Required: Yes.

Agency Contact: Randy Clarke, Chief, CPD, Wireline Competition Bureau, Federal Communications Commission, 445 12 Street SW., Washington, DC 20554, Phone: 202 418-1587, Email: randy.clarke@fcc.gov.

RIN: 3060-AK33

534. • Numbering Policies for Modern Communications, WC Docket No. 13-97

Legal Authority: 47 U.S.C. 151; 47 U.S.C. 153; 47 U.S.C. 154; 47 U.S.C. 201-205; 47 U.S.C. 251; 47 U.S.C. 303(r)

Abstract: This Order establishes a process to authorize interconnected VoIP providers to obtain North American Numbering Plan (NANP) telephone numbers directly from the Numbering Administrators, rather than through intermediaries. Section 52.15(g)(2)(i) of the Commission's rules limits access to telephone numbers to entities that demonstrate they are authorized to provide service in the area for which the numbers are being requested. The Commission has interpreted this rule as requiring evidence of either a state certificate of public convenience and necessity (CPCN) or a Commission license. Neither authorization is typically available in practice to interconnected VoIP providers. Thus, as a practical matter, generally only telecommunications carriers are able to provide the proof of authorization required under our rules, and thus able to obtain numbers directly from the Numbering Administrators. This Order establishes an authorization process to enable interconnected VoIP providers that choose direct access to request numbers directly from the Numbering Administrators. Next, the Order sets forth several conditions designed to minimize number exhaust and preserve the integrity of the numbering system.

The Order requires interconnected VoIP providers obtaining numbers to comply with the same requirements applicable to carriers seeking to obtain numbers. These requirements include any state requirements pursuant to numbering authority delegated to the states by the Commission, as well as industry guidelines and practices, among others. The Order also requires interconnected VoIP providers to comply with facilities readiness requirements adapted to this context, and with numbering utilization and optimization requirements. As conditions to requesting and obtaining numbers directly from the Numbering Administrators, interconnected VoIP providers are also required to: (1) Provide the relevant state commissions with regulatory and numbering contacts when requesting numbers in those states, (2) request numbers from the Numbering Administrators under their own unique OCN, (3) file any requests for numbers with the relevant state commissions at least 30 days prior to requesting numbers from the Numbering Administrators, and (4) provide customers with the opportunity to access all abbreviated dialing codes (N11 numbers) in use in a geographic area.

Finally, the Order also modifies Commission's rules in order to permit VoIP Positioning Center (VPC) providers to obtain pseudo-Automatic Number Identification (p-ANI) codes directly from the Numbering Administrators for purposes of providing E911 services.

Timetable:

Action | Date | FR Cite
NPRM | 06/19/13 | 78 FR 36725
NPRM Comment Period End | 07/19/13 |
R&O (Release Date) | 06/22/15 |
Next Action Undetermined

Regulatory Flexibility Analysis Required: Yes.

Agency Contact: Marilyn Jones, Attorney, Federal Communications Commission, Wireline Competition Bureau, 445 12th Street SW., Washington, DC 20554, Phone: 202 418-2357, Fax: 202 418-2345, Email: marilyn.jones@fcc.gov.

RIN: 3060-AK36

[FR Doc. 2015-30673 Filed 12-14-15; 8:45 am]

BILLING CODE 6712-01-P